DEPARTMENT OF THE INTERIOR

Fish and Wildlife Service

50 CFR Part 17

RIN 1018-AU80

Endangered and Threatened Wildlife and Plants; Designation of Critical Habitat for Arenaria ursina (Bear Valley Sandwort), Castilleja cinerea (Ash-gray Indian Paintbrush), and Eriogonum kennedyi var. austromontanum (Southern Mountain Wild-Buckwheat)

AGENCY: Fish and Wildlife Service, Interior.

ACTION: Final rule.

SUMMARY: We, the U.S. Fish and Wildlife Service (Service), are designating critical habitat for Arenaria ursina (Bear Valley sandwort), Castilleja cinerea (Ash-gray Indian paintbrush), and Eriogonum kennedyi var. austromontanum (southern mountain wild-buckwheat) under the Endangered Species Act of 1973, as amended (Act). In total, approximately 1,769 acres (ac) (722 hectares (ha)) of land fall within the boundaries of the critical habitat designations for these three species. Approximately 1,412 ac (571 ha) of Federal and private land are being designated as critical habitat for Arenaria ursina; approximately 1,769 ac (722 ha) of Federal, State, and private land are being designated as critical habitat for Castilleja cinerea; and approximately 904 ac (366 ha) of Federal and private land are being designated as critical habitat for Eriogonum kennedyi var. austromontanum. All lands included in these final designations are in San Bernardino County, California. These final designations include an addition of a total of 258 ac (111 ha) from the total area included in the 2006 proposed designations for these species.

DATES: This rule becomes effective on January 25, 2008.

FOR FURTHER INFORMATION CONTACT: Jim Bartel, Field Supervisor, Carlsbad Fish and Wildlife Office, at 6010 Hidden Valley Road, Carlsbad, CA 92011 (telephone 760/431-9440). Persons who use a telecommunications device for the deaf (TDD) may call the Federal Information Relay Service (FIRS) at 800-877-8339, 24 hours a day, 7 days a week. The final rule, economic analysis, and maps are available via the Internet at http://www.fws.gov/carlsbad/.

SUPPLEMENTARY INFORMATION:

Background

It is our intent to reiterate and discuss only those topics directly relevant to the development and designation of critical habitat or relevant information obtained since publication of the proposed critical habitat designations (71 FR 67712; November 22, 2006). This final rule addresses critical habitat for Arenaria ursina (Bear Valley sandwort), Castilleja cinerea (Ash-gray Indian paintbrush), and Eriogonum kennedyi var. austromontanum (southern mountain wild-buckwheat) (collectively referred to as “pebble plains plants”), because they largely occupy the same habitat, referred to as pebble plain habitat. For additional information on the taxonomy, description, biology, and ecology of each of these species, refer to the final rule listing them as threatened published in the Federal Register on September 14, 1998 (63 FR 49006) or the proposed critical habitat rule published in the Federal Register on November 22, 2006 (71 FR 67712).

Pebble Plain Habitat

No new substantial information pertaining to the “Pebble Plain Habitat” section in the proposed designation was received following publication of the 2006 proposed critical habitat designation for each species; therefore, please refer to the “Background” section of the proposed critical habitat designation published in the Federal Register on November 22, 2006 (71 FR 67712) for a discussion of pebble plain habitat.

Species Descriptions

No new substantial information pertaining to the “Species Descriptions” section in the proposed designation was received following our 2006 proposed critical habitat designation for each species; therefore, please refer to the “Background” section of the proposed critical habitat designation published in the Federal Register on November 22, 2006 (71 FR 67712) for a discussion of the species description of these three species.

Threats to Pebble Plains Habitat

No new substantial information pertaining to the “Threats to Pebble Plains Habitat” section in the proposed designation was received following the 2006 proposed critical habitat designation for each species; therefore, please refer to the “Background” section of the proposed critical habitat designation published in the Federal Register on November 22, 2006 (71 FR 67712) for a discussion of the threats to pebble plains habitat.

Previous Federal Actions

As discussed in the November 22, 2006, proposed rule (71 FR 67712), the Service agreed, as part of a settlement agreement, to submit to the Federal Register a proposed rule to designate critical habitat, if prudent, on or before November 9, 2006, and a final rule by November 9, 2007. We published a proposed critical habitat rule in the Federal Register on November 22, 2006 (71 FR 67712). We also published a notice of availability of the draft economic analysis of the November 22, 2006, proposed rule in the Federal Register on August 14, 2007 (72 FR 45407). This final rule completes our obligations under the April 14, 2005, settlement agreement regarding the subject species. For a discussion of additional previous Federal actions involving these three pebble plains plants, please see the listing rule (63 FR 49006; September 14, 1998) or the proposed critical habitat rule (71 FR 67712; November 22, 2006).

Summary of Comments and Recommendations

We requested comments from the public on the proposed designations of critical habitat for the pebble plains plants during two comment periods. The first comment period, associated with the publication of the proposed rule (71 FR 67712), opened on November 22, 2006, and closed on January 22, 2007. We did not receive any requests for a public hearing during this comment period. We also requested comments on the proposed rule and draft economic analysis (DEA) during a comment period that opened August 14, 2007 (72 FR 45407) and closed on September 13, 2007. We contacted appropriate Federal, State, and local agencies; scientific organizations; and other interested parties and invited them to comment on the proposed rule during these two comment periods.

During the first comment period, we received five comment letters directly addressing the proposed critical habitat designations: three from peer reviewers, one from a Federal agency, and one from an organization. During the second comment period, we received no comment letters addressing the proposed critical habitat designations or the draft economic analysis. Comments received during both comment periods are addressed in the following summary and incorporated into the final rule as appropriate.

Peer Review

In accordance with our policy published on July 1, 1994 (59 FR 34270), we solicited expert opinions from four knowledgeable individuals with scientific expertise that included familiarity with the species, the geographic region in which the species occurs, and conservation biology principles. We received responses from three of the four peer reviewers we requested comment from. Peer reviewer comments are addressed in the following summary and incorporated into the final rule as appropriate.

Peer Reviewer Comments

(1) Comment: One peer reviewer agreed with the proposed designations overall and stated that proposed critical habitat Units 1, 3, 5, and 9 essentially contain all of the pebble plains habitat for the subject taxa in those areas. However, this reviewer cited other pebble plains habitat occupied by one or more of the listed species that were overlooked by the designations.

Our Response: Many of the pebble plains listed by the peer reviewer as “overlooked” by the designations were also described (by the reviewer) as small, isolated pebble plains, within areas degraded by residential development. As discussed in the “Criteria Used to Identify Critical Habitat” section of the proposed rule, we worked closely with San Bernardino National Forest (SBNF) personnel with knowledge of pebble plains plants and habitats to identify critical habitat for each of the three listed pebble plains plants based on several criteria. Since the pebble plains identified by the reviewer and other pebble plains in these complexes were relatively small, isolated from other pebble plains, and/or degraded to some extent, they did not meet our criteria used to identify critical habitat for each species and therefore were not included in the proposed or these final designations (see “Criteria Used To Identify Critical Habitat” section below for a detailed discussion).

(2) Comment: One peer reviewer commented that proposed critical habitat Subunit 3A in Broom Flat [ppn. 311; ppn. = pebble plain number as identified in the USFS Pebble Plain Management Guide (USFS 2002)] is mapped such that, except for a sliver of an adjacent pebble plain (ppn. 274) supporting Arenaria ursina and Eriogonum kennedyi var. austromontanum, only Castilleja cinerea is captured.

Our Response: We appreciate the correction pertaining to pebble plain number 311 in proposed critical habitat Subunit 3A. We recognize that the great majority of Subunit 3A is occupied solely by Castilleja cinerea and have revised this final rule such that this subunit (ppn. 311) is designated as critical habitat only for C. cinerea, even though the other two listed plants occur in one small portion of this particular pebble plain (see “Summary of Changes from the Proposed Rule” and the “Unit Descriptions” sections below).

(3) Comment: One peer reviewer commented that pebble plains occupied by Castilleja cinerea located west of Wildhorse Meadow Road in the Sugarloaf Ridge complex should have been included in the proposed designation for C. cinerea because these areas represent a significant and distinctive population of this species, with shorter, maroon bracts, as opposed to C. cinerea in Big Bear and Holcomb Valley, which have broader, yellow-gold bracts. Another peer reviewer stated that two of the pebble plains identified in the previous peer reviewer's comment (ppn. 286 and 293) along Sugarloaf Ridge west of Wildhorse Meadow not included in the proposed designations support large and relatively undisturbed occurrences of C. cinerea at the highest known elevation and that such elevational extremes may be important for the conservation of the species where they represent genetic variation favorable to surviving long term environmental changes.

Our Response: We acknowledged in the proposed rule that the Sugarloaf Ridge complex contains occurrences of Castilleja cinerea that are morphologically distinct from occurrences in other complexes, and that these occurrences represent a unique portion of the range of environmental variability for these species and may be important for maintaining genetic diversity for the species. At the time of the proposed rule we believed that our proposal adequately represented the morphologically distinct form of C. cinerea within the Sugarloaf Ridge complex. Upon receipt of these peer reviewer comments, we reviewed the available information regarding the pebble plains in this area and determined that the two largest (of three) pebble plains west of Wildhorse Meadow Road Sugarloaf Ridge complex (ppn. 286 and 293) do, in fact, meet the definition of critical habitat for C. cinerea (see “Summary of Changes from the Proposed Rule” and the “Unit Descriptions” sections below). Including these two pebble plains in this designation increases the representation, resiliency, and redundancy of this morphologically distinct form of the species and the unique portion of the range of environmental variability for C. cinerea. We have, therefore designated these two pebble plains as critical habitat for C. cinerea. Furthermore, as commented on by a separate peer reviewer these two pebble plains support large and relatively undisturbed occurrences of C. cinerea, one (ppn 293) at the highest known elevation occupied by this species.

(4) Comment: One peer reviewer agreed with the description and characterization of each of the three listed pebble plains plants and their associated habitats. However, they suggested including Robinson, B.C. (1894) as the original description of Arenaria ursina. This reviewer also commented that proposed critical habitat Unit 3 (Gold Mountain) is described as being 88 acres (ac) (36 hectares (ha)) on page 67722 but 105 ac (42 ha) on page 67723 of the proposed rule.

Our Response: We appreciate the additional information. We have included Robinson (1894) in our administrative file for the designation of critical habitat for Arenaria ursina. Regarding the difference in area estimates given for proposed critical habitat Unit 3, the 88 acres (36 ha) discussed on page 67722 pertains to an early estimate of pebble plain habitat in the Gold Mountain complex (USFS 2002, pp. 32, 52). However, as discussed on page 67723 of the proposed rule, we used only the most recent and accurate information (SBNF 2004 Geographic Information System (GIS)) to delineate proposed critical habitat boundaries which indicates Unit 3 is 105 ac (42 ha).

(5) Comment: One peer reviewer provided additional information on threats, land-use designations, and why specific occurrences are essential to the conservation of the species for several pebble plains included in the proposed designations. This reviewer also stated that a well developed communication site on private land at Onyx Peak is within proposed Subunit 3B and that as a result, this area may lack the primary constituent elements (PCEs) required by the species.

Our Response: We appreciate the additional information provided on threats, land-use designations, and why specific occurrences are essential to the conservation of the species and have included this information in this final rule (please see the “Unit Descriptions” section). Regarding the communication site located within proposed Subunit 3B, as stated in the proposed rule, we tried to avoid including within the boundaries of the proposed critical habitat developed areas such as buildings, paved areas, and other structures that lack PCEs for the three listed species. However, the scale of the maps prepared may not reflect the exclusion of such developed areas. Any such structures and the land under them inadvertently left inside critical habitat boundaries shown on the maps of the proposed rule are excluded by text in this rule and are not considered to be critical habitat.

(6) Comment: One peer reviewer commented that the rule incorrectly states that Arenaria ursina and Castilleja cinerea were not known to occur at the time of listing on Sugarloaf Ridge. However, these occurrences have been known since the 1970's or earlier and fall within the following element occurrences in the California Natural Diversity Database (CNDDB) (A. ursina number 7 and C. cinerea numbers 4, 12, 13, and 14).

Our Response: We appreciate the correction and have revised this statement accordingly in this final rule (see the “Criteria Used To Identify Critical Habitat” and “Unit Descriptions” sections below).

(7) Comment: One peer reviewer suggested corrections and/or clarification of the following: (1) Our characterization of pebble plains habitat as “dry meadow-like” habitat, (2) references to Mojavean Desert scrub should be changed to Great Basin sagebrush, and (3) primary constituent element (PCE) 2 should be revised to clarify that the frost/heave process has more to do with excluding large/woody species from colonizing pebble plains than directly providing for the physiological requirements of the species.

Our Response: We responded to these comments in the following ways: (1) we characterized pebble plain habitat as “dry meadow-like” habitat to provide an additional description of this habitat type and to assist the public in visualizing what habitat comprised of “treeless openings surrounded by woodland or forest” looks like; (2) as noted by the reviewer, references to Mojavean Desert scrub in the proposed rule were based on the 2002 Pebble Plains Habitat Management Guide (Management Guide; USFS 2002). We have replaced references to this vegetation type throughout this final rule with “Great Basin sagebrush” as suggested; and (3) we revised the text of the PCE section and PCE 2 accordingly (see “Primary Constituent Elements” section below).

(8) Comment: One peer reviewer commented that relative to threats to the species outlined in the proposed rule, habitat loss through private land development remains the main cause of continued decline of these species while unauthorized motorized vehicle travel off of designated system routes continues to be the primary cause of pebble plain habitat degradation on U.S. Forest Service's (USFS) lands. This reviewer further stated that forest system road use and maintenance, mining activities, and dispersed recreation continue to have adverse ongoing effects to pebble plain habitat and the species it supports. However, the magnitude and severity of effects caused by these activities are relatively small compared to the effects of unauthorized motorized vehicle use.

Our Response: We appreciate the clarification and have revised the text of this final rule to emphasize that habitat loss is the primary threat to the three listed species on private land while unauthorized motorized vehicle travel off of designated system routes continues to be the primary threat to these species on Federal lands (see the “Special Management Considerations or Protection” section below).

(9) Comment: One peer reviewer commented that the proposed rule did not mention vegetation and fuels management, hazard tree removal, or wildfire suppression in the list of threats to pebble plains habitat. This reviewer commented that many pebble plains on USFS lands lie within the USFS Wildland-Urban Interface (WUI) defense zone and that unavoidable adverse impacts would be addressed through section 7 consultation.

Our Response: We appreciate the information and have included a discussion of vegetation and fuels management, hazard tree removal, and wildfire suppression activities as potential threats to these species' habitat in the WUI zone on USFS land in this final rule (see “Special Management Considerations or Protection” and “Unit Descriptions” sections below).

(10) Comment: One peer reviewer commented that the “Special Management Considerations or Protection” section fails to address the potential impacts to these three species from global climate change. Also, the “Special Management Considerations or Protection” section does not identify whether and how critical habitat could provide for long-term conservation for these species if climate change were to occur. This reviewer further stated that one reason that critical habitat could be viewed as a benefit to species' conservation is that the 11 identified units represent a range of habitat conditions for these species which could allow them to persist at least at some of the sites should conditions change toward one end of the gradient.

Our Response: We did not address the potential impacts of global climate change to these species in the proposed rule because we are not currently aware of any species-specific or geographic-specific information on this potential threat nor did the reviewer provide additional information on this threat regarding how it might impact these species or their habitat. However, as noted by the peer reviewer, we did include in the critical habitat designations pebble plain habitat representing a range of habitat conditions that could allow them to persist in the event of environmental change. For example, one of the criterions for areas proposed as critical habitat for Castilleja cinerea were areas containing unique habitat characteristics (see “Criteria Used to Identify Critical Habitat” section of the proposed rule). While not specifically identified as a criterion for inclusion in the proposed designations, areas containing Arenaria ursina or Eriogonum kennedyi var. austromontanum occurrences at the extremes of the species' geographic range (e.g., northernmost extent) or elevation range (highest or lowest elevation) were included in the proposed designations. We have revised the text to more clearly state the importance of conserving habitat representing a range of conditions that could allow these species to persist in the event of environmental change (see “Criteria Used to Identify Critical Habitat” section below).

(11) Comment: One peer reviewer and one public commenter stated that proposed Subunit 2B incorrectly describes the area proposed for designation as the former Snow Summit Ski Area, instead of the former Snow Forest Ski Area.

Our Response: We appreciate the correction and have replaced “Snow Summit Ski Area” with “Snow Forest Ski Area” in this final rule (see “Unit Descriptions” section below).

Public Comments

(12) Comment: One commenter stated strong support for designation of critical habitat for these species but expressed concern that the proposed rule fails to indicate why vast areas of pebble plain habitat where the species are documented to occur were not included in the proposed designations. The commenter requested justification as to why certain occurrences or areas were not included as proposed critical habitat, including: (a) specific extant occurrences that contain the PCEs, (b) specific occupied areas where only a small portion of the occurrence was included, and (c) specific occupied areas where most but not the entire known occurrence was included.

Our Response: The Act defines critical habitat as the specific areas within the geographical area occupied by the species at the time it is listed on which are found those physical and biological features (I) essential to the conservation of the species and (II) which may require special management considerations or protection; and specific areas outside the geographical area occupied by the species at the time it is listed upon a determination by the Secretary that such areas are essential for the conservation of the species. We believe that our proposed and final designations accurately describe all areas meeting the definition of critical habitat for Castilleja cinerea, Arenaria ursina and Eriogonum kennedyi var. austromontanum. As discussed in the proposed rule, we worked closely with SBNF personnel with knowledge of pebble plains plants and habitats to identify critical habitat for each of the three listed pebble plains plants based on several criteria (see “Criteria Used to Identify Critical Habitat” section of the proposed rule and this final rule). The areas delineated as critical habitat: (1) Support large or well-defined pebble plains or basins relative to other pebble plains in the complex; (2) support pebble plains least disturbed by anthropogenic threats (such as unauthorized vehicle use) relative to other pebble plains in the complex; (3) support areas containing unique habitat characteristics (e.g., soil type) or representing occurrences at the extremes of the species' geographic (e.g., northernmost extent) or elevational range (e.g., highest or lowest elevation); and (4) support morphologically unique species occurrences. Application of these criteria captures the physical and biological features that are essential to the conservation of the species, as identified in the species' primary constituent elements (PCEs), in the appropriate quantity and spatial arrangement essential for the conservation of all three species. Thus, not all areas supporting the identified PCEs will meet the definition of critical habitat.

We recognize that our designations do not encompass all known occurrences of any of the three pebble plains plants as noted by the commenter. According to 2004 GIS data provided to the Service by the SBNF, the SBNF has mapped almost 300 individual pebble plains on and adjacent to the SBNF. Many of the 300 mapped pebble plains are small, isolated pebble plains that are degraded by surrounding residential development. We have determined that these small, isolated, degraded pebble plains are not essential to the conservation of the pebble plains plants and our criteria as described above did not capture these pebble plains. Although we are not designating all known occurrences of any of the three pebble plants, we believe that our criteria, and therefore the designations, are adequate to ensure the conservation of all three species throughout their extant ranges based on the best available information at this time. Species and plant communities that are protected across their ranges are expected to have lower likelihoods of extinction (Soule and Simberloff 1986; Scott et al 2001, pp. 1297-1300); our criteria identified multiple locations across the entire range of each species as essential habitat to prevent range collapse. Genetic variation in plants can result from the effects of population isolation and adaptation to locally distinct environments (Lesica and Allendorf 1995, pp. 754-757; Fraser 2000, pp. 49-51; Hamrick and Godt, pp. 291-295); our criteria identified populations that occur in unique habitats within the species' ranges, as well as habitats that support morphologically unique occurrences, in order to capture the range of environmental gradients in which these species are found. Conserving such areas aids in preserving the genetic variation that may result from adaptation to local environmental conditions, as documented in other plant species (e.g., see Hamrick and Godt pp. 299-301; Millar and Libby 1991 pp. 150, 152-155). Furthermore, locations that possess unique ecological characteristics represent the full range of environmental variability where the pebble plains plants have evolved, and therefore are likely to promote the adaptation of these species to different environmental conditions.

The commenter is incorrect in their characterization of our proposal and designations in stating that there are cases where we did not include an entire extent of an occupied pebble plain that we determined met the definition of critical habitat. In all cases we included the entire extent of any identified pebble plain in the proposed designations as delineated in the SBNF's 2004 GIS data provided to the Service by the SBNF.

(13) Comment: One commenter indicated that the proposed designations for each of the three species are flawed because they do not include unoccupied habitat essential for recovery and that without such designated critical habitat these species' chances of persisting and recovering are greatly diminished.

Our Response: In our proposed rule, we did not identify any additional areas outside the geographical area occupied by Arenaria ursina, Eriogonum kennedyi var. austromontanum, and Castilleja cinerea at the time they were listed as essential for the conservation of these species. The Act defines critical habitat as the specific areas within the geographical area occupied by the species at the time it is listed on which are found those physical and biological features (I) essential to the conservation of the species and (II) which may require special management considerations or protection; and specific areas outside the geographical area occupied by the species at the time it is listed upon a determination by the Secretary that such areas are essential for the conservation of the species. As discussed in response to comment 12, we believe that our proposed rule and these final designations of critical habitat meet the requirements of the Act and our proposed and final designations accurately describe all areas essential to the conservation of C. cinerea, A. ursina and E. kennedyi var. austromontanum. Therefore, consistent with 50 CFR 424.12(e), we are not designating any areas outside the geographical area presently occupied by these species as we believe that this designation is adequate to ensure the conservation of the species.

These designations include all habitat areas currently determined to be necessary for these species' recovery. Critical habitat designations do not signal that habitat outside the proposed designation is unimportant or may not contribute to a species' recovery. Areas outside the final critical habitat designations will continue to be subject to conservation actions implemented under section 7(a)(1) of the Act, and regulatory protections afforded by the section 7(a)(2) jeopardy standard and the prohibitions of section 9 of the Act. Critical habitat designations based on the best available information at the time of designation will not control the direction and substance of future recovery plans, habitat conservation plans, or other species conservation planning efforts if information available at the time of these planning efforts calls for a different outcome. We recognize that the threats faced by these species may change in the future, however we base our critical habitat designations on the information available at the time of the designation and do not speculate as to what areas may be found essential if better information became available or what areas may become essential over time. The commenter did not include any specific data supporting their statement that unoccupied areas are essential for the recovery of any of the listed pebble plains plants and we are not aware of any studies or data that we did not consider. Should additional data become available concerning future threats to this species, we may revise this critical habitat designation if it is determined that the designation did not capture an area essential to the conservation of the species.

(14) Comment: The San Bernardino National Forest (SBNF) disagreed with our rationale for designating critical habitat on their lands due to concerns over ongoing unauthorized activities. They state that while they share our concerns and will continue to work to improve compliance with existing management direction within their budget capabilities, unauthorized activities are an enforcement issue that will not be improved by the designations of critical habitat.

Our Response: While we agree that the issue of unauthorized activities on USFS lands is an enforcement issue, we believe that the designations of critical habitat will benefit the three listed species in that it identifies those lands which are essential for the conservation of the species and can, if managed, provide for the conservation of each of the species.

(15) Comment: The SBNF commented that they have been proactive in contributing to both survival and recovery of these three listed species and have developed and implemented a Pebble Plain Habitat Management Guide (USFS 2002), which includes these three species, and are working closely with the Service on the development of a recovery plan. They further stated that they recently revised their Land Management Plan (LMP) to incorporate management direction that they believe provides sufficient protection and management for the pebble plain species and their habitat. They further stated that designations of critical habitat on SBNF lands would not provide any additional benefit to the conservation of the three listed species or their habitat since all site-specific projects proposed by the SBNF are subject to section 7(a)(2) consultation with the Service and that designation would unnecessarily add to their analysis burden by requiring SBNF to make a determination of effect regarding critical habitat when consulting under section 7 of the Act.

Our Response: As stated in the proposed rule, we acknowledge that the 2002 Management Guide (incorporated by reference into their revised LMP) was designed to provide management direction for the conservation of pebble plain habitat in the SBNF, to aid in recovery of the three federally-listed plants, and to improve conditions for Forest Sensitive species occurring in this habitat; the plan identifies the following management goals and actions necessary to reduce impacts to pebble plain habitat: protecting pebble plain habitat throughout its geographic range, reducing habitat loss and fragmentation, maintaining site viability, and encouraging compatible uses (USFS 2002, p. i). We appreciate and commend the efforts of the USFS to conserve federally listed species on their lands and recognize that the SBNF has completed many of the actions outlined in their 2002 Management Guide (USFS 2002) (incorporated by reference into their revised LMP) to avoid and minimize impacts to the three listed pebble plain species.

We have determined that Forest Service lands meet the definitions of critical habitat and are essential to the conservation of the three listed pebble plain species (see “Criteria Used to Identify Critical Habitat” and “Unit Descriptions” sections below). We acknowledge that the LMP will benefit the three listed pebble plain species and their habitat. The LMP contains general provisions for species conservation and suggests specific management and conservation actions that will benefit these species and their PCEs. Implementation of the LMP should address known threats to these species on Forest Service lands. As stated above, we appreciate and commend the efforts of USFS to conserve federally listed species on their lands. However, Federal agencies have an independent responsibility under section 7(a)(1) of the Act to use their programs in furtherance of the Act and to utilize their authorities to carry out programs for the conservation of endangered and threatened species. USFS' development and implementation of the LMP, and specifically the Pebble Plain Habitat Management Guide, is consistent with the agency's statutory obligation under section 7(a)(1) of the Act, and is not an appropriate basis for excluding essential habitat for the three listed pebble plain species on Forest Service lands from critical habitat designation.

The Secretary may exclude an area from critical habitat under section 4(b)(2) of the Act after taking into consideration the economic impact, the impact on national security and any other relevant impact if he determines that the benefits of such exclusion outweigh the benefits of specifying such area, unless he determines that the exclusion would result in the extinction of the species concerned. We have considered the request from USFS that we exclude their lands based on the burden that the critical habitat designation would add to their section 7(a)(2) consultation requirement for actions on their lands and the fact that they completed consultation under section 7(a)(2) of the Act on their LMP. The primary benefit of including an area within a critical habitat designation is the protection provided by section 7(a)(2) of the Act that directs Federal agencies to ensure that their actions do not result in the destruction or adverse modification of critical habitat. This benefit of designating an area as critical habitat is limited if the areas under consideration for designation occur on private lands for which there may not be a Federal nexus to invoke the protections of section 7(a)(2) of the Act. Federal lands by default have a Federal nexus and the intent of section 7 of the Act is to require Federal Agencies to consult on any action authorized, funded, or carried out by such agency to insure that the action will not jeopardize a listed species or destroy or adversely modify its critical habitat. Therefore, the benefits of inclusion of these areas are greater because they are Federal lands. We do not agree that any additional analysis required under section 7(a)(2) due to this critical habitat designation on Federal lands constitutes an undue burden for USFS such that the benefits of exclusion would outweigh the benefits of inclusion in this circumstance.

Under the Joint Counterpart Endangered Species Act Section 7 Consultation Regulations published in the Federal Register on December 8, 2003 (68 FR 68254), projects that support the National Fire Plan that the Forest Service determines are “not likely to adversely affect” any listed species or designated critical habitat do not require any additional consultation under the Act with the Service. Projects within the scope of the National Fire Plan include projects such as, prescribed fire, mechanical fuels treatments (thinning and removal of fuels to prescribed objectives), emergency stabilization, burned area rehabilitation, road maintenance and operation activities, ecosystem restoration, and culvert replacement actions. Therefore, projects such as restoration, revegetation, and removal of nonnative species conducted in support of the National Fire Plan that are not likely to adversely affect federally-listed species should not add to USFS' workload or cost burden by requiring them to conduct a separate analysis and make a determination of effect on critical habitat when consulting under section 7 of the Act.

Also, as part of our Section 7 consultation with the USFS on the LMP, the USFS has already consulted on various activities carried out on national forest lands including: roads and trail management; recreation management; special use permit administration; administrative infrastructure; fire and fuels management; livestock grazing and range management; minerals management; and law enforcement. In our 2005 biological opinion on the LMP, we determined that implementation of the plan was not likely to jeopardize the continued existence of the three listed pebble plain species. Since critical habitat has not been previously proposed or designated for any of these three species, it is anticipated that the consultation with the USFS regarding their current LMP will be reinitiated. However, because the USFS has already consulted with us on potential impacts to these species related to the activities outlined in the LMP, the USFS can supplement its analysis for those activities already analyzed in the LMP with the additional analysis required due to the designation of critical habitat. We do not believe that this additional analysis would place an undue burden on the USFS.

In conclusion, we are designating Forest Service lands that meet the definition of critical habitat for the three pebble plains plant species because we have determined that the exclusion of Forest Service lands is not appropriate in light of the USFS' independent obligation under section 7(a)(1) of the Act to utilize the agency's authorities in furtherance of the purposes of the Act by carrying out programs for the conservation of the three pebble plains plants. Also, because of the agency's statutory obligations, the additional analysis under section 7(a)(2) of the Act as a result of designation of critical habitat on National Forest lands should not be considered a relevant impact under Section 4(b)(2) or constitute an undue burden for USFS.

Comments Related to the Draft Economic Analysis (DEA)

(16) Comment: One commenter stated that the Service should include all occupied habitat in the economic analysis and the final designations and that we should not rely on the flawed proposed designations as the bases for the economic analysis.

Our Response: As discussed in the “Criteria Used to Identify Critical Habitat” section below, we worked closely with SBNF personnel with knowledge of pebble plains plants and habitats to identify critical habitat for each of the three listed pebble plains plants based on several criteria. We do not agree that the proposed designations are flawed, and it was appropriate to base the draft economic analysis on the areas included in the proposed rule.

Summary of Changes From the Proposed Rule

The following changes to the proposed designations of critical habitat for these three species were made in this final designation:

• We revised the final designations to include information (e.g., occurrence data, threats, site-specific land use designations) received during the public comment periods (see “Summary of Comments and Recommendations” section above).

• We revised the final designations to further clarify the PCEs for each species (see “Primary Constituent Elements” section below).

• We renumbered the units/subunits defined in the proposed critical habitat designation to clarify the areas being designated for each species. To accomplish this, we assigned each species a unique identifier consisting of the first two letters of the genus and species names (i.e., ARUR, CACI, and ERKA). Each pebble plain that is being designated as critical habitat for an individual species was assigned a number that was then paired with the unique identifier for that species. The pebble plains being designated as critical habitat for an individual species are numbered consecutively (ARUR1, ARUR2, ARUR3, etc). Table 1 below outlines how the proposed critical habitat units/subunits have been revised in this final rule. As part of this revision, we also provide maps identifying critical habitat and boundary descriptions for each species separately in this final rule (see “§ 17.96 Critical habitat—plants” section below). The renumbering of the critical habitat units for each species did not result in any changes to the unit boundaries as identified in the proposed designation.

• We revised the designation of proposed critical habitat Subunit 3A such that this pebble plain (ppn. 311) is now being designated as critical habitat for Castilleja cinerea (CACI 5) only (see “Table 1” and the “Unit Descriptions” sections below). A small sliver of this unit supports Arenaria ursina and Eriogonum kennedyi var. austromontanum. This sliver represents a small area of overlap between pebble plains 311 and 274. Although pebble plain 274 supports populations of A. ursina and E. kennedyi var. austromontanum, we previously determined that pebble plain 274 is not essential to the conservation of these two species. Because of this, and the fact that the vast majority of proposed Subunit 3A is occupied only by C. cinerea, no part of this unit (now referred to as CACI 5) is designated as critical habitat for Arenaria ursina or Eriogonum kennedyi var. austromontanum. This represents a reduction from the proposed rule in the overall area designated as critical habitat for each of these two species by 58 ac (23 ha).

• We re-evaluated lands in proposed critical habitat Subunit 8A in the Sawmill pebble plain complex (ppn. 236) (now referred to as ARUA 13, CACI 17, and ERKA 11 in this final rule) based on recent aerial imagery and determined that we inadvertently included in the proposed designations an area that is currently developed for residential use. We subsequently removed an approximately 8 ac (3 ha) area of private land from proposed critical habitat Subunit 8A (ppn. 236) from these final designations because this area does not contain the PCEs required by these species. Therefore, critical habitat for all three species was reduced by approximately 8 ac (3 ha) in this subunit. Other than the removal of these lands and the removal of proposed Subunit 3A for Arenaria ursina and Eriogonum kennedyi var. austromontanum mentioned above, no other significant changes were made to the areas proposed as critical habitat for these two species (see Table 1 below).

• In response to peer reviewer comments, we have clarified that identifying areas supporting morphologically unique species occurrences is a relevant factor in applying our criteria for determining critical habitat. A re-evaluation of habitat supporting pebble plains species based on information received from peer reviewers and in consideration of this factor identified two pebble plains not proposed as critical habitat (ppn. 286 and 293) (now referred to as CACI 23 and CACI 24 respectively) within the Sugarloaf Ridge complex west of Wildhorse Meadow Road. These two areas further represent pebble plains with a significant and distinctive population of C. cinerea, with shorter, maroon bracts, as opposed to C. cinerea in the rest of its range in Big Bear and Holcomb Valley, which have broader, yellow-gold bracts. Furthermore, the pebble plain 293 represent a unique and higher elevational range than those in other complexes. These occurrences represent a unique portion of the range of environmental variability for this species and may be important for maintaining genetic diversity for the species. Therefore, we are including CACI 23 (76 ac (31 ha)) and CACI 24 (190 ac (77 ha)) as critical habitat for C. cinerea only. This represents an increase from the proposed rule in the total amount of critical habitat designated from 1,511 ac (611 ha) to 1,769 ac (722 ha) (see Table 1 below).

• We are finalizing the taxonomic revision of the family for Castilleja cinerea from the Scrophulariaceae to Orobanchaceae (broomrape) family discussed in the proposed critical habitat rule. This final rule includes a change to the list of Endangered and Threatened Plants at 50 CFR 17.12(h) to reflect this taxonomic change. This taxonomic change was explained by Olmstead (2002, pp. 13-22) and is formally accepted here.

Table 1.—Changes in Unit/Subunit Numbers and Area (Acres (ac), Hectares (ha)) Between 2006 Proposed Critical Habitat and 2007 Final Critical Habitat for Arenaria ursina, Castilleja cinerea, and Eriogonum kennedyi var. austromontanum. The Abbreviation “PCH” Refers to the 2006 Proposed Critical Habitat Rule (71 FR 67712) and “FCH” Refers to This Final Critical Habitat Rule
[Area estimates reflect all land within critical habitat unit boundaries]
USFS Pebble plain No. (ppn)* | PCH Units or subunits | FCH Units for A. ursina | FCH Units for C. cinerea | FCH Units for E. k. var. austromontanum | PCH ac (ha) | FCH ac (ha)
100 | 1A | ARUR 1 | CACI 1 | ERKA 1 | 69 (28) | 69 (28)
87 | 1B | ARUR 2 | CACI 2 | ERKA 2 | 229 (93) | 229 (93)
248 | 2A | ARUR 3 | CACI 3 |  | 21 (9) | 21 (9)
254 | 2B | ARUR 4 | CACI 4 | ERKA 3 | 6 (2) | 6 (2)
311 | 3A |  | CACI 5 |  | 58 (23) | 58 (23)
285, 309 | 3B | ARUR 5 | CACI 6 |  | 326 (132) | 326 (132)
301 | 4A | ARUR 6 | CACI 7 | ERKA 4 | 15 (6) | 15 (6)
302 | 4B | ARUR 7 | CACI 8 | ERKA 5 | 24 (10) | 24 (10)
Juniper Point | 4C |  | CACI 9 |  | 2 (1) | 2 (1)
188 | 5A | ARUR 8 | CACI 10 | ERKA 6 | 62 (25) | 62 (25)
192 | 5B | ARUR 9 | CACI 11 | ERKA 7 | 43 (17) | 43 (17)
South Baldwin Meadow | 5C |  | CACI 12 |  | 0.3 (0.1) | 0.3 (0.1)
98, 109 | 6A | ARUR 10 | CACI 13 | ERKA 8 | 28 (11) | 28 (11)
153 | 6B | ARUR 11 | CACI 14 | ERKA 9 | 44 (18) | 44 (18)
128 | 7A | ARUR 12 | CACI 15 | ERKA 10 | 320 (129) | 320 (129)
168 | 7B |  | CACI 16 |  | 4 (2) | 4 (2)
236 | 8A | ARUR 13 | CACI 17 | ERKA 11 | 44 (18) | 36 (14)
224 | 8B | ARUR 14 | CACI 18 | ERKA 12 | 5 (2) | 5 (2)
270 | 9 |  | CACI 19 |  | 26 (10) | 26 (10)
212 | 10 | ARUR 15 | CACI 20 | ERKA 13 | 23 (9) | 23 (9)
294 | 11A | ARUR 16 | CACI 21 |  | 127 (51) | 127 (51)
289 | 11B | ARUR 17 | CACI 22 |  | 34 (14) | 34 (14)
286 |  |  | CACI 23 |  | 0 (0) | 76 (31)
293 |  |  | CACI 24 |  | 0 (0) | 190 (77)
Totals | 22 | 17 | 22 | 13 | 1,511 (611) | 1,769 (722)
* USFS Pebble Plain Management Guide (2002).

Critical Habitat

Critical habitat is defined in section 3 of the Act as:

(i) The specific areas within the geographical area occupied by a species, at the time it is listed in accordance with the Act, on which are found those physical or biological features

(I) Essential to the conservation of the species and

(II) Which may require special management considerations or protection; and

(ii) Specific areas outside the geographical area occupied by a species at the time it is listed, upon a determination that such areas are essential for the conservation of the species.

Conservation, as defined under section 3 of the Act, means the use of all methods and procedures that are necessary to bring any endangered species or threatened species to the point at which the measures provided under the Act are no longer necessary. Such methods and procedures include, but are not limited to, all activities associated with scientific resources management such as research, census, law enforcement, habitat acquisition and maintenance, propagation, live trapping, and transplantation, and, in the extraordinary case where population pressures within a given ecosystem cannot be otherwise relieved, may include regulated taking.

Critical habitat receives protection under section 7 of the Act through the prohibition against Federal agencies carrying out, funding or authorizing the destruction or adverse modification of critical habitat. Section 7(a)(2) of the Act requires consultation on Federal actions that may affect critical habitat. The designation of critical habitat does not affect land ownership or establish a refuge, wilderness, reserve, preserve, or other conservation area. Such designation does not allow the government or public to access private lands. Such designation does not require implementation of restoration, recovery, or enhancement measures by private landowners. Where a landowner requests Federal agency funding or authorization for an action that may affect a listed species or critical habitat, the consultation requirements of section 7(a)(2) would apply, but even in the event of a destruction or adverse modification finding, the landowner's obligation is not to restore or recover the species, but to implement reasonable and prudent alternatives to avoid destruction or adverse modification of critical habitat.

For inclusion in a critical habitat designation, the habitat within the geographical area occupied by the species at the time of listing must contain features that are essential to the conservation of the species, and be included only if those features may require special management considerations or protection. Critical habitat designations identify, to the extent known using the best scientific data available, habitat areas that provide essential life cycle needs of the species (i.e., areas on which are found the primary constituent elements, as defined at 50 CFR 424.12(b)).

Under the Act, we can designate areas outside the geographical area occupied by the species at the time it is listed as critical habitat only when we determine that those areas are essential for the conservation of the species.

Section 4 of the Act requires that we designate critical habitat on the basis of the best scientific and commercial data available. Further, our Policy on Information Standards Under the Endangered Species Act (published in the Federal Register on July 1, 1994 (59 FR 34271)), the Information Quality Act (section 515 of the Treasury and General Government Appropriations Act for Fiscal Year 2001 (Pub. L. 106-554; H.R. 5658)), and our associated Information Quality Guidelines provide criteria, establish procedures, and provide guidance to ensure that our decisions are based on the best scientific data available. They require our biologists, to the extent consistent with the Act and with the use of the best scientific data available, to use primary and original sources of information as the basis for recommendations to designate critical habitat.

When we are determining which areas should be proposed as critical habitat, our primary source of information is generally the information developed during the listing process for the species. Additional information sources may include the recovery plan for the species, articles in peer-reviewed journals, conservation plans developed by States and counties, scientific status surveys and studies, biological assessments, or other unpublished materials and expert opinion or personal knowledge.

Habitat is often dynamic, and species may move from one area to another over time. Furthermore, we recognize that critical habitat designated at a particular point in time may not include all of the habitat areas that we may later determine are necessary for the recovery of the species. For these reasons, a critical habitat designation does not signal that habitat outside the designated area is unimportant or may not promote the recovery of the species.

Areas that are important to the conservation of the species, but are outside the critical habitat designations, will continue to be subject to conservation actions implemented by Federal agencies under section 7(a)(1) of the Act. Areas that support populations are also subject to the regulatory protections afforded by the section 7(a)(2) jeopardy standard, as determined on the basis of the best available scientific information at the time of the agency action. Federally funded or permitted projects affecting listed species outside their designated critical habitat areas may still result in jeopardy findings in some cases. Similarly, critical habitat designations made on the basis of the best available information at the time of designation will not control the direction and substance of future recovery plans, habitat conservation plans (HCPs), or other species conservation planning efforts if information available at the time of these planning efforts calls for a different outcome.

Primary Constituent Elements (PCEs)

In accordance with section 3(5)(A)(i) of the Act and the regulations at 50 CFR 424.12, in determining which areas within the geographical area occupied at the time of listing to propose as critical habitat, we identify the physical or biological features essential to the conservation of the species based on its biological needs. We consider the physical or biological features that are essential to the conservation of the species to be the primary constituent elements laid out in the appropriate quantity and spatial arrangement for the conservation of the species (PCEs). These include, but are not limited to:

(1) Space for individual and population growth and for normal behavior;

(2) Food, water, air, light, minerals, or other nutritional or physiological requirements;

(3) Cover or shelter;

(4) Sites for breeding, reproduction, and rearing (or development) of offspring; and

(5) Habitats that are protected from disturbance or are representative of the historic, geographical, and ecological distributions of a species.

We derive the specific primary constituent elements required for Arenaria ursina, Castilleja cinerea, and Eriogonum kennedyi var. austromontanum from the biological needs described in the Background section of the proposed rule (71 FR 67712; November 22, 2006). They include those habitat components essential for the biological needs of each species, including seed germination and seedling growth, flower production, pollination, fruit production and seed set, and genetic exchange.

Space for Individual and Population Growth and Normal Behavior; Food, Water, Air, Light, Minerals, or other Nutritional or Physiological Requirements

Arenaria ursina, Castilleja cinerea, and Eriogonum kennedyi var. austromontanum require pebble plains habitat in dry meadow-like openings within upper montane coniferous forest, pinyon-juniper woodlands, or Great Basin sagebrush at elevations between 5,900 to 9,800 feet (ft) (1,830 to 2,990 meters (m)) for individual and population growth (PCE 1).

These typically treeless openings are the result of a combination of soil and climatic factors that support an assemblage of plant species found only in the San Bernardino Mountains, California (USFS 2002, p. 12). Frost heaving and alternating wet and dry cycles force associated quartzite pebbles to the soil surface in areas of shallow clay deposits (PCE 2) to create the characteristic appearance of the pebble plains (Derby 1979, p. 61; Krantz 1983, p. 10; USFS 2002, p. 22). These soils have an extremely slow infiltration rate and, thus, have a high runoff potential (Neel and Barrows 1990, p. 8).

The establishment of tree species on pebble plains appears to be limited primarily by high clay content in the soil (Derby 1979, p. 74). However, the frost heave process that forces quartzite pebbles to the soil surface, creating the characteristic appearance of the pebble plains, also excludes large woody species from colonizing (Eliason 2006). Trees that become established alter the surrounding microhabitat by increasing leaf litter and shading and probably reducing temperature extremes (USFS 2002, p. 15). The increase in leaf litter under trees appears to reduce the densities of all three of the listed pebble plains plants and increase tree and shrub seedlings under the tree canopy (Derby 1979, p. 72). Pebble plain species flourish in their specific environment, but they cannot compete with other plant species adapted to shaded areas, or areas where heavy litter layers accumulate (USFS 2002, p. 15).

Pebble plains are typified by the presence of one or more of the following associated species: Ivesia argyrocoma, Eriogonum kennedyi var. kennedyi, Allium parryi, Antennaria dimorpha, Arabis parishii, Astragalus purshii var. lectulus, Dudleya abramsii var. affinis, Echinocereus engelmannii, Erigeron aphanactis var. congestus, Eriogonum wrightii var. subscaposum, Lewisia rediviva var. minor, and Mimulus purpureus.

In addition to pebble plain habitat, Castilleja cinerea is also found in dry meadow margin areas that lack either Arenaria ursina and or Eriogonum kennedyi var. austromontanum and quartzite pebbles or cobbles. However, as a semi-parasitic perennial plant, this root-parasite requires host plant species found in pebble plain habitat (E. kennedyi var. austromontanum, E. kennedyi. var. kennedyi, and E. wrightii var. subscaposumon) and host plant species found in both pebble plain and non-pebble plain habitat (Artemisia tridentata, A. nova, and E. wrightii var. subscaposumon) for individual and population growth and for its nutritional and physiological requirements (PCE 3) (USFS 2002, p. 92).

Sites for Reproduction, Germination, Seed Dispersal, or Pollination

While pollination (via selfing, wind, or insect) is important for maintaining genetic diversity within a pebble plain (Duffield 1972, pp. 110-114; O'Brien 1979, pp. 67, 82, 97, 99; Freas and Murphy 1990, p. 6), limited research indicates that little genetic material is exchanged among pebble plains (Freas and Murphy 1990, pp. 6-8). According to Freas and Murphy (1990, p. 6), observed pollen transfer distances were less than 13 ft (4 m).

Primary Constituent Elements for Arenaria ursina, Eriogonum kennedyi var. austromontanum and Castilleja cinerea

Within the geographical area occupied by Arenaria ursina, Castilleja cinerea, and Eriogonum kennedyi var. austromontanum at the time of listing, we must identify the PCEs that may require special management considerations or protection. All areas designated as critical habitat for each taxon are currently occupied, within the taxon's historical geographic range, and contain sufficient PCEs to support at least one life history function.

Based on our current knowledge of the life history, biology, and ecology of each of the species and the requirements of the habitat to sustain their essential life history functions, we have determined that the PCEs for Arenaria ursina and Eriogonum kennedyi var. austromontanum are:

(1) Pebble plains in dry meadow-like openings within upper montane coniferous forest, pinyon-juniper woodlands, or Great Basin sagebrush in the San Bernardino Mountains of San Bernardino County, California; at elevations between 5,900 to 9,800 ft (1,830 to 2,990 m) that provide space for individual and population growth, reproduction and dispersal; and

(2) Seasonally wet clay, or sandy clay soils, generally containing quartzite pebbles, subject to natural hydrological processes that include water hydrating the soil and freezing in winter and drying in summer causing lifting and churning of included pebbles, that provide space for individual and population growth, reproduction and dispersal, adequate water, air, minerals, and other nutritional or physiological requirements to the species.

Based on our current knowledge of the life history, biology, and ecology of the species and the requirements of the habitat to sustain its essential life history functions, we have determined that the PCEs for Castelleja cinerea are:

(1) Pebble plains in dry meadow-like openings, or non-pebble plain dry meadow margin areas, within upper montane coniferous forest, pinyon-juniper woodlands, or Great Basin sagebrush in the San Bernardino Mountains of San Bernardino County, California; at elevations between 5,900 to 9,800 ft (1,830 to 2,990 m) that provide space for individual and population growth, reproduction and dispersal;

(2) Seasonally wet clay, or sandy clay soils, generally containing quartzite pebbles, subject to natural hydrological processes that include water hydrating the soil and freezing in winter and drying in summer causing lifting and churning of included pebbles, or seasonally wet silt or saline clay soils in non-pebble plain dry meadow margin areas that provide space for individual and population growth, reproduction and dispersal, adequate water, air, minerals, and other nutritional or physiological requirements to the species; and

(3) The presence of one or more of its known host species, such as Eriogonum kennedyi var. austromontanum, E. kennedyi. var. kennedyi, and E. wrightii var. subscaposumon in pebble plain habitat and species such as Artemisia tridentata, A. nova, and E. wrightii var. subscaposumon in pebble plain and non-pebble plain meadow margin habitat that provide some of the physiological requirements for this species.

Special Management Considerations or Protection

When designating critical habitat, we assess whether the areas within the geographical area occupied by the species at the time of listing contain features that are essential to the conservation of the species and that may require special management considerations or protection.

As stated in the final listing rule, threats to all three listed pebble plains plants throughout their range include land development, off-highway vehicle (OHV) use off of designated routes, road maintenance activities, ground disturbance that affects surface hydrology, mining activities, recreational activities, and nonnative plant species (63 FR 49006; September 14, 1998). Pebble plain habitat is also threatened by vegetation and fuels management, hazard tree removal, and wildfire suppression activities (Eliason 2006). However, of the above threats, land development remains the primary cause of habitat loss on private lands; while on Federal lands, OHV use off of designated routes has historically been, and continues to be, the most significant threat to pebble plains habitat. Increasing residential populations adjacent to pebble plains habitat on private and Federal lands has also resulted in degradation of habitat, as dispersed recreation and unauthorized OHV use increases (Eliason 2006). Also, while forest system road use and maintenance, mining activities, and dispersed recreation continue to have adverse ongoing effects to pebble plain habitat and the species it supports, the magnitude and severity of effects caused by these activities are relatively small compared to the effects of unauthorized motorized vehicle use (Eliason 2006). The primary constituent elements for the listed pebble plains plants may require special management considerations or protection to minimize impacts associated with, (1) vehicle use and road maintenance; (2) recreational activities; and (3) the presence of nonnative species (63 FR 49006, September 14, 1998; USFS 2002, p. 17; USFS 2005, pp. 207, 249, 293).

All of the pebble plain complexes have some degree of impact associated with the USFS-authorized and unauthorized use of vehicles and associated road maintenance (USFS 2002, pp. 20, 25, 30-68). Vehicle use and road maintenance could introduce invasive, nonnative plants, increase the potential for unauthorized routes to develop (leading to the crushing and burying of individual plants and soil compaction), and cover individuals with dust and mud that can impair physiological functions (USFS 2002, p. 20; Service 2005, pp. 233, 238, 243).

Along with soil compaction, soil erosion resulting from vehicle use could significantly alter the soil composition required by the listed species (PCE 2). During the wet season, vehicle traffic directly disturbs or destroys vegetation and creates deep ruts that change the hydrological patterns over the pebble plain (USFS 2002, p. 20). Vehicle traffic also increases breakdown in natural soil aggregates (structure) (Sadler, pers. comm. 1989 cited in USFS 2002, p. 22). Changes in the hydrological pattern associated with a pebble plain could alter the soil composition by allowing for erosion of clay sediments during rainfall events, leaving only large cobbles and pebbles (PCE 2). These changes to the soil morphology and composition could result in alterations to the vegetation structure and composition of the area, allowing for the invasion of native and nonnative plant species that could out-complete the listed species for space and resources and further alter the soil composition by increasing organic debris (PCEs 1, 2, and 3).

Vegetation and fuels management, hazard tree removal, and wildfire suppression activities may also threaten pebble plain habitat. Many pebble plains are located within the USFS’ Wildland-Urban Interface (WUI) defense zone. The focus of the WUI zone is on community protection through fuels management activities (e.g., mechanical treatments, prescribed fire, construction of fuel breaks, and/or selective use of herbicides for management of fuelbreaks and defensible space) (USFS 2005). Ground disturbance associated with fire suppression activities could result in changes to the soil morphology and composition which could in turn lead to changes in the vegetation structure and composition of the area, allowing for the invasion of native and nonnative plant species that could out-complete the listed species for space and resources and further alter the soil composition by increasing organic debris (PCEs 1, 2, and 3).

The invasion of nonnative plant species can result in crowding, overshadowing, and altering fuel loads and hydrology (USFS 2002, p. 25). While fire has not been considered an important factor in shaping the pebble plain community, the establishment of an introduced species, such as cheatgrass (Bromus tectorum), might provide the fine fuels to allow fire to spread more readily and result in alterations to the composition and structure of the pebble plain community (USFS 2002, pp. 19-20). Pebble plain species flourish in their specific environment, but they cannot complete with other plant species adapted to shaded areas or sites where heavy litter layers accumulate (USFS 2002, p. 15). The invasion of nonnative species may alter the soil composition (PCE 2) or cause an increase in the amount of leaf litter, allowing for the eventual encroachment of adjacent native shrub and tree species into the pebble plain, and diminishing the habitat available to pebble plain obligate species and host species (PCEs 1 and 3). Derby (1979, p. 72) found lower densities of all three of the listed species in pebble plain areas where leaf litter was abundant under trees.

The USFS prepared the 2002 Management Guide (USFS 2002, p. i) as an update to the 1990 Pebble Plain Habitat Management Guide and Action Plan by Neal and Barrows. The 2002 Management Guide was designed to provide management direction for the conservation of pebble plain habitat in the SBNF, to aid in recovery of the three federally listed plants, and to improve conditions for Forest sensitive species occurring in this habitat. The 2002 Management Guide identifies the following management goals necessary to reduce impacts to pebble plain habitat—protecting pebble plain habitat throughout its geographic range, reducing habitat loss and fragmentation, maintaining site viability, and encouraging compatible uses (USFS 2002, p. i).

The USFS has completed many of the actions outlined in the plan to avoid and minimize impacts to the three listed pebble plain species including, but not limited to permanently closing some roads bisecting pebble plains, installing fencing or gates along some roads to prevent unauthorized access onto adjacent pebble plains, establishing alternate trails, adding law enforcement patrols, relocating special events out of pebble plain habitat, and posting of signs to keep vehicles out of sensitive habitat; however, ongoing unauthorized vehicle use is still occurring in all of the pebble plain complexes (USFS 2002, pp. 30-68). See the “Unit Descriptions” section for a discussion of the special management considerations or protection that may be needed for each unit being designated as critical habitat.

Criteria Used To Identify Critical Habitat

As required by section 4(b)(1)(A) of the Act, we use the best scientific and commercial data available in determining areas that contain the features essential to the conservation of Arenaria ursina, Castilleja cinerea, and Eriogonum kennedyi var. austromontanum. Species and plant communities that are protected across their ranges are expected to have lower likelihoods of extinction (Soule and Simberloff 1986; Scott et al. 2001, pp. 1297-1300); therefore, essential habitat should include multiple locations across the entire range of the species to prevent range collapse and contribute to recovery of the species. Conserving habitat variability throughout the range of each species is important as it represents a large range of species diversity and genetic variability, the preservation of which is likely to ensure the conservation of those pebble plains, and the species within them, that are most likely to persist under future environmental conditions and contribute to species recovery. We included the range of plant communities, soil types, and elevational gradients in which Arenaria ursina, Castilleja cinerea, and Eriogonum kennedyi var. austromontanum are found to preserve the genetic variation that may result from adaptation to local environmental conditions, as documented in other plant species (e.g., see Hamrick and Godt pp. 299-301; Millar and Libby 1991 pp. 150, 152-155). Locations that possess unique ecological characteristics are those that represent the full range of environmental variability where Arenaria ursina, Castilleja cinerea, and Eriogonum kennedyi var. austromontanum have evolved, and therefore are likely to promote the adaptation of the species to different environmental conditions and contribute to species recovery. Finally, Ciano (1984, p. 14) examined species variability on pebble plains in relation to island biogeography theory and found that the number of species within a pebble plain increased with the size of the pebble plain and decreased as distance from other pebble plains increased; thus larger pebble plains located closer to other pebble plains had higher species diversity. Therefore, we included the larger pebble plains within a complex that were proximal to other relatively large pebble plains occupied by the listed species in order to capture areas with presumably higher overall pebble plain plant species diversity important for maintaining genetic variability. Over half (13 of 22) of the pebble plains being designated as critical habitat contain all three of the listed species.

For the purposes of this rule, within the geographical area occupied “at the time of listing” is defined as those occurrences or areas identified in the final listing rule (63 FR 49006; September 14, 1998) or those areas determined to be occupied at the time of listing according to occupancy data in our files (CNDDB 1997a, 1997b, 1997c) (see the “Background” section and Table 1 in the 2006 proposed rule for a detailed discussion of occupancy (71 FR 67712; November 22, 2006). In the 2006 proposed rule, we stated that pebble plains in Sugarloaf Ridge were not occupied at the time of listing. However, a peer reviewer commented that that pebble plains in this complex have been occupied by Arenaria ursina and Castilleja cinerea since the 1970's or earlier (see Comment 6 above). Therefore, we consider all extant pebble plain complexes, and therefore all extant pebble plains, to have been occupied at the time of listing and to be currently occupied.

In determining the extent of lands necessary to ensure the conservation and persistence of this species, we worked with SBNF personnel with knowledge of pebble plains plants and habitats and identified pebble plains within each of the 12 occupied pebble plain complexes that met our criteria. Based on our review of the best available information regarding the conservation needs of these species, we applied the following criteria when analyzing pebble plains that were occupied at the time of listing to determine the specific areas on which are found those physical or biological features essential to the conservation of the species and which may require special management considerations or protection: (1) Areas containing the PCEs; (2) large or well-defined pebble plains or basins relative to other pebble plains in the complex; (3) pebble plains containing high quality habitat [least disturbed by anthropogenic threats (such as unauthorized vehicle use)] relative to other pebble plains in the complex; (4) areas containing unique habitat characteristics (e.g., soil type) or representing occurrences at the extremes of the species' geographic (e.g., northernmost extent) or elevational range (e.g., highest or lowest elevation); and (5) areas supporting morphologically unique species occurrences.

The above criteria identified at least two pebble plains in each pebble plain complex for inclusion in the designation. Application of these criteria captures the PCEs for these species in the appropriate quantity and spatial arrangement that comprises the physical and biological features that are essential to the conservation of the species. We have determined that the identified pebble plains support habitat throughout the range of each species and represent the range of habitat and environmental variability for each species. Furthermore, the identified pebble plains also capture morphologically distinct species occurrences and, although a genetic analysis of the pebble plains plants is not available, the criteria likely capture the species diversity and genetic variability of each of the listed pebble plains plants. The identified pebble plains, if managed for threats, are adequate to ensure the conservation of each of the listed pebble plains plants. Therefore, we did not identify any areas outside the geographical area occupied by each pebble plains species at the time of listing that are essential for the conservation of the species.

To delineate the critical habitat boundaries associated with habitat occupied by the listed species, we relied on GIS data provided by the SBNF. San Bernardino National Forest personnel mapped pebble plain and some non-pebble plain habitat on SBNF lands for the Management Guide (USFS 2002) using a combination of 1:10,000 air photos, 1:24,000 orthographic photos, 1:24,000 topographic maps, and ground-truthing with global positioning system (GPS) units (USFS 2002, p. 30). We also worked with SBNF personnel with species and habitat expertise to determine the status of pebble plains being considered for designation (habitat quality and land ownership).

When determining the critical habitat boundaries for this final rule, we made every effort to avoid including developed areas such as lands covered by buildings, pavement, and other structures because such lands lack PCEs for Arenaria ursina, Castilleja cinerea, and Eriogonum kennedyi var. austromontanum. The scale of the maps we prepared under the parameters for publication within the Code of Federal Regulations may not reflect the exclusion of such developed lands. Any such lands inadvertently left inside critical habitat boundaries shown on the maps of this critical habitat rule have been excluded by text in this final rule. Therefore, a Federal action involving these lands would not trigger section 7 consultation, with respect to critical habitat and the requirement of no adverse modification unless the specific action may affect adjacent critical habitat.

Critical Habitat Designation

We are designating as critical habitat approximately 1,412 ac (571 ha) of Federal and private land for Arenaria ursina; approximately 1,769 ac (722 ha) of Federal, State, and private land for Castilleja cinerea; and approximately 904 ac (366 ha) of Federal and private land for Eriogonum kennedyi var. austromontanum. Tables 2, 3, and 4 below provide the approximate area and landownership of each unit designated as critical habitat for Arenaria ursina (Table 2), Castilleja cinerea (Table 3), and Eriogonum kennedyi var. austromontanum (Table 4). Since these species often co-occur in the same pebble plains, the total area being designated as critical habitat for each species will not equal the total area being designated for all three species combined due to some areas being designated for more than a single species.

The critical habitat areas described below constitute our best assessment at this time of areas determined to be within the geographical area occupied at the time of listing by Arenaria ursina (Table 2), Castilleja cinerea (Table 3), and/or Eriogonum kennedyi var. austromontanum (Table 4) and that contain PCEs that may require special management considerations or protection.

Table 2.—Final Critical Habitat (Acres (ac), Hectares (ha)) and Landownership for Arenaria ursina.
[Area estimates reflect all land within critical habitat unit boundaries]
Units for A. ursina | USFS Pebble Plain No. (ppn.)* | Critical Habitat ac (ha) | Landowner
ARUR 1 | 100 | 69 (28) | USFS. ¹
ARUR 2 | 87 | 229 (93) | USFS.
ARUR 3 | 248 | 21 (9) | USFS.
ARUR 4 | 254 | 6 (2) | USFS.
ARUR 5 | 285, 309 | 326 (132) | USFS (255 ac (103 ha)). Private ² (71 ac (29 ha)).
ARUR 6 | 301 | 15 (6) | USFS.
ARUR 7 | 302 | 24 (10) | USFS.
ARUR 8 | 188 | 62 (25) | USFS.
ARUR 9 | 192 | 43 (17) | USFS.
ARUR 10 | 98, 109 | 28 (11) | USFS (22 ac (9 ha)). Private ³ (6 ac (2 ha)).
ARUR 11 | 153 | 44 (18) | USFS.
ARUR 12 | 128 | 320 (129) | USFS.
ARUR 13 | **236 | 36 (14) | USFS (15 ac (6 ha)). Private (21 ac (8 ha)).
ARUR 14 | 224 | 5 (2) | Private.
ARUR 15 | 212 | 23 (9) | USFS.
ARUR 16 | 294 | 127 (51) | USFS.
ARUR 17 | 289 | 34 (14) | USFS.
17 | Total | 1,412 ac (571 ha).
* The abbreviation “ppn.” refers to the pebble plain number identified in the Management Guide (USFS 2002).
** The removal of 8 ac (3 ha) of private land from this unit represents an area change from the proposed designation.
¹ USFS = U.S. Forest Service (lands in the San Bernardino National Forest);
² Private = The Wildlands Conservancy.
³ Private = The Boy Scouts of America.

Table 3.—Final Critical Habitat (Acres (ac), Hectares (ha)) and Landownership for Castilleja cinerea.
[Area estimates reflect all land within critical habitat unit boundaries]
Units for C. cinerea | USFS Pebble Plain No. (ppn.)* | Critical Habitat ac (ha) | Landowner
CACI 1 | 100 | 69 (28) | USFS ¹
CACI 2 | 87 | 229 (93) | USFS.
CACI 3 | 248 | 21 (9) | USFS.
CACI 4 | 254 | 6 (2) | USFS.
CACI 5 | 311 | 58 (23) | USFS.
CACI 6 | 285, 309 | 326 (132) | USFS (255 ac (103 ha)). Private ² (71 ac (29 ha)).
CACI 7 | 301 | 15 (6) | USFS.
CACI 8 | 302 | 24 (10) | USFS.
CACI 9 | Juniper Point | 2 (1) | USFS.
CACI 10 | 188 | 62 (25) | USFS.
CACI 11 | 192 | 43 (17) | USFS.
CACI 12 | South Baldwin Meadow | 0.3 (0.1) | USFS.
CACI 13 | 98, 109 | 28 (11) | USFS (22 ac (9 ha)). Private ³ (6 ac (2 ha)).
CACI 14 | 153 | 44 (18) | USFS.
CACI 15 | 128 | 320 (129) | USFS.
CACI 16 | 168 | 4 (2) | CDFG. ⁴
CACI 17 | 236** | 36 (14) | USFS (15 ac (6 ha)). Private (21 ac (8 ha)).
CACI 18 | 224 | 5 (2) | Private.
CACI 19 | 270 | 26 (10) | USFS.
CACI 20 | 212 | 23 (9) | USFS.
CACI 21 | 294 | 127 (51) | USFS.
CACI 22 | 289 | 34 (14) | USFS.
CACI 23 | 286*** | 76 (31) | USFS.
CACI 24 | 293*** | 190 (77) | USFS.
24 | Total | 1,769 ac (722 ha).
* The abbreviation “ppn.” refers to the pebble plain number identified in the Management Guide (USFS 2002).
** The removal of 8 ac (3 ha) of private land from this unit represents an area change from the proposed designation.
*** The addition of this unit represents an area change from the proposed designation.
¹ USFS = U.S. Forest Service (lands in the San Bernardino National Forest);
² Private = The Wildlands Conservancy;
³ Private = The Boy Scouts of America;
⁴ CDFG = California Department of Fish and Game.

Table 4.—Final Critical Habitat (Acres (ac), Hectares (ha)) and Landownership for Eriogonum kennedyi var. austromontanum.
[Area estimates reflect all land within critical habitat unit boundaries.]
Units for E. k. var. austromontanum | USFS Pebble Plain Number (ppn.)* | Critical habitat ac (ha) | Landowner
ERKA 1 | 100 | 69 (28) | USFS.¹
ERKA 2 | 87 | 229 (93) | USFS.
ERKA 3 | 254 | 6 (2) | USFS.
ERKA 4 | 301 | 15 (6) | USFS.
ERKA 5 | 302 | 24 (10) | USFS.
ERKA 6 | 188 | 62 (25) | USFS.
ERKA 7 | 192 | 43 (17) | USFS.
ERKA 8 | 98, 109 | 28 (11) | USFS (22 ac (9 ha)).
|  |  | Private ² (6 ac (2 ha)).
ERKA 9 | 153 | 44 (18) | USFS.
ERKA 10 | 128 | 320 (129) | USFS.
ERKA 11 | ** 236 | 36 (14) | USFS (15 ac (6 ha)).
|  |  | Private (21 ac (8 ha)).
ERKA 12 | 224 | 5 (2) | Private.
ERKA 13 | 212 | 23 (9) | USFS.
13 | Total | 904 ac (366 ha).
* The abbreviation “ppn.” refers to the pebble plain number identified in the Management Guide (USFS 2002).
** The removal of 8 ac (3 ha) of private land from this unit represents an area change from the proposed designation.
¹ USFS = U.S. Forest Service (lands in the San Bernardino National Forest); ² Private = The Boy Scouts of America.

Unit Descriptions

Each of the three listed pebble plains species has a natural mosaic distribution among the various pebble plain complexes. The distribution of each plant may change locally over time but generally extends throughout a pebble plain complex in either an above-ground vegetative state or as part of the seed bank. The fact that, when they co-occur, these three plant taxa essentially occupy the same habitat is reflected here in the unit descriptions and the mapping of the critical habitat units. We present brief descriptions of all units below and reasons why they meet the definition of critical habitat for Arenaria ursina, Castilleja cinerea, and Eriogonum kennedyi var. Austromontanum. Each unit is named with a unique identifier consisting of the first two letters of the genus and species names (e.g., ARUR, CACI, ERKA). Each pebble plain that is being designated as critical habitat for an individual species was assigned a number that was then paired with the unique identifier for that species. The pebble plains being designated as critical habitat for an individual species are numbered consecutively (ARUR1, ARUR2, ARUR3, etc). Units are grouped by pebble plain complexes (e.g., Arrastre/Union Flat) as identified in the USFS's 2002 Management Guide.

Arrastre/Union Flat

• Arenaria ursina: Units ARUR 1 and ARUR 2 (proposed critical habitat units 1A and 1B)

• Castilleja cinerea: Units CACI 1 and CACI 2 (proposed critical habitat units 1A and 1B)

• Eriogonum kennedyi var. austromontanum: Units ERKA 1 and ERKA 2 (proposed critical habitat units 1A and 1B)

The Arrastre/Union Flat pebble plain complex consists of 33 pebble plains of varying size that total approximately 419 ac (170 ha) of habitat, the majority of which are on the San Bernardino National Forest (SBNF) land (USFS 2002, pp. 32, 47; Engelhard 2007). Pebble plains in this complex have historically been, and continue to be, impacted by vehicle use related to woodcutting and camping activities not authorized by the USFS, potential future ground disturbance associated with existing mining claims (USFS 2002, p. 47, 48), and small-scale mining activity not authorized by the USFS (Eliason 2006). Pebble plains in this complex are also threatened by the invasion of nonnative cheatgrass (USFS 2002, pp. 47-48).

We are designating as critical habitat approximately 298 ac (121 ha) within this complex consisting of two pebble plains in the SBNF: pebble plain number 100 is 69 ac (28 ha) and pebble plain number 87 is 229 ac (93 ha) (Tables 2, 3, 4). Pebble plain number 100 (ARUR 1, CACI 1, and ERKA 1) was occupied by all three listed plants at the time of listing, and all three listed species continue to occur within these units. Pebble plain number 87 (ARUR 2, CACI 2, and ERKA 2) was also occupied by all three listed plants at the time of listing, and all three listed species continue to occur within these units. Both pebble plains contain the features essential to the conservation of the listed species; are large, well defined pebble plains; are within the northern most pebble plains in the designation; are within the geographic range occupied by the species at time of listing; and represent the least disturbed pebble plains in this complex. Pebble plain number 87 also supports the northernmost occurrences of all three listed species.

Both pebble plains are bisected by existing USFS roads. As outlined in the Management Guide (USFS 2002) and the USFS's Biological Assessment for the Revised Land Management Plans (LMP) (USFS 2005), the USFS has undertaken various actions to minimize impacts to pebble plains under its jurisdiction in this complex, including permanently closing roads, installing fencing along roads to prevent unauthorized access on the adjacent pebble plain, ripping (defacing) some roads to discourage vehicle trespass around fences, and posting signs to keep vehicles out of sensitive habitat. The LMP also recommends designation of an area encompassing most of this complex as a Research Natural Area, a designation which, if finalized, will carry a high degree of habitat protection under land management direction. Also, much of this complex is zoned in the LMP as Backcountry Non-motorized, reflecting the management intent to restrict current and future motorized use to existing transportation system roads (USFS 2005). However, unauthorized vehicle use still occurs on the pebble plains in this complex (USFS 2002, pp. 48, 48a). Special management considerations or protection may be required to protect and maintain the PCEs supported by pebble plains 100 and 87 due to potential impacts of unauthorized vehicle use, dispersed recreation, mining, and invasive nonnative plant species (such as cheatgrass).

Big Bear Lake

• Arenaria ursina: Units ARUR 3 and ARUR 4 (proposed critical habitat units 2A and 2B)

• Castilleja cinerea: Units CACI 3 and CACI 4 (proposed critical habitat units 2A and 2B)

• Eriogonum kennedyi var. austromontanum: Unit ERKA 3 (proposed critical habitat unit 2B)

The Big Bear Lake pebble plain complex consists of a series of 39 pebble plains of varying sizes within and adjacent to the City of Big Bear Lake. This complex totals approximately 105 ac (42 ha) of habitat on private and SBNF lands (USFS 2002, pp. 31, 37; Engelhard 2007). Prior to residential development in Big Bear Valley and the construction of Big Bear Dam, pebble plain habitat was more widespread and more contiguous in this complex (USFS 2002, p. 38). Threats to pebble plain habitat on private lands include residential development and trampling from horses and hikers, and on USFS lands they include trampling, soil compaction, and unauthorized vehicle use (USFS 2002, p. 39). Pebble plains in this complex may also be threatened by the presence of invasive nonnative plant species (such as cheatgrass) that occur in other pebble plain complexes (USFS 2002, pp. 45, 47-48, 50, 56, 64).

We are designating as critical habitat approximately 28 ac (11 ha) within this complex consisting of two pebble plains in the SBNF: pebble plain number 248 is 21 ac (9 ha) and pebble plain number 254 is 6 ac (2 ha) (Tables 2, 3, 4). Pebble plain number 248 (ARUR 3, CACI 3) was occupied at the time of listing by Arenaria ursina and Castilleja cinerea, and both species continue to grow within this unit. This unit is not designated as critical habitat for Eriogonum kennedyi var. austromontanum. Pebble plain number 248 contains the features essential to the conservation of both species, is a relatively large and well defined pebble plain, represents the least disturbed pebble plains remaining in this complex, and is within the geographic range occupied by the species at time of listing. Pebble plain number 254 (ARUR 4, CACI 4, and ERKA 3) was occupied at the time of listing by all three listed species, and these species still occur within this unit. Pebble plain number 254 contains the features essential to the conservation of each of the three species, is a relatively large and well defined pebble plain, represents the least disturbed pebble plains remaining in this complex, and is within the geographic range occupied by the species at the time of listing.

Both pebble plains historically have been impacted by recreational activities (USFS 2002, pg. 38). Pebble plain number 248, in the Aspen Glen area, is bisected by a recreational trail, which is used by horses, hikers, and mountain bikers. Pebble plain number 254, in the former Snow Forest Ski Area, has historically been the site of annual bicycle races and is bisected by several classified and unclassified bicycle trails. Both units are zoned in the LMP as Developed Area Interface, reflecting the management intent to emphasize fuels and vegetation treatments associated with fire suppression (USFS 2005). USFS has undertaken various actions to minimize impacts to pebble plains under its jurisdiction in this complex, including installing fencing along trails to prevent further encroachment into the pebble plain, establishing alternate paths, installing gates and fencing to prevent motorized access to pebble plains, relocating annual bicycle races to other sites (USFS 2002, p. 39; USFS 2005, p. 208), and closing the Snow Forest Ski Area (USFS 2005, p. 250; Service 2005, p. 233). Special management considerations or protection may be required to protect and maintain the PCEs supported by both pebble plains due to potential impacts associated with fire suppression activities, unauthorized vehicle use, dispersed recreation, and invasive nonnative plant species (such as cheatgrass).

Broom Flat

• Arenaria ursina: Units ARUR 5 (proposed critical habitat unit 3B)

• Castilleja cinerea: Units CACI 5 and CACI 6 (proposed critical habitat units 3A and 3B)

The Broom Flat pebble plain complex consists of 23 pebble plains of varying size that total approximately 767 ac (310 ha) of habitat, the majority of which are in the SBNF (USFS 2002, pp. 33, 62; Engelhard 2007). Pebble plains in this complex have historically been impacted by unauthorized vehicle use and are now being impacted by the presence of invasive nonnative plant species (such as cheatgrass and common knotweed (Polygonum arenastrum)) (USFS 2002, p. 64).

We are designating as critical habitat approximately 384 ac (156 ha) within this complex consisting of three pebble plains on Federal (SBNF) and private lands (The Wildlands Conservancy): pebble plain number 311 is 58 ac (23 ha) and combined pebble plain numbers 285 and 309 total 326 ac (132 ha) (Tables 2, 3, 4). Pebble plain number 311 (CACI 5) was occupied at the time of listing and is currently occupied by Castilleja cinerea. Pebble plains 285 and 309 (ARUR 5, CACI 6) were occupied at the time of listing by A. ursina and C. cinerea, and both species still occur within this unit. Pebble plains 311, 285, and 309 contain the features essential to the conservation of each of the species for which they are being designated, are relatively large pebble plains representing the least disturbed pebble plains in this complex, and are within the eastern most pebble plain complex in these designations.

Pebble plains 311, 285, and 309 are bisected by existing USFS roads. Pebble plains 285 and 309 were impacted recently by a contingency fuel break (dozer line) that was constructed to fight the 2006 Millard/Sawtooth fire in the event the fire reached Onyx Ridge under emergency consultation with the Service. According to Eliason (2006), the line was successfully rehabilitated and recovery of the habitat is expected; however, constructed fuel breaks are more likely to be reopened in the event of future wildfires. The majority of this geographical area is zoned in the LMP as Backcountry Non-motorized, reflecting the management intent to restrict current and future motorized use to existing transportation system roads (USFS 2005).

USFS has undertaken various actions to minimize impacts to pebble plains under its jurisdiction in this complex, including permanently closing roads, installing fencing along roads to prevent unauthorized access on the adjacent pebble plain, ripping some roads to discourage vehicle trespass around fences, and posting signs to keep vehicles out of sensitive habitat; however, these barriers are in need of constant monitoring and repairs (USFS 2002, p. 64). Pebble plain number 311 may also be impacted by cattle trespass from the Rattlesnake grazing allotment and burro use associated with the Burro Herd Management Area (USFS 2002, p. 64). Special management considerations or protection may be required to protect and maintain the PCEs supported by the three pebble plains due to potential impacts associated with fire suppression activities, unauthorized vehicle use, and invasive nonnative plant species (such as cheatgrass and common knotweed).

Fawnskin

• Arenaria ursina: Units ARUR 6 and ARUR 7 (proposed critical habitat units 4A and 4B)

• Castilleja cinerea: Units CACI 7, CACI 8, and CACI 9 (proposed critical habitat units 4A, 4B, and 4C)

• Eriogonum kennedyi var. austromontanum: Units ERKA 4 and ERKA 5 (proposed critical habitat units 4A and 4B)

The Fawnskin pebble plain complex consists of 15 pebble plains of varying sizes that total approximately 64 ac (26 ha) of habitat on private and SBNF lands (USFS 2002, pp. 32, 44; Engelhard 2007). Pebble plains in this complex have historically been and are currently being impacted by urban development, unauthorized vehicle use, and the presence of invasive nonnative species (such as cheatgrass) (USFS 2002, pp. 45).

We are designating as critical habitat approximately 41 ac (17 ha) within this complex consisting of two pebble plains and one non-pebble plain meadow margin area in the SBNF. Pebble plain number 301 is 15 ac (6 ha), pebble plain number 302 is 24 ac (10 ha), and Juniper Point is 2 ac (1 ha) (Tables 2, 3, 4). Pebble plain number 301 (ARUR 6, CACI 7, and ERKA 4) was occupied at the time of listing by all three listed species and these plants continue to occur within this pebble plain. Pebble plain number 302 (ARUR 7, CACI 8, and ERKA 5) was also occupied at the time of listing by all three listed species and these plants continue to occur within this pebble plain. Juniper Point (CACI 9) was occupied at the time of listing and is still occupied only by Castilleja cinerea. Juniper Point is being designated as critical habitat only for C. cinerea. Pebble plains 301 and 302 contain the features essential to the conservation of all three of the listed species, are within the geographic range occupied by the species at time of listing, and are relatively large and the least disturbed pebble plains remaining in this complex. Pebble plain 301 also supports the westernmost occurrences of Arenaria ursina and Eriogonum kennedyi var. austromontanum. Juniper Point contains the features essential to the conservation of C. cinerea, is within the geographic range occupied by the species at time of listing, and represents a unique habitat type (non-pebble plain meadow margin) for the species (Engelhard 2006), and may be important for maintaining genetic diversity for the species. Juniper Point is also one of the few occupied non-pebble plain meadow margin areas remaining that is relatively undisturbed.

Pebble plains 301 and 302 are bisected by several unclassified roads associated with existing USFS roads. Pebble plain 301 was impacted by construction of a contingency fuel break (dozer line) that was constructed to fight the 2003 Old Fire in the event the fire approached Big Bear Valley under emergency consultation with the Service. According to Eliason (2006), the line was successfully rehabilitated and recovery of the habitat is expected; however, constructed fuel breaks are more likely to be reopened in the event of future wildfires. Both pebble plains are zoned in the LMP as Developed Area Interface, reflecting the management intent to emphasize fuels and vegetation treatments associated with fire suppression (USFS 2005).

While USFS has undertaken various actions such as permanently closing roads and posting signs to keep vehicles out of sensitive habitat, barriers have been repeatedly breached over the past decade and unauthorized vehicle use along some of the unclassified roads still continues (USFS 2002, pp. 45-46). Juniper Point is within a fenced area adjacent to Big Bear Lake owned by the USFS. The area contains a paved trail for hiking and is across the street from the ranger station. Special management considerations or protection may be required to protect and maintain the PCEs supported by pebble plain 301, pebble plain 302, and Juniper Point due to potential impacts of fire suppression activities, unauthorized vehicle use, dispersed recreation, and invasive nonnative plant species (such as cheatgrass and common knotweed).

Gold Mountain

• Arenaria ursina: Units ARUA 8 and ARUA 9 (proposed critical habitat units 5A and 5B)

• Castilleja cinerea: Units CACI 10, CACI 11, and CACI 12 (proposed critical habitat units 5A, 5B, and 5C)

• Eriogonum kennedyi var. austromontanum: Units ERKA 6 and ERKA 7 (proposed critical habitat units 5A and 5B)

The Gold Mountain pebble plain complex consists of 18 pebble plains of varying sizes that total approximately 150 ac (61 ha) of habitat on private and SBNF lands (USFS 2002, pp. 32, 52; Engelhard 2007). Pebble plains in this complex have historically been impacted by USFS-authorized vehicle use and vehicle use associated with woodcutting and rock collecting not authorized by the USFS (USFS 2002, pg. 52). Pebble plains in this complex may also be threatened by the presence of invasive nonnative plant species (such as cheatgrass) that occur in other pebble plain complexes (USFS 2002, pp. 45, 47-48, 50, 56, 64).

We are designating as critical habitat approximately 105 ac (42 ha) of Federal land (SBNF) consisting of two pebble plains in this complex and one non-pebble plain meadow margin area adjacent to this complex. Pebble plain number 188 is 62 ac (25 ha), pebble plain number 192 is 43 ac (17 ha), and South Baldwin meadow is 0.3 ac (0.1 ha) (Tables 2, 3, 4). Pebble plain number 188 (ARUR 8, CACI 10, and ERKA 6) was occupied at the time of listing and is still occupied by all three listed species. Pebble plain number 192 (ARUR 9, CACI 11, and ERKA 7) was also occupied at the time of listing and these plants continue to occur within this pebble plain. While the non-pebble plain meadow margin habitat of South Baldwin meadow (CACI 12) was not identified in the final listing rule (63 FR 49006; September 14, 1998), it is currently occupied by Castilleja cinerea and is considered to have been occupied at the time of listing based on pre-listing occupancy records (CNDDB 1997b). South Baldwin meadow is being designated as critical habitat only for C. cinerea.

Pebble plains 188 and 192 contain the features essential to the conservation of each of the three listed species, are relatively large and well-defined pebble plains, represent the least disturbed pebble plains in this complex, and are within the geographic range occupied by the species at time of listing. South Baldwin Meadow contains the features essential to the conservation of Castilleja cinerea, is within the geographic range occupied by the species at time of listing, and represents a unique habitat type (non-pebble plain meadow margin) for the species, representing an area that may be important for maintaining genetic diversity for the species. South Baldwin Meadow is also one of the few occupied non-pebble plain meadow margin areas remaining that is relatively undisturbed and also supports other federally listed plant species (such as Sidalcea pedata).

Pebble plains 188 and 192 are bisected by Forest Road 3N69 and several unclassified roads. The majority of both pebble plains is zoned in the LMP as Critical Biological, reflecting the intent to manage these lands for the primary purpose of sensitive species conservation (USFS 2005). While USFS has undertaken various actions such as closing the area to woodcutting, permanently closing roads, and conducting area patrols, unauthorized vehicle use continues to impact these pebble plains (USFS 2002, p. 53; Engelhard 2006). South Baldwin Meadow is threatened by occasional unauthorized access by equestrian and OHV use by adjacent private landowners (Engelhard 2006). Special management considerations or protection may be required to protect and maintain the PCEs supported by pebble plain 188, pebble plain 192, and South Baldwin Meadow due to potential impacts associated with unauthorized vehicle use, dispersed recreation, and invasive nonnative plant species (such as cheatgrass and common knotweed).

Holcomb Valley

• Arenaria ursina: Units ARUR 10 and ARUR 11 (proposed critical habitat units 6A and 6B)

• Castilleja cinerea: Units CACI 13 and CACI 14 (proposed critical habitat units 6A and 6B)

• Eriogonum kennedyi var. austromontanum: Units ERKA 8 and ERKA 9 (proposed critical habitat units 6A and 6B)

The Holcomb Valley pebble plain complex consists of 96 pebble plains of varying sizes that total approximately 466 ac (189 ha) of habitat primarily in the SBNF (USFS 2002, pp. 31, 40; Engelhard 2007). Pebble plains in this complex have historically been impacted by USFS-authorized and unauthorized vehicle use, previous silviculture treatments, campground development, dispersed recreation, and access or maintenance associated with an existing gas pipeline (USFS 2002, pp. 41-42). Pebble plains in this complex may also be threatened by the presence of invasive nonnative plant species (such as cheatgrass) that occur in other pebble plain complexes (USFS 2002, pp. 45, 47-48, 50, 56, 64).

We are designating as critical habitat approximately 72 ac (29 ha) within this complex consisting of three pebble plains on Federal (SBNF) and private (Boy Scouts of America (BSA)) land: Combined pebble plain numbers 98 and 109 total 28 ac (11 ha) and pebble plain number 153 is 44 ac (18 ha) (Tables 2, 3, 4). The majority of pebble plains 98 and 109 (ARUR 10, CACI 13, and ERKA 8) is in the SBNF, though a small portion occurs on private land owned by the BSA (Hitchcock Ranch). Pebble plain 153 (ARUR 11, CACI 14, and ERKA 9) is entirely within the SBNF. Pebble plains 98 and 109 (ARUR 10, CACI 13, and ERKA 8) were occupied at the time of listing and are still occupied by all three listed species. Pebble plain 153 was also occupied at the time of listing and these plaints continue to occur within this pebble plain. All three pebble plains contain the features essential to the conservation of each of the three listed species, are within the geographic range occupied by the species at time of listing, are among the northernmost pebble plains in these designations, are relatively large and well-defined pebble plains, and represent the least disturbed pebble plains in this complex.

Federal land in pebble plains 98 and 109 is zoned in the LMP as Backcountry Motorized, reflecting the management intent to restrict current and future motorized use to designated transportation system routes (USFS 2005). Pebble plain 153 is zoned in the LMP as Backcountry Non-motorized, Use-Restricted, reflecting the management intent to restrict current and future motorized use to administrative and permitted uses only (USFS 2005).

The USFS has undertaken various actions, such as decommissioning and rehabilitating certain roads, installing fencing along roads to prevent unauthorized access on the adjacent pebble plain, posting signs to keep vehicles out of sensitive habitat, relocating special events formerly in pebble plain habitat (such as the Mountain Man event), and discontinuing camping permits in certain areas to reduce the impact in these areas. However, pebble plains in the Holcomb Valley Complex continue to be impacted by unauthorized vehicle use (USFS 2002, p. 40). Special management considerations or protection may be required to protect and maintain the PCEs supported by pebble plain 98, pebble plain 109, and pebble plain 153 due to potential impacts associated with unauthorized vehicle use, dispersed recreation, and invasive nonnative plant species (such as cheatgrass and common knotweed).

North Baldwin Lake

• Arenaria ursina: Unit ARUR 12 (proposed critical habitat unit 7A)

• Castilleja cinerea: Units CACI 15 and CACI 16 (proposed critical habitat units 7A and 7B)

• Eriogonum kennedyi var. austromontanum: Unit ERKA 10 (proposed critical habitat unit 7A)

The North Baldwin Lake pebble plain complex consists of 12 pebble plains of varying sizes that totals approximately 532 ac (215 ha) of habitat primarily in the SBNF (USFS 2002, pp. 33, 54; Engelhard 2007). Pebble plains in this complex were historically, and continue to be, impacted by authorized and unauthorized vehicle use, mining activity, residential development, burros, and invasive nonnative plant species (such as cheatgrass and Lepidium perfoliatum (clasping pepperweed)) (USFS 2002, pg. 56)).

We are designating as critical habitat approximately 324 ac (131 ha) within this complex consisting of one pebble plain and one non-pebble plain meadow margin area on Federal (SBNF) and State (CDFG) lands: Pebble plain number 128 is 320 ac (129 ha) and pebble plain number 168 is 4 ac (2 ha) (Tables 2, 3, 4). Although pebble plain number 168 is actually a non-pebble plain meadow margin area, it was assigned a pebble plain number by USFS. All of pebble plain number 128 is in the SBNF and all of Pebble plain number 168 in the CDFG's Baldwin Ecological Reserve. Pebble plain number 128 (ARUR 12, CACI 15, and ERKA 10) was occupied at the time of listing and continues to be occupied by all three listed plants. While the non-pebble plains meadow margin habitat in pebble plain number 168 (CACI 16) was not identified in the listing rule, it is currently occupied by Castilleja cinerea and is considered to have been occupied at the time of listing based on pre-listing occupancy records (CNDDB 1997b).

Pebble plain number 128 contains the features essential to the conservation of each of the three of the listed species, is within the geographic range occupied by the species at time of listing, is a relatively large and well defined pebble plain in this complex, and represents one of the least disturbed pebble plains in this complex. This pebble plain also supports the lowest elevation occurrences of Arenaria ursina and Castilleja cinerea. Such elevational extremes may be important for the conservation of the species where they represent genetic variation favorable to surviving long-term environmental changes (Eliason 2006). Pebble plain number 168 contains the features essential to the conservation of C. cinerea, is within the geographic range occupied by the species at time of listing, represents a unique habitat type (non-pebble plain meadow margin habitat with alkali soils), and is the only area known to support this species on alkali soils. This occurrence represents a unique portion of the range of environmental variability for the species and may be important for maintaining genetic diversity of the species. This pebble plain is also one of the few occupied non-pebble plain meadow margin areas remaining that is relatively undisturbed. This area also supports other federally listed plant species (such as Sidalcea pedata and Thelypodium stenopetalum).

Pebble plain 128 is bisected by several unclassified roads associated with existing USFS roads and pebble plain 168 is adjacent to an existing road. The majority of pebble plain 128 is zoned in the LMP as Critical Biological, reflecting the intent to manage these lands for the primary purpose of sensitive species conservation (USFS 2005). All of pebble plain 168 is zoned in the LMP Developed Area Interface, reflecting the management intent to emphasize fuels and vegetation treatments associated with fire suppression (USFS 2005). USFS has undertaken various actions such as permanently closing roads, installing fencing along major roads adjacent to pebble plain habitat, and posting signs to keep vehicles out of sensitive habitat. However, authorized and unauthorized vehicle use continues to impact pebble plains in the North Baldwin Lake Complex (USFS 2002, p. 57). Special management considerations or protection may be required to protect and maintain the PCEs supported by pebble plains 128 and 168 due to potential impacts associated with unauthorized vehicle use, dispersed recreation, and invasive nonnative plant species (such as cheatgrass and common knotweed).

Sawmill

• Arenaria ursina: Units ARUR 13 and ARUR 14 (proposed critical habitat units 8A and 8B)

• Castilleja cinerea: Units CACI 17 and CACI 18 (proposed critical habitat units 8A and 8B)

• Eriogonum kennedyi var. austromontanum: Units ERKA 11 and ERKA 12 (proposed critical habitat units 8A and 8B)

The Sawmill pebble plain complex consists of 22 pebble plains of varying size that total approximately 420 ac (170 ha) of habitat on private and Federal land (SBNF) (2002, pp. 32, 49; Engelhard 2007). Pebble plains in this complex were historically, and continue to be, impacted by authorized and unauthorized vehicle use, residential development, and invasive nonnative plant species (such as cheatgrass) (USFS 2002, pp. 50).

We are designating as critical habitat approximately 41 ac (17 ha) within this complex consisting of two pebble plains on Federal (USFS) and private lands: Pebble plain number 236 (ARUR 13, CACI 17, ERKA 11) is 36 ac (14 ha) and the portion of pebble plain number 244 (ARUR 14, CACI 18, ERKA 12) being designated is 5 ac (2 ha) (Tables 2, 3, 4). About half of pebble plain number 236 is in the SBNF, while the other half is on private land. The area under private ownership is protected from development by a conservation easement established as part of the Moonridge residential development (Engelhard 2006). In 2002, the Natural Heritage Foundation, which held the conservation easement at that time, installed fencing and signs to keep unauthorized off-road vehicles out of the pebble plain (BEC, p. 14). However, we have no information on who currently holds the easement and if management is ongoing.

The portion of pebble plain number 244 being designated is entirely on private land within a fenced area protected from development by a conservation easement as mitigation for construction of the Big Bear High School. However, the easement has not been formerly recorded (BEC, p. 14) and we have no information on ongoing management occurring at this site. Pebble plain 236 (ERKA 11, ARUR 13, CACI 17) was occupied at the time of listing and continues to be occupied by all three listed species. The portion of pebble plain number 244 being designated (ERKA 12, ARUR 14, CACI 18) was also occupied at the time of listing and all three listed species continue to occur within this pebble plain. Both pebble plains contain the features essential to the conservation of each of the three listed species, are within the geographic range occupied by the species at time of listing, are relatively large and well-defined pebble plains, and represent the only pebble plains remaining in this complex that have not been destroyed or significantly degraded by residential development.

The northern portion of pebble plain 236 is bisected by a partially devegetated vehicle track that allows foot access to this fenced pebble plain, which is used heavily by local residents. Pebble plain 244 is bisected by several unclassified roads associated with woodcutting and dispersed recreation (USFS 2002, pp. 50-51). Federal land in the Sawmill unit is zoned in the LMP as Developed Area Interface, reflecting the management intent to emphasize fuels and vegetation treatments associated with fire suppression (USFS 2005). USFS has undertaken or participated in various actions, such as posting signs to keep hikers and vehicles out of sensitive habitat. However, authorized and unauthorized dispersed recreation and unauthorized vehicle use continues to impact pebble plains in the Sawmill Complex, including the northern portion of pebble plain 236 (USFS 2002, p. 51; Engelhard 2006). Special management considerations or protection may be required to protect and maintain the PCEs supported by pebble plains 236 and 244 due to potential impacts associated with fire suppression activities, unauthorized vehicle use, dispersed recreation, and invasive nonnative plant species (such as cheatgrass and common knotweed).

Snow Valley

• Castilleja cinerea: Unit CACI 19 (proposed critical habitat unit 9)

The Snow Valley pebble plain complex consists of 3 pebble plains of varying sizes that total approximately 33 ac (13 ha) of habitat in the SBNF (USFS 2002, pp. 30, 31; Engelhard 2007). Pebble plains in this complex were historically impacted by vehicle access, residential development, and heavy-use recreation (such as skiing or biking) (USFS 2002, p. 30). Pebble plains in this complex may also be threatened by the presence of invasive nonnative plant species (such as cheatgrass) that occur in other pebble plain complexes (USFS 2002, pp. 45, 47-48, 50, 56, 64).

We are designating as critical habitat approximately 26 ac (10 ha) within this complex consisting of one pebble plain within the SBNF: Pebble plain number 270 (Tables 2, 3, 4). Pebble plain number 270 (CACI 19) was occupied at the time of listing and is still occupied by Castilleja cinerea. This unit is being designated as critical habitat only for C. cinerea. Pebble plain 270 contains the features essential to the conservation of the species, is within the geographic range occupied by the species at time of listing, is within the western most pebble plain complex in these designations, represents a unique habitat type (pebble plain habitat with granitic soils), and supports the only known occurrence of this species on granitic soils. This occurrence represents a unique portion of the range of environmental variability for the species and may be important for maintaining genetic diversity for the species.

Pebble plain 270 borders Highway 18 and is within a heavy recreational use area. This pebble plain is zoned in the LMP as Developed Area Interface, reflecting the management intent to emphasize fuels and vegetation treatments associated with fire suppression (USFS 2005). USFS has undertaken or participated in various actions, such as posting signs to keep hikers out of sensitive habitat. However, dispersed recreation, and unauthorized vehicle use continues to impact pebble plains in the Snow Valley (USFS 2002, p. 51). Special management considerations or protection may be required to protect and maintain the PCEs supported by pebble plain 270 due to potential impacts associated with fire suppression activities, unauthorized vehicle use, dispersed recreation, and invasive nonnative plant species (such as cheatgrass and common knotweed).

South Baldwin Ridge/Erwin Lake

• Arenaria ursina: Unit ARUR 15 (proposed critical habitat unit 10).

• Castilleja cinerea: Unit CACI 20 (proposed critical habitat unit 10).

• Eriogonum kennedyi var. austromontanum: Unit ERKA 13 (proposed critical habitat unit 10).

The South Baldwin Ridge/Erwin Lake pebble plain complex consists of 15 pebble plains of varying sizes that total approximately 95 ac (38 ha) of habitat on private and SBNF lands (USFS 2002, pp. 33, 49; Engelhard 2007). Pebble plains in this complex were historically, and continue to be, impacted by authorized and unauthorized vehicle use, residential development, and invasive nonnative plant species (such as cheatgrass) (USFS 2002, pg. 50).

We are designating as critical habitat approximately 23 ac (9 ha) within this complex consisting of one pebble plain in the SBNF: pebble plain number 212 (Tables 2, 3, 4). Pebble plain 212 (ERKA 13, ARUR 15, CACI 20) was occupied at the time of listing and still is occupied by all three listed plants. This pebble plain contains the features essential to the conservation of each of the three of the listed species, is within the geographic range occupied by the species at time of listing, is a relatively large and well-defined pebble plain, and is the only occupied pebble plain in this complex that has not been destroyed or significantly degraded due to residential development.

Pebble plain 272 is bisected by a partially devegetated vehicle track that allows foot access to this fenced pebble plain, which is used heavily by local residents (USFS 2002, pp. 50-51). This pebble plain is zoned in the LMP as Developed Area Interface, reflecting the management intent to emphasize fuels and vegetation treatments associated with fire suppression (USFS 2005). USFS has undertaken or participated in various actions such as posting signs to keep hikers out of sensitive habitat. However, dispersed recreation, and unauthorized vehicle use continue to impact pebble plains in the South Baldwin Ridge Complex (USFS 2002, p. 51). Special management considerations or protection may be required to protect and maintain the PCEs supported by pebble plain 272 due to potential impacts associated with fire suppression activities, unauthorized vehicle use, dispersed recreation, and invasive nonnative plant species (such as cheatgrass and common knotweed).

Sugarloaf Ridge

• Arenaria ursina: Units ARUR 16 and ARUR 17 (proposed critical habitat units 11A and 11B)

• Castilleja cinerea: Units CACI 21 and CACI 22 (proposed critical habitat units 11A and 11B), CACI 23 and CACI 24

The Sugarloaf Ridge pebble plain complex consists of 22 pebble plains of varying sizes that total approximately 617 ac (250 ha) of habitat in the SBNF (USFS 2002, pp. 33, 58; Engelhard 2007). Pebble plains in this complex were historically, and continue to be, impacted by authorized and unauthorized vehicle use and dispersed recreation (USFS 2002, p. 58). The ridgeline in this complex is at risk of future fuel break construction in direct or indirect response to wildfire suppression (Eliason 2006). Pebble plains in this complex may also be threatened by the presence of invasive nonnative plant species (such as cheatgrass) that occur in some of the other pebble plain complexes (USFS 2002, pp. 45, 47-48, 50, 56, 64).

We are designating as critical habitat approximately 427 ac (173 ha) within this complex consisting of four pebble plains within the SBNF: pebble plain number 294 is 127 ac (51 ha), pebble plain number 289 is 34 ac (14 ha), pebble plain number 286 is 76 ac (31 ha), and pebble plain number 293 is 190 ac (77 ha) (Tables 2, 3). Pebble plain 294 (ARUR 17, CACI 21) was occupied at the time of listing and is currently occupied by Castilleja cinerea and Arenaria ursina. Pebble plain 289 (ARUR 18, CACI 22) was also occupied at the time of listing and is currently occupied by C. cinerea and A. ursina. Pebble plains 286 (CACI 23) and 293 (CACI 24) were occupied at the time of listing and are currently occupied by C. cinerea. Pebble plains 294 and 289 are being designated as critical habitat for A. ursina. and C. cinerea only, while pebble plains 286 and 293 are being designated as critical habitat for C. cinerea only. Both pebble plains contain the features essential to the conservation of the species for which they are being designated, are within the geographic range occupied by the species at time of listing, are relatively large pebble plains, and represent the least disturbed pebble plains in this complex. In addition, the A. ursina. occurrence in the Sugarloaf Ridge complex is within the southern most pebble plain complex in these designations, is the highest elevation occurrence known for this species, and is considered disjunct from populations in other complexes. The C. cinerea occurrence in this complex is morphologically distinct from populations in other complexes (USFS 2002, p. 58; Bill 2006). Furthermore, the pebble plains occupied by C. cinerea west of Wildhorse Meadow Road represent a unique and higher elevational range than those in other complexes. These occurrences represent a unique portion of the range of environmental variability for these species and may be important for maintaining genetic diversity for the species.

Several unclassified roads occur in or adjacent to pebble plains 293, 294, 286 and 289 (USFS 2002, p. 59). All of pebble plain 294 and the majority of pebble plain 289 are zoned in the LMP as Backcountry Non-motorized, reflecting the management intent to restrict current and future motorized use to existing transportation system roads (USFS 2005). USFS has undertaken various actions such as posting signs to keep walkers and vehicles out of sensitive habitat within the Sugarloaf Ridge Complex overall. However, dispersed recreation and unauthorized vehicle use continues to impact pebble plains in the Sugarloaf Ridge Complex (USFS 2002, pp. 58-59). Special management considerations or protection may be required to protect and maintain the PCEs supported by pebble plains 293, 294, 286, and 289 due to potential impacts associated with fire suppression activities, unauthorized vehicle use, dispersed recreation, and invasive nonnative plant species (such as cheatgrass and common knotweed).

Effects of Critical Habitat Designation

Section 7 Consultation

Section 7(a)(2) of the Act requires Federal agencies, including the Service, to ensure that actions they fund, authorize, or carry out are not likely to jeopardize the continued existence of a listed species or destroy or adversely modify designated critical habitat. Decisions by the 5th and 9th Circuit Courts of Appeals have invalidated our definition of “destruction or adverse modification” (50 CFR 402.02) (see Gifford Pinchot Task Force v. U.S. Fish and Wildlife Service, 378 F. 3d 1059 (9th Cir 2004) and Sierra Club v. U.S. Fish and Wildlife Service et al., 245 F.3d 434, 442F (5th Cir 2001)), and we do not rely on this regulatory definition when analyzing whether an action is likely to destroy or adversely modify critical habitat. Under the statutory provisions of the Act, we determine destruction or adverse modification on the basis of whether, with implementation of the proposed Federal action, the affected critical habitat would remain functional (or retain the current ability for the primary constituent elements to be functionally established) to serve its intended conservation role for the species.

If a Federal action may affect a listed species or its critical habitat, the responsible Federal agency (action agency) must enter into consultation with us. As a result of this consultation, we document compliance with the requirements of section 7(a)(2) through our issuance of:

(1) A concurrence letter for Federal actions that may affect, but are not likely to adversely affect, listed species or critical habitat; or

(2) A biological opinion for Federal actions that are likely to adversely affect listed species or critical habitat.

When we issue a biological opinion concluding that a project is likely to jeopardize the continued existence of a listed species or destroy or adversely modify critical habitat, we also provide reasonable and prudent alternatives to the project, if any are identifiable. We define “Reasonable and prudent alternatives” at 50 CFR 402.02 as alternative actions identified during consultation that:

• Can be implemented in a manner consistent with the intended purpose of the action,

• Can be implemented consistent with the scope of the Federal agency's legal authority and jurisdiction,

• Are economically and technologically feasible, and

• Would, in the Director's opinion, avoid jeopardizing the continued existence of the listed species or destroying or adversely modifying critical habitat.

Reasonable and prudent alternatives can vary from slight project modifications to extensive redesign or relocation of the project. Costs associated with implementing a reasonable and prudent alternative are similarly variable.

Regulations at 50 CFR 402.16 require Federal agencies to reinitiate consultation on previously reviewed actions in instances where we have listed a new species or subsequently designated critical habitat that may be affected and the Federal agency has retained discretionary involvement or control over the action (or the agency's discretionary involvement or control is authorized by law). Consequently, Federal agencies may sometimes need to request reinitiation of consultation with us on actions for which formal consultation has been completed, if those actions with discretionary involvement or control may affect subsequently listed species or designated critical habitat.

Federal activities that may affect Arenaria ursina, Castilleja cinerea, or Eriogonum kennedyi var. austromontanum or their designated critical habitat will require section 7(a)(2) consultation under the Act. Activities on State, Tribal, local or private lands requiring a Federal permit (such as a permit from the U.S. Army Corps of Engineers under section 404 of the Clean Water Act (33 U.S.C. 1251 et seq.) or a permit from us under section 10(a)(1)(B) of the Act) or involving some other Federal action (such as funding from the Federal Highway Administration, Federal Aviation Administration, or the Federal Emergency Management Agency) are examples of agency actions that may be subject to the section 7(a)(2) consultation process. Federal actions not affecting listed species or critical habitat, and actions on State, Tribal, local or private lands that are not federally funded, authorized, or permitted, do not require section 7(a)(2) consultations.

Application of the “Adverse Modification” Standard

The key factor related to the adverse modification determination is whether, with implementation of the proposed Federal action, the affected critical habitat would continue to serve its intended conservation role for the species, or would retain its current ability for the primary constituent elements to be functionally established. Activities that may destroy or adversely modify critical habitat are those that alter the PCEs to an extent that appreciably reduces the conservation value of critical habitat for Arenaria ursina, Castilleja cinerea, or Eriogonum kennedyi var. austromontanum. Generally, the conservation role of pebble plains plant critical habitat units is to support viable core populations.

Section 4(b)(8) of the Act requires us to briefly evaluate and describe in any proposed or final regulation that designates critical habitat, activities involving a Federal action that may destroy or adversely modify such habitat, or that may be affected by such designation.

Activities that, when carried out, funded, or authorized by a Federal agency, may affect critical habitat and therefore should result in consultation for Arenaria ursina, Castilleja cinerea, or Eriogonum kennedyi var. austromontanum include, but are not limited to (please see the “Special Management Considerations or Protection” section for a more detailed discussion on the impacts of these actions to the listed species):

(1) Actions that result in ground disturbance to pebble plains. Such activities could include, but are not limited to: residential or recreational development, OHV activity, dispersed recreation, new road construction or widening, existing road maintenance, and grazing (such as cattle and burros). These activities could impact pebble plains by damaging or eliminating habitat, altering soil composition due to increased erosion, and allowing nonnative invasive plant species to invade. In addition, changes in the soil composition may lead to cascading changes in the vegetation composition, such as growth of shrub cover that decreases density or eliminates pebble plain species.

(2) Actions that result in alteration of the hydrological regime of the pebble plain habitat. Such activities could include residential or recreational development adjacent to pebble plains, OHV activity, dispersed recreation, new road construction or widening, and existing road maintenance. These activities could alter surface layers and hydrological regime in a manner that promotes loss of clay components of soil matrix necessary to support the growth and reproduction of the pebble plain species.

We consider all of the units designated as critical habitat to contain features essential to the conservation of Arenaria ursina, Castilleja cinerea, and Eriogonum kennedyi var. austromontanum. All units are within the geographic range of each species, respectively, and were occupied at the time of listing. Federal agencies already consult with us on activities in areas currently occupied by A. ursina, C. cinerea, and E. kennedyi var. austromontanum or if these species may be affected by the action, to ensure that their actions do not jeopardize the continued existence of these species.

Application of Section 4(b)(2) of the Act

Section 4(b)(2) of the Act states that the Secretary must designate and revise critical habitat on the basis of the best available scientific data after taking into consideration the economic impact, impact on national security, and any other relevant impact, of specifying any particular area as critical habitat. The Secretary may exclude an area from critical habitat if he determines that the benefits of such exclusion outweigh the benefits of specifying such area as part of the critical habitat, unless he determines, based on the best scientific data available, that the failure to designate such area as critical habitat will result in the extinction of the species. In making that determination, the legislative history is clear that the Secretary has broad discretion regarding which factors to use and how much weight to give to any factor.

Under section 4(b)(2) of the Act, in considering whether to exclude a particular area from the designation, we must identify the benefits of including the area in the designation, identify the benefits of excluding the area from the designation, and determine whether the benefits of exclusion outweigh the benefits of inclusion. If based on this analysis, we determine that the benefits of exclusion outweigh the benefits of inclusion, we can exclude the area only if such exclusion would not result in the extinction of the species.

We were not aware of any habitat conservation plans under development for Arenaria ursina, Castilleja cinerea, or Eriogonum kennedyi var. austromontanum on any lands included in these final designations. Also, the final designations do not include any Department of Defense lands, Tribal lands or trust resources. During the development of the proposed and final rules, we coordinated with SBNF staff to seek input on the appropriate areas to include in critical habitat that would be essential to A. ursina, C. cinerea, and E. kennedyi var. austromontanum on SBNF lands.

Areas Considered for Exclusion Under Section 4(b)(2) of the Act

At the request of the USFS we evaluated the appropriateness of excluding Forest Service lands from the final designation of critical habitat for the three pebble plains plants under section 4(b)(2) of the Act based on management provided for federally-listed species including the three pebble plains plants under the USFS Land Management Plan and Pebble Plains Management Guide. As discussed in more detail in our response to Comment 15 in the “Public Comments” section above, we have concluded that exclusion of Forest Service lands is not appropriate in light of the USFS's independent obligation under section 7(a)(1) of the Act to utilize the agency's authorities in furtherance of the purposes of the Act by carrying out programs for the conservation of listed species. Further, the intent of section 7(a)(2) of the Act is to require Federal Agencies to consult on any action authorized, funded, or carried out by such agency to insure that the action will not jeopardize a listed species or destroy or adversely modify its critical habitat. Therefore the benefit of consultation under section 7(a)(2) of the Act is greatest on Federal lands. In light of the USFS's independent statutory obligations under the Act we do not believe exclusion of USFS lands from critical habitat designation under section 4(b)(2) is appropriate. Nor, because of the agency's statutory obligations, should the additional analysis under section 7(a)(2) of the Act as a result of designation of critical habitat on Forest Service lands be considered a relevant impact under Section 4(b)(2) or constitute an undue burden for USFS.

Economic Analysis

Section 4(b)(2) of the Act requires that we designate or revise critical habitat based upon the best scientific and commercial data available, after taking into consideration the economic impact, impact on national security, or any other relevant impact of specifying any particular area as critical habitat. In order to consider economic impacts, we prepared a draft economic analysis based on the November 22, 2006, proposed rule (71 FR 67712).

Following the publication of the proposed critical habitat designations, we conducted an economic analysis to estimate the potential economic effect of the designations. The draft economic analysis (DEA) was made available for public review on August 14, 2007 (72 FR 45407). We accepted comments on the DEA until September 13, 2007. However, we did not receive any comments on the DEA during this comment period. A final analysis of the potential economic effects of the proposed designation was then developed, taking into consideration the public comments on the proposed critical habitat and any new information.

The primary purpose of the economic analysis is to estimate the potential economic impacts associated with the designations of critical habitat for the Arenaria ursina, Castilleja cinerea, and Eriogonum kennedyi var. austromontanum. This information is intended to assist the Secretary in making decisions about whether the benefits of excluding particular areas from the designations outweigh the benefits of including those areas in the designations. This economic analysis considers the economic efficiency effects that may result from the designations, including habitat protections that may be co-extensive with the listing of the species. It also addresses distribution of impacts, including an assessment of the potential effects on small entities and the energy industry. This information can be used by the Secretary to assess whether the effects of the designations might unduly burden a particular group or economic sector.

This analysis focuses on the direct and indirect costs of the rule. However, economic impacts to land use activities can exist in the absence of critical habitat. These impacts may result from, for example, local zoning laws, State and natural resource laws, and enforceable management plans and best management practices applied by other State and Federal agencies. Economic impacts that result from these types of protections are not included in the analysis as they are considered to be part of the regulatory and policy baseline.

Specifically, the August 2007 DEA examined the potential economic effects of actions relating to the conservation of Arenaria ursina, Castilleja cinerea, and Eriogonum kennedyi var. austromontanum, including costs associated with sections 4, 7, and 10 of the Act, costs attributable to the designation of critical habitat and the economic effects of protective measures taken as a result of other Federal, State, and local laws that aid habitat conservation for A. ursina., C. cinerea, and E. kennedyi var. austromontanum in areas containing features essential to the conservation of the species. Finally, this analysis looked retrospectively at costs that have been incurred since the date Arenaria ursina, Castilleja cinerea, and Eriogonum kennedyi var. austromontanum were listed as endangered and threatened (September 14, 1998; 63 FR 49006), and considered those costs that may occur in the 20 years following a designation of critical habitat.

The DEA is intended to quantify the economic impacts of all potential conservation efforts for the three pebble plains plants; some of these costs will likely be incurred regardless of whether critical habitat is designated. According to the DEA, activities associated with the conservation of the three listed pebble plains plants are likely to primarily impact unauthorized off-highway vehicle use; control of invasive, nonnative plants; and dispersed recreation. The DEA forecasted future costs associated with conservation efforts for the three pebble plains plants in the areas proposed for designation to be $1.95 million (undiscounted) over the next 20 years. The analysis quantified economic impacts associated with the conservation efforts on each affected entity—typically landowners or managers—associated with the following: (1) Vehicle use off designated routes; (2) the presence of nonnative plant species; and (3) dispersed recreation activities.

The Service also completed a final economic analysis (FEA) of the proposed designations that updates the DEA by removing impacts that were not considered probable or likely to occur and by adding an estimate of the costs associated solely with the designations of critical habitat for the three pebble plains species (incremental impacts). The FEA estimates that the potential economic effects of actions relating to the conservation of Arenaria ursina, Castilleja cinerea, and Eriogonum kennedyi var. austromontanum, including costs associated with sections 4, 7, and 10 of the Act, and including those attributable to the designation of critical habitat will be $1.80 million (undiscounted) over the next 20 years. The present value of these impacts, applying a 3 percent discount rate, is $1.34 million; or $0.95 million, using a discount rate of 7 percent. This is a reduction from the impacts estimated in the DEA of about $0.15 million (undiscounted) over the next 20 years. The FEA also estimates total costs attributable solely to the designations of critical habitat for the three pebble plains plants (incremental costs) to be $3,593 (present value at a three percent discount rate). When critical habitat for these species is designated, it is anticipated that the consultation with the USFS regarding their current Land Management Plan will be reinitiated, resulting in administrative impacts to the USFS. After consideration of the impacts under section 4(b)(2) of the Act, we have not excluded any areas from the final critical habitat designations based on the identified economic impacts.

A copy of the final economic analysis with supporting documents is included in our supporting record and may be obtained by contacting Carlsbad Fish and Wildlife Office, (see ADDRESSES section) or for downloading from the Internet at http://www.fws.gov/carlsbad/.

Required Determinations

Regulatory Planning and Review

In accordance with Executive Order (E.O.) 12866, this document is a significant rule in that it may raise novel legal and policy issues, but will not have an annual effect on the economy of $100 million or more or affect the economy in a material way. As explained above, we prepared an economic analysis of this action. We used this analysis to meet the requirement of section 4(b)(2) of the Act to determine the economic consequences of designating the specific areas as critical habitat. We also used it in determining whether to exclude any area from critical habitat, as provided for under section 4(b)(2). If we determine that the benefits of excluding a particular area outweigh the benefits of specifying such area as part of the critical habitat, we may exclude the area unless we determine, based on the best scientific data available, that the failure to designate such area as critical habitat will result in the extinction of the species. Due to the tight timeline for publication in the Federal Register, the Office of Management and Budget (OMB) has not formally reviewed this rule.

Further, Executive Order 12866 directs Federal agencies promulgating regulations to evaluate regulatory alternatives (Office of Management and Budget, Circular A-4, September 17, 2003). Under Circular A-4, once an agency determines that the Federal regulatory action is appropriate, the agency must consider alternative regulatory approaches. Because the determination of critical habitat is a statutory requirement pursuant to the Act, we must evaluate alternative regulatory approaches, where feasible, when promulgating a designation of critical habitat.

In developing our designations of critical habitat, we consider economic impacts, impacts to national security, and other relevant impacts pursuant to section 4(b)(2) of the Act. Based on the discretion allowable under this provision, we may exclude any particular area from the designation of critical habitat providing that the benefits of such exclusion outweigh the benefits of specifying the area as critical habitat and that such exclusion would not result in the extinction of the species. We believe that the evaluation of the inclusion or exclusion of particular areas, or a combination of both, constitutes our regulatory alternative analysis for designations.

Regulatory Flexibility Act (5 U.S.C. 601 et seq.)

Under the Regulatory Flexibility Act (RFA; 5 U.S.C. 601 et seq., as amended by the Small Business Regulatory Enforcement Fairness Act (SBREFA) of 1996), whenever an agency must publish a notice of rulemaking for any proposed or final rule, it must prepare and make available for public comment a regulatory flexibility analysis that describes the effects of the rule on small entities (small businesses, small organizations, and small government jurisdictions). However, no regulatory flexibility analysis is required if the head of the agency certifies the rule will not have a significant economic impact on a substantial number of small entities. SBREFA amended RFA to require Federal agencies to provide a statement of the factual basis for certifying that the rule will not have a significant economic impact on a substantial number of small entities.

Small entities include small organizations, such as independent nonprofit organizations; small governmental jurisdictions, including school boards and city and town governments that serve fewer than 50,000 residents; as well as small businesses. Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we consider the types of activities that might trigger regulatory impacts under this rule, as well as the types of project modifications that may result. In general, the term “significant economic impact” is meant to apply to a typical small business firm's business operations.

To determine if the rule could significantly affect a substantial number of small entities, we consider the number of small entities affected within particular types of economic activities (e.g., housing development, grazing, oil and gas production, timber harvesting). We apply the “substantial number” test individually to each industry to determine if certification is appropriate. However, the SBREFA does not explicitly define “substantial number” or “significant economic impact.” Consequently, to assess whether a “substantial number” of small entities is affected by these designations, this analysis considers the relative number of small entities likely to be impacted in an area. In some circumstances, especially with critical habitat designations of limited extent, we may aggregate across all industries and consider whether the total number of small entities affected is substantial. In estimating the number of small entities potentially affected, we also consider whether their activities have any Federal involvement.

Designation of critical habitat only affects activities conducted, funded, or permitted by Federal agencies. Some kinds of activities are unlikely to have any Federal involvement and so will not be affected by critical habitat designation. In areas where the species is present, Federal agencies already are required to consult with us under section 7(a)(2) of the Act on activities they fund, permit, or implement that may affect Arenaria ursina, Castilleja cinerea, and Eriogonum kennedyi var. austromontanum. Federal agencies also must consult with us if their activities may affect critical habitat. Designation of critical habitat, therefore, could result in an additional economic impact on small entities due to the requirement to reinitiate consultation for ongoing Federal activities.

The U.S. Forest Service (USFS), the California Department of Fish and Game (CDFG), and the Boy Scouts of America (BSA) are not considered small entities by the Small Business Administration. They do not meet the criteria because the first two entities are governments serving more than 50,000 people, and the Boy Scouts of America is a civic or social organization having annual receipts greater than $6.5 million. The private landowners are unlikely to be business entities. Accordingly, the small business analysis contained in Appendix A of the draft economic analysis focuses on economic impacts of controlling unauthorized off-highway vehicles and nonnative plant species on land owned by The Wildlands Conservancy (TWC).

The TWC is a nonprofit, public benefit organization. It was unaware of the presence of the three listed species and their habitat on its land and, to date, has not undertaken actions specific to the conservation of the plants. Potential impacts to TWC of managing unauthorized off-road vehicle use and controlling invasive, nonnative plant species are based on cost-per-acre estimates from the USFS. Annualized impacts to TWC at a 3 percent discount rate are expected to be $4,504. However, since only one entity meeting the definition of a small business owns land within the area proposed as critical habitat, we certify that this regulation will not have a significant economic impact on a substantial number of small business entities. A regulatory flexibility analysis is not required. Please refer to our final economic analysis of the proposed critical habitat designations for a more detailed discussion of potential economic impacts.

Small Business Regulatory Enforcement Fairness Act (5 U.S.C. 801 et seq.)

Under SBREFA, this rule is not a major rule. Our detailed assessment of the economic effects of this designation is described in the economic analysis. Based on the effects identified in the economic analysis, we believe that this rule will not have an annual effect on the economy of $100 million or more, will not cause a major increase in costs or prices for consumers, and will not have significant adverse effects on competition, employment, investment, productivity, innovation, or the ability of U.S.-based enterprises to compete with foreign-based enterprises. Refer to the final economic analysis for a discussion of the effects of this determination.

Energy Supply, Distribution, or Use

On May 18, 2001, the President issued an Executive Order (E.O. 13211; “Actions Concerning Regulations That Significantly Affect Energy Supply, Distribution, or Use”) on regulations that significantly affect energy supply, distribution, and use. E.O. 13211 requires agencies to prepare Statements of Energy Effects when undertaking certain actions. While this rule designating critical habitat for Arenaria ursina, Castilleja cinerea, and Eriogonum kennedyi var. austromontanum is a significant regulatory action under E.O. 12866 in that it may raise novel legal and policy issues, based on the FEA, these designations of critical habitat do not impact supply, distribution, or use of energy; therefore, this action is not a significant energy action, and no Statement of Energy Effects is required.

Takings

In accordance with E.O. 12630 (“Government Actions and Interference with Constitutionally Protected Private Property Rights”), we have analyzed the potential takings implications of designating critical habitat for the Arenaria ursina, Castilleja cinerea, and Eriogonum kennedyi var. austromontanum in a takings implications assessment. The takings implications assessment concludes that these designations of critical habitat for the three listed pebble plains species do not pose significant takings implications.

Unfunded Mandates Reform Act (2 U.S.C. 1501 et seq.)

In accordance with the Unfunded Mandates Reform Act (2 U.S.C. 1501 et seq.), we make the following findings:

(a) This rule will not produce a Federal mandate. In general, a Federal mandate is a provision in legislation, statute, or regulation that would impose an enforceable duty upon State, local, or Tribal governments, or the private sector, and includes both “Federal intergovernmental mandates” and “Federal private sector mandates.” These terms are defined in 2 U.S.C. 658(5)-(7). “Federal intergovernmental mandate” includes a regulation that “would impose an enforceable duty upon State, local, or Tribal governments” with two exceptions. It excludes “a condition of Federal assistance.” It also excludes “a duty arising from participation in a voluntary Federal program,” unless the regulation “relates to a then-existing Federal program under which $500,000,000 or more is provided annually to State, local, and Tribal governments under entitlement authority,” if the provision would “increase the stringency of conditions of assistance” or “place caps upon, or otherwise decrease, the Federal Government's responsibility to provide funding,” and the State, local, or Tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal Government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply, nor would critical habitat shift the costs of the large entitlement programs listed above onto State governments.

(b) We do not believe that this rule will significantly or uniquely affect small governments. The majority (92 percent) of the lands being designated as critical habitat are Federally-owned by the USFS, which does not qualify as a small government. Of the remaining 8 percent, 7 percent is privately-owned land and 1 percent is State land. Consequently, we do not believe that these critical habitat designations would significantly or uniquely affect small government entities. As such, a Small Government Agency Plan is not required.

Federalism

In accordance with E.O. 13132 (Federalism), this rule does not have significant Federalism effects. A Federalism assessment is not required. In keeping with Department of the Interior and Department of Commerce policy, we requested information from appropriate State resource agencies in California in order to coordinate with them during the development of these final critical habitat designations; however, we did not receive comments or information from State agencies. Only 1 percent of the critical habitat designations for Arenaria ursina, Castilleja cinerea, and Eriogonum kennedyi var. austromontanum are on State land, and, therefore, will have little impact on State and local governments and their activities. The designations may have some benefit to these governments in that the areas that contain the features essential to the conservation of the species are more clearly defined, and the primary constituent elements of the habitat essential to the conservation of the species are specifically identified. This information does not alter where and what federally sponsored activities may occur. However, it may assist local governments in long-range planning (rather than having them wait for case-by-case section 7 consultations to occur).

Civil Justice Reform

In accordance with E.O. 12988 (Civil Justice Reform), the Office of the Solicitor has determined that the rule does not unduly burden the judicial system and that it meets the requirements of sections 3(a) and 3(b)(2) of the Order. We have designated critical habitat in accordance with the provisions of the Act. This final rule uses standard property descriptions and identifies the primary constituent elements within the designated areas to assist the public in understanding the habitat needs of Arenaria ursina, Castilleja cinerea, and Eriogonum kennedyi var. austromontanum.

Paperwork Reduction Act of 1995

This rule does not contain any new collections of information that require approval by OMB under the Paperwork Reduction Act of 1995 (44 U.S.C. 3501 et seq.). This rule will not impose recordkeeping or reporting requirements on State or local governments, individuals, businesses, or organizations. An agency may not conduct or sponsor, and a person is not required to respond to, a collection of information unless it displays a currently valid OMB control number.

National Environmental Policy Act (NEPA)

It is our position that, outside the jurisdiction of the Circuit Court of the United States for the Tenth Circuit, we do not need to prepare environmental analyses as defined by the NEPA (42 U.S.C. 4321 et seq.) in connection with designating critical habitat under the Act. We published a notice outlining our reasons for this determination in the Federal Register on October 25, 1983 (48 FR 49244). This assertion was upheld by the Circuit Court of the United States for the Ninth Circuit (Douglas County v. Babbitt, 48 F.3d 1495 (9th Cir. 1995), cert. denied 516 U.S. 1042 (1996)).

Government-to-Government Relationship With Tribes

In accordance with the President's memorandum of April 29, 1994, “Government-to-Government Relations with Native American Tribal Governments” (59 FR 22951), E.O. 13175, and the Department of the Interior's manual at 512 DM 2, we readily acknowledge our responsibility to communicate meaningfully with recognized Federal Tribes on a government-to-government basis. In accordance with Secretarial Order 3206 of June 5, 1997, “American Indian Tribal Rights, Federal-Tribal Trust Responsibilities, and the Endangered Species Act,” we readily acknowledge our responsibilities to work directly with tribes in developing programs for healthy ecosystems, to acknowledge that Tribal lands are not subject to the same controls as Federal public lands, to remain sensitive to Indian culture, and to make information available to tribes. We have determined that there are no Tribal lands that meet the definition of critical habitat for Arenaria ursina, Castilleja cinerea, or Eriogonum kennedyi var. austromontanum. Therefore, we have not designated critical habitat for any of the three pebble plain plants on Tribal lands.

References Cited

A complete list of all references cited in this rulemaking is available upon request from the Field Supervisor, Carlsbad Fish and Wildlife Office (see ADDRESSES section).

Author(s)

The primary author of this package is staff of the Carlsbad Fish and Wildlife Office.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.12(h), revise the entries for “Arenaria ursina”, “Castilleja cinerea”, and “Eriogonum kennedyi var. austromontanum” under “FLOWERING PLANTS” to read as follows:

§ 17.12 Endangered and threatened plants.

* * * * *

(h) * * *

Species: Scientific name | Species: Common name | Historic range | Family | Status | When listed | Critical habitat | Special rules
Flowering Plants:
* * * * * * *
Arenaria ursina | Bear Valley sandwort | U.S.A. (CA) | Caryophyllaceae | T | 644 | 17.96(a) | NA
* * * * * * *
Castilleja cinerea | Ash-gray Indian paintbrush | U.S.A. (CA) | Orobanchaceae | T | 644 | 17.96(a) | NA
* * * * * * *
Eriogonum kennedyi var. austromontanum | Southern mountain wild-buckwheat | U.S.A. (CA) | Polygonaceae | T | 644 | 17.96(a) | NA
* * * * * * *

3. In § 17.96(a), as set forth below:

a. Add “Family Caryophyllaceae” and “Family Orobanchaeae” in alphabetical order to the family names;

b. Add a critical habitat entry for “Arenaria ursina” in alphabetical order under Family Caryophyllaceae;

c. Add a critical habitat entry for “Castilleja cinerea” in alphabetical order under Family Orobanchaeae; and

d. Add a critical habitat entry for “Eriogonum kennedyi var. austromontanum” in alphabetical order under Family Polygonaceae.

§ 17.96 Critical habitat—plants.

* * * * *

(a) Flowering plants.

* * * * *

Family Caryophyllaceae: Arenaria ursina (Bear Valley sandwort)

(1) Critical habitat units for Arenaria ursina are found in San Bernardino County, California.

(2) The primary constituent elements of critical habitat for Arenaria ursina are the habitat components that provide:

(i) Pebble plains in dry meadow-like openings within upper montane coniferous forest, pinyon-juniper woodlands, or Great Basin sagebrush in the San Bernardino Mountains of San Bernardino County, California; at elevations between 5,900 to 9,800 ft (1,830 to 2,990 m) that provide space for individual and population growth, reproduction and dispersal; and

(ii) Seasonally wet clay, or sandy clay soils, generally containing quartzite pebbles, subject to natural hydrological processes that include water hydrating the soil and freezing in winter and drying in summer causing lifting and churning of included pebbles, that provide space for individual and population growth, reproduction and dispersal, adequate water, air, minerals, and other nutritional or physiological requirements to the species.

(3) Critical habitat does not include manmade structures (such as buildings, aqueducts, airports, roads, and other paved areas) and the land on which they are located existing on the effective date of this rule and not containing one or more of the primary constituent elements.

(4) Critical habitat map units. Data layers defining map units were created on a base of USGS 1:24,0000 maps, and critical habitat units were then mapped using Universal Transverse Mercator (UTM) coordinates.

(5) Index map (Map 1) follows:

BILLING CODE 4310-55-P

BILLING CODE 4310-55-C

(6) Units ARUR 1 and ARUR 2. Arrastre/Union Flat, San Bernardino County, California. From USGS 1:24,000 quadrangle map Big Bear City.

(i) Unit ARUR 1. Land bounded by the following UTM NAD27 coordinates (E,N): 512434, 3795966; 512436, 3795961; 512446, 3795966; 512450, 3795966; 512469, 3795969; 512508, 3795965; 512533, 3795959; 512537, 3795959; 512539, 3795960; 512549, 3795964; 512560, 3795961; 512568, 3795954; 512573, 3795948; 512573, 3795936; 512571, 3795930; 512568, 3795927; 512565, 3795927; 512563, 3795927; 512563, 3795924; 512561, 3795914; 512556, 3795904; 512555, 3795903; 512554, 3795901; 512548, 3795879; 512535, 3795835; 512544, 3795791; 512546, 3795790; 512554, 3795787; 512568, 3795779; 512576, 3795774; 512582, 3795771; 512592, 3795764; 512595, 3795753; 512595, 3795747; 512591, 3795739; 512584, 3795732; 512581, 3795731; 512575, 3795727; 512569, 3795727; 512560, 3795728; 512552, 3795733; 512544, 3795739; 512542, 3795740; 512541, 3795739; 512540, 3795738; 512525, 3795717; 512469, 3795694; 512447, 3795680; 512445, 3795679; 512427, 3795653; 512428, 3795649; 512450, 3795617; 512476, 3795588; 512476, 3795588; 512504, 3795564; 512514, 3795552; 512541, 3795525; 512546, 3795509; 512548, 3795508; 512553, 3795501; 512554, 3795500; 512558, 3795490; 512566, 3795479; 512573, 3795468; 512584, 3795444; 512586, 3795433; 512588, 3795412; 512594, 3795398; 512601, 3795395; 512607, 3795395; 512627, 3795401; 512632, 3795400; 512641, 3795402; 512654, 3795400; 512675, 3795405; 512691, 3795401; 512699, 3795397; 512703, 3795397; 512707, 3795394; 512715, 3795393; 512718, 3795391; 512730, 3795388; 512740, 3795378; 512742, 3795374; 512746, 3795371; 512770, 3795357; 512806, 3795330; 512815, 3795317; 512837, 3795311; 512856, 3795327; 512872, 3795330; 512883, 3795343; 512886, 3795339; 512900, 3795331; 512905, 3795319; 512909, 3795312; 512913, 3795307; 512913, 3795306; 512913, 3795305; 512914, 3795303; 512920, 3795287; 512924, 3795286; 512935, 3795275; 512938, 3795270; 512944, 3795264; 512948, 3795258; 512953, 3795250; 512955, 3795245; 512954, 3795239; 512953, 3795233; 512949, 3795225; 512946, 3795221; 512949, 3795219; 512976, 3795203; 512998, 3795196; 513008, 3795189; 513014, 3795187; 513019, 3795183; 513030, 3795176; 513031, 3795173; 513048, 3795163; 513049, 3795158; 513051, 3795154; 513053, 3795150; 513053, 3795143; 513053, 3795142; 513056, 3795131; 513053, 3795122; 513053, 3795109; 513055, 3795098; 513059, 3795095; 513062, 3795091; 513066, 3795086; 513069, 3795084; 513072, 3795077; 513076, 3795073; 513079, 3795066; 513080, 3795064; 513083, 3795057; 513083, 3795052; 513083, 3795047; 513082, 3795043; 513080, 3795036; 513080, 3795034; 513079, 3795025; 513077, 3795018; 513075, 3795011; 513075, 3795007; 513072, 3794999; 513069, 3794994; 513066, 3794989; 513058, 3794982; 513053, 3794982; 513047, 3794982; 513037, 3794982; 513035, 3794981; 513017, 3794975; 513010, 3794975; 513006, 3794978; 513000, 3794981; 512993, 3794985; 512988, 3794988; 512973, 3794993; 512965, 3794993; 512960, 3794991; 512951, 3794990; 512944, 3794988; 512938, 3794987; 512934, 3794988; 512924, 3794989; 512915, 3794991; 512897, 3794997; 512886, 3795001; 512875, 3795007; 512866, 3795012; 512852, 3795026; 512850, 3795031; 512847, 3795037; 512848, 3795042; 512848, 3795045; 512856, 3795057; 512861, 3795057; 512871, 3795053; 512875, 3795052; 512883, 3795047; 512863, 3795065; 512861, 3795066; 512853, 3795072; 512853, 3795075; 512847, 3795081; 512851, 3795097; 512867, 3795120; 512875, 3795132; 512879, 3795132; 512881, 3795135; 512913, 3795143; 512919, 3795177; 512903, 3795187; 512899, 3795188; 512884, 3795190; 512840, 3795190; 512839, 3795192; 512835, 3795194; 512826, 3795195; 512825, 3795196; 512811, 3795199; 512812, 3795203; 512811, 3795204; 512811, 3795217; 512800, 3795241; 512793, 3795247; 512785, 3795251; 512778, 3795254; 512765, 3795263; 512732, 3795279; 512696, 3795299; 512648, 3795303; 512621, 3795315; 512618, 3795316; 512607, 3795318; 512601, 3795321; 512585, 3795327; 512561, 3795335; 512558, 3795344; 512555, 3795349; 512545, 3795359; 512533, 3795366; 512510, 3795373; 512508, 3795373; 512500, 3795376; 512498, 3795372; 512497, 3795370; 512495, 3795367; 512492, 3795368; 512490, 3795372; 512490, 3795379; 512489, 3795379; 512484, 3795381; 512485, 3795387; 512482, 3795398; 512482, 3795418; 512485, 3795432; 512484, 3795433; 512486, 3795443; 512486, 3795452; 512453, 3795490; 512413, 3795508; 512409, 3795509; 512408, 3795507; 512406, 3795499; 512398, 3795500; 512390, 3795509; 512386, 3795512; 512354, 3795501; 512340, 3795496; 512357, 3795495; 512366, 3795491; 512362, 3795478; 512360, 3795467; 512361, 3795466; 512364, 3795462; 512368, 3795462; 512373, 3795469; 512376, 3795462; 512392, 3795462; 512392, 3795461; 512393, 3795461; 512401, 3795463; 512406, 3795462; 512408, 3795459; 512429, 3795455; 512432, 3795454; 512437, 3795449; 512437, 3795446; 512434, 3795435; 512431, 3795430; 512434, 3795422; 512433, 3795419; 512434, 3795416; 512432, 3795410; 512433, 3795405; 512430, 3795402; 512428, 3795397; 512423, 3795395; 512421, 3795393; 512393, 3795381; 512369, 3795385; 512368, 3795386; 512367, 3795386; 512351, 3795394; 512339, 3795398; 512339, 3795414; 512342, 3795418; 512342, 3795425; 512350, 3795437; 512339, 3795449; 512324, 3795455; 512306, 3795472; 512299, 3795481; 512283, 3795473; 512264, 3795473; 512249, 3795472; 512248, 3795473; 512247, 3795473; 512237, 3795473; 512228, 3795473; 512223, 3795475; 512207, 3795477; 512189, 3795483; 512172, 3795485; 512165, 3795492; 512163, 3795493; 512156, 3795496; 512155, 3795496; 512150, 3795497; 512149, 3795498; 512135, 3795504; 512124, 3795510; 512100, 3795517; 512095, 3795519; 512080, 3795516; 512060, 3795516; 512044, 3795536; 512052, 3795560; 512056, 3795588; 512064, 3795616; 512064, 3795617; 512065, 3795620; 512081, 3795644; 512087, 3795650; 512088, 3795651; 512089, 3795652; 512101, 3795664; 512123, 3795675; 512123, 3795688; 512123, 3795695; 512122, 3795699; 512119, 3795715; 512111, 3795727; 512119, 3795747; 512125, 3795759; 512133, 3795784; 512135, 3795798; 512143, 3795822; 512155, 3795842; 512171, 3795857; 512199, 3795878; 512223, 3795886; 512228, 3795889; 512235, 3795890; 512242, 3795892; 512248, 3795895; 512282, 3795913; 512334, 3795929; 512377, 3795941; 512380, 3795941; 512383, 3795942; 512387, 3795942; 512394, 3795943; 512397, 3795947; 512412, 3795966; 512417, 3795971; 512422, 3795975; 512427, 3795979; 512430, 3795978; 512434, 3795966.

(ii) Unit ARUR 2. Land bounded by the following UTM NAD27 coordinates (E,N): 513282, 3797202; 513312, 3797195; 513346, 3797179; 513347, 3797179; 513352, 3797178; 513378, 3797155; 513382, 3797151; 513404, 3797137; 513430, 3797126; 513434, 3797122; 513438, 3797119; 513475, 3797110; 513503, 3797106; 513500, 3797115; 513500, 3797124; 513510, 3797137; 513520, 3797137; 513532, 3797131; 513545, 3797124; 513554, 3797111; 513554, 3797108; 513567, 3797110; 513599, 3797116; 513650, 3797107; 513655, 3797103; 513659, 3797103; 513666, 3797099; 513668, 3797098; 513694, 3797083; 513708, 3797069; 513727, 3797057; 513758, 3797027; 513788, 3796985; 513797, 3796978; 513801, 3796976; 513815, 3796968; 513834, 3796962; 513876, 3796962; 513926, 3796970; 513952, 3796981; 513956, 3796985; 513979, 3797000; 514002, 3797019; 514028, 3797035; 514070, 3797061; 514093, 3797069; 514129, 3797075; 514136, 3797079; 514216, 3797087; 514238, 3797082; 514329, 3797076; 514364, 3797073; 514406, 3797069; 514444, 3797046; 514455, 3797019; 514448, 3797004; 514444, 3797001; 514441, 3796991; 514418, 3796945; 514401, 3796935; 514398, 3796928; 514393, 3796914; 514396, 3796911; 514384, 3796831; 514384, 3796806; 514387, 3796798; 514383, 3796764; 514375, 3796741; 514362, 3796721; 514357, 3796709; 514343, 3796691; 514329, 3796661; 514318, 3796650; 514303, 3796631; 514288, 3796623; 514276, 3796625; 514270, 3796622; 514239, 3796625; 514197, 3796645; 514171, 3796637; 514166, 3796635; 514151, 3796626; 514106, 3796587; 514064, 3796561; 514003, 3796519; 513965, 3796488; 513946, 3796458; 513946, 3796457; 513959, 3796433; 513996, 3796392; 514005, 3796381; 514022, 3796370; 514030, 3796350; 514036, 3796343; 514043, 3796339; 514101, 3796309; 514102, 3796309; 514108, 3796307; 514111, 3796304; 514142, 3796287; 514170, 3796255; 514215, 3796208; 514291, 3796164; 514355, 3796119; 514424, 3796055; 514439, 3796024; 514451, 3796009; 514449, 3795971; 514450, 3795964; 514443, 3795894; 514441, 3795891; 514440, 3795890; 514393, 3795830; 514332, 3795801; 514321, 3795800; 514291, 3795789; 514262, 3795785; 514258, 3795783; 514231, 3795781; 514227, 3795781; 514226, 3795781; 514155, 3795776; 514144, 3795785; 514116, 3795789; 514088, 3795817; 514047, 3795891; 514018, 3795938; 514005, 3795973; 513980, 3796014; 513957, 3796046; 513948, 3796055; 513865, 3796109; 513828, 3796145; 513797, 3796168; 513780, 3796186; 513762, 3796200; 513760, 3796201; 513723, 3796230; 513687, 3796286; 513678, 3796295; 513674, 3796304; 513669, 3796313; 513661, 3796338; 513655, 3796353; 513652, 3796365; 513634, 3796408; 513630, 3796430; 513628, 3796432; 513627, 3796434; 513625, 3796439; 513622, 3796448; 513622, 3796451; 513619, 3796455; 513615, 3796461; 513612, 3796466; 513607, 3796471; 513601, 3796475; 513594, 3796479; 513581, 3796480; 513579, 3796481; 513577, 3796481; 513568, 3796491; 513563, 3796494; 513561, 3796495; 513560, 3796500; 513560, 3796506; 513560, 3796508; 513562, 3796511; 513567, 3796513; 513573, 3796517; 513578, 3796520; 513586, 3796523; 513592, 3796524; 513582, 3796530; 513580, 3796555; 513590, 3796564; 513595, 3796566; 513601, 3796566; 513598, 3796573; 513589, 3796592; 513581, 3796602; 513570, 3796605; 513551, 3796618; 513539, 3796656; 513548, 3796669; 513548, 3796676; 513571, 3796707; 513590, 3796760; 513590, 3796810; 513587, 3796851; 513586, 3796856; 513584, 3796863; 513571, 3796887; 513565, 3796881; 513546, 3796877; 513512, 3796881; 513489, 3796900; 513481, 3796923; 513481, 3796924; 513465, 3796924; 513438, 3796920; 513432, 3796923; 513431, 3796922; 513380, 3796910; 513348, 3796878; 513329, 3796849; 513326, 3796805; 513300, 3796757; 513293, 3796749; 513291, 3796739; 513275, 3796710; 513273, 3796706; 513268, 3796698; 513256, 3796676; 513232, 3796652; 513204, 3796636; 513196, 3796629; 513168, 3796629; 513162, 3796631; 513162, 3796628; 513162, 3796619; 513158, 3796609; 513155, 3796603; 513149, 3796597; 513138, 3796593; 513131, 3796584; 513128, 3796581; 513148, 3796577; 513167, 3796562; 513167, 3796528; 513152, 3796516; 513146, 3796511; 513141, 3796511; 513118, 3796501; 513119, 3796501; 513131, 3796493; 513134, 3796488; 513145, 3796482; 513149, 3796466; 513145, 3796450; 513137, 3796434; 513126, 3796434; 513115, 3796429; 513106, 3796427; 513100, 3796425; 513087, 3796427; 513085, 3796426; 513082, 3796427; 513085, 3796425; 513089, 3796424; 513094, 3796423; 513099, 3796421; 513103, 3796421; 513107, 3796420; 513109, 3796419; 513120, 3796414; 513122, 3796411; 513123, 3796407; 513123, 3796401; 513121, 3796389; 513110, 3796387; 513089, 3796387; 513085, 3796387; 513080, 3796383; 513075, 3796378; 513069, 3796376; 513065, 3796378; 513061, 3796380; 513038, 3796401; 513031, 3796403; 513022, 3796403; 513016, 3796403; 513010, 3796404; 513007, 3796408; 512998, 3796427; 512993, 3796432; 512984, 3796432; 512976, 3796431; 512967, 3796430; 512958, 3796430; 512948, 3796431; 512942, 3796435; 512942, 3796440; 512943, 3796447; 512947, 3796453; 512958, 3796458; 512968, 3796460; 512981, 3796461; 512990, 3796462; 512998, 3796461; 513002, 3796462; 513000, 3796463; 512996, 3796465; 512992, 3796472; 512986, 3796477; 512982, 3796485; 512977, 3796493; 512985, 3796499; 512986, 3796501; 512996, 3796509; 513006, 3796518; 513003, 3796519; 513001, 3796524; 513001, 3796528; 513003, 3796531; 513006, 3796533; 513013, 3796536; 513026, 3796540; 513031, 3796543; 513019, 3796558; 513004, 3796600; 513004, 3796623; 513001, 3796637; 513009, 3796690; 513024, 3796717; 513039, 3796763; 513070, 3796797; 513089, 3796843; 513096, 3796872; 513099, 3796901; 513095, 3796915; 513094, 3796917; 513076, 3796939; 513072, 3796962; 513087, 3796975; 513089, 3796980; 513123, 3797003; 513126, 3797015; 513126, 3797031; 513106, 3797069; 513087, 3797088; 513084, 3797137; 513096, 3797163; 513103, 3797175; 513141, 3797195; 513182, 3797197; 513184, 3797197; 513218, 3797201; 513240, 3797201; 513255, 3797202; 513282, 3797202.

(iii) Note: Map of Units ARUR 1 and ARUR 2 (Map 2) follows:

BILLING CODE 4310-55-P

BILLING CODE 4310-55-C

(7) Units ARUR 3 and ARUR 4. Big Bear Lake, San Bernardino County, California. From USGS 1:24,000 quadrangle map Big Bear Lake.

(i) Unit ARUR 3. Land bounded by the following UTM NAD27 coordinates (E,N): 506933, 3788172; 506933, 3788172; 507055, 3788172; 507058, 3788169; 507058, 3788169; 507166, 3788172; 507208, 3788170; 507213, 3788165; 507215, 3788157; 507213, 3788134; 507205, 3788104; 507197, 3788062; 507176, 3788009; 507151, 3787955; 507123, 3787915; 507111, 3787897; 507087, 3787865; 507069, 3787840; 507045, 3787831; 507043, 3787831; 507040, 3787820; 507041, 3787818; 507036, 3787807; 507036, 3787807; 507036, 3787806; 507036, 3787806; 507025, 3787783; 507009, 3787755; 507006, 3787754; 507000, 3787747; 506974, 3787747; 506974, 3787747; 506973, 3787747; 506968, 3787747; 506967, 3787748; 506954, 3787751; 506938, 3787779; 506942, 3787811; 506954, 3787842; 506966, 3787866; 506974, 3787869; 506956, 3787901; 506949, 3787935; 506941, 3787974; 506938, 3788020; 506941, 3788043; 506939, 3788042; 506926, 3788042; 506907, 3788042; 506901, 3788049; 506892, 3788058; 506885, 3788071; 506885, 3788093; 506888, 3788115; 506895, 3788135; 506911, 3788153; 506933, 3788160; 506933, 3788172.

(ii) Unit ARUR 4. Land bounded by the following UTM NAD27 coordinates (E,N): 507777, 3788001; 507780, 3787993; 507783, 3788009; 507791, 3788029; 507801, 3788015; 507806, 3788013; 507806, 3788005; 507811, 3787989; 507811, 3787973; 507811, 3787949; 507810, 3787946; 507810, 3787941; 507807, 3787932; 507806, 3787930; 507804, 3787929; 507803, 3787925; 507802, 3787925; 507790, 3787909; 507764, 3787877; 507732, 3787851; 507704, 3787839; 507688, 3787829; 507686, 3787828; 507682, 3787826; 507682, 3787827; 507678, 3787826; 507674, 3787876; 507666, 3787929; 507659, 3787975; 507659, 3788001; 507669, 3788023; 507682, 3788035; 507707, 3788042; 507729, 3788042; 507752, 3788036; 507767, 3788013; 507769, 3788006; 507777, 3788001.

(iii) Note: Map of Units ARUR 3 and ARUR 4 (Map 3) follows:

BILLING CODE 4310-55-P

BILLING CODE 4310-55-C

(8) Unit ARUR 5. Broom Flat, San Bernardino County, California.

(i) From USGS 1:24,000 quadrangle map Onyx Peak. Land bounded by the following UTM NAD27 coordinates (E,N): 525111, 3785431; 525155, 3785406; 525142, 3785419; 525199, 3785419; 525250, 3785412; 525307, 3785393; 525365, 3785362; 525378, 3785345; 525421, 3785349; 525497, 3785323; 525558, 3785296; 525600, 3785262; 525661, 3785220; 525706, 3785197; 525744, 3785182; 525813, 3785170; 525870, 3785170; 525950, 3785201; 526053, 3785243; 526125, 3785292; 526198, 3785323; 526247, 3785330; 526297, 3785338; 526358, 3785338; 526411, 3785327; 526457, 3785292; 526491, 3785262; 526529, 3785227; 526556, 3785170; 526556, 3785132; 526552, 3785079; 526548, 3785022; 526540, 3784978; 526562, 3784983; 526585, 3784983; 526610, 3784977; 526632, 3784967; 526642, 3784945; 526639, 3784907; 526632, 3784885; 526616, 3784847; 526604, 3784834; 526588, 3784815; 526575, 3784789; 526562, 3784774; 526617, 3784774; 526651, 3784759; 526651, 3784751; 526662, 3784735; 526662, 3784724; 526642, 3784701; 526625, 3784671; 526614, 3784655; 526626, 3784653; 526636, 3784634; 526632, 3784615; 526616, 3784593; 526604, 3784577; 526594, 3784567; 526582, 3784558; 526575, 3784548; 526562, 3784542; 526550, 3784535; 526547, 3784534; 526522, 3784488; 526509, 3784440; 526506, 3784412; 526495, 3784379; 526459, 3784332; 526457, 3784330; 526449, 3784321; 526434, 3784252; 526415, 3784229; 526418, 3784219; 526423, 3784219; 526430, 3784207; 526436, 3784191; 526442, 3784178; 526445, 3784162; 526439, 3784151; 526445, 3784130; 526476, 3784019; 526510, 3783943; 526522, 3783890; 526541, 3783795; 526567, 3783692; 526579, 3783627; 526606, 3783581; 526647, 3783490; 526680, 3783446; 526713, 3783425; 526764, 3783396; 526818, 3783371; 526861, 3783342; 526873, 3783324; 526876, 3783323; 526878, 3783320; 526913, 3783270; 526922, 3783257; 526963, 3783235; 526981, 3783233; 527032, 3783219; 527050, 3783204; 527064, 3783175; 527075, 3783143; 527071, 3783137; 527074, 3783128; 527051, 3783117; 527037, 3783121; 527006, 3783124; 526970, 3783139; 526945, 3783150; 526930, 3783150; 526898, 3783168; 526872, 3783183; 526869, 3783183; 526840, 3783163; 526840, 3783139; 526843, 3783117; 526861, 3783088; 526890, 3783052; 526911, 3783037; 526907, 3783059; 526904, 3783081; 526901, 3783107; 526917, 3783113; 526926, 3783107; 526939, 3783094; 526946, 3783072; 526955, 3783069; 526958, 3783062; 526961, 3783031; 526961, 3783008; 526960, 3783003; 526974, 3782994; 526978, 3782969; 526979, 3782968; 526979, 3782967; 526981, 3782954; 526976, 3782944; 526975, 3782934; 526937, 3782873; 526904, 3782868; 526894, 3782863; 526880, 3782865; 526853, 3782861; 526788, 3782899; 526724, 3782957; 526678, 3783010; 526653, 3783029; 526644, 3783034; 526634, 3783043; 526613, 3783059; 526600, 3783077; 526571, 3783103; 526524, 3783161; 526489, 3783206; 526476, 3783219; 526473, 3783226; 526448, 3783262; 526452, 3783284; 526470, 3783284; 526495, 3783297; 526493, 3783306; 526477, 3783327; 526441, 3783378; 526419, 3783393; 526408, 3783425; 526401, 3783469; 526394, 3783531; 526390, 3783585; 526381, 3783631; 526351, 3783704; 526339, 3783719; 526299, 3783803; 526269, 3783859; 526263, 3783867; 526261, 3783869; 526234, 3783893; 526221, 3783921; 526209, 3783936; 526113, 3784063; 526089, 3784082; 526072, 3784131; 526026, 3784168; 526012, 3784180; 525995, 3784180; 525987, 3784194; 525958, 3784212; 525951, 3784270; 525969, 3784310; 526016, 3784379; 526029, 3784402; 526038, 3784423; 526068, 3784501; 526071, 3784513; 526089, 3784575; 526109, 3784589; 526125, 3784624; 526125, 3784644; 526103, 3784691; 526089, 3784702; 526083, 3784713; 526072, 3784721; 526062, 3784751; 526049, 3784775; 526052, 3784781; 526049, 3784789; 526065, 3784836; 526067, 3784883; 526064, 3784909; 526060, 3784931; 525995, 3784927; 525944, 3784916; 525912, 3784910; 525882, 3784896; 525828, 3784881; 525786, 3784858; 525737, 3784850; 525710, 3784854; 525630, 3784865; 525573, 3784888; 525508, 3784927; 525478, 3784965; 525455, 3785003; 525382, 3785037; 525360, 3785067; 525328, 3785099; 525326, 3785095; 525301, 3785044; 525263, 3785019; 525238, 3785063; 525231, 3785120; 525206, 3785165; 525206, 3785203; 525187, 3785247; 525149, 3785273; 525072, 3785298; 524965, 3785304; 524926, 3785298; 524869, 3785292; 524799, 3785323; 524799, 3785362; 524831, 3785406; 524869, 3785444; 524876, 3785470; 524914, 3785489; 524933, 3785501; 524984, 3785495; 525022, 3785482; 525066, 3785470; 525111, 3785431.

(ii) Note: Map of Unit ARUR 5 (Map 4) follows:

BILLING CODE 4310-55-C

BILLING CODE 4310-55-C

(9) Unit ARUR 6 and ARUR 7. Fawnskin, San Bernardino County, California. From USGS 1:24,000 quadrangle map Fawnskin.

(i) Unit ARUR 6. Land bounded by the following UTM NAD27 coordinates (E,N): 506020, 3792309; 506020, 3792303; 506001, 3792335; 506014, 3792404; 506014, 3792468; 506001, 3792538; 505982, 3792557; 505963, 3792595; 505950, 3792639; 505937, 3792671; 505944, 3792703; 505994, 3792722; 506039, 3792722; 506109, 3792684; 506147, 3792665; 506191, 3792627; 506229, 3792582; 506217, 3792525; 506166, 3792493; 506121, 3792462; 506109, 3792442; 506109, 3792417; 506096, 3792392; 506077, 3792373; 506052, 3792335; 506020, 3792309.

(ii) Unit ARUR 7. Land bounded by the following UTM NAD27 coordinates (E,N): 506636, 3791541; 506604, 3791490; 506547, 3791496; 506534, 3791515; 506515, 3791579; 506522, 3791661; 506502, 3791757; 506490, 3791807; 506502, 3791852; 506547, 3791941; 506579, 3792017; 506610, 3792100; 506629, 3792182; 506649, 3792220; 506668, 3792233; 506687, 3792227; 506680, 3792214; 506693, 3792182; 506706, 3792138; 506712, 3792074; 506725, 3792036; 506706, 3791928; 506680, 3791846; 506674, 3791801; 506674, 3791744; 506668, 3791674; 506655, 3791623; 506636, 3791541.

(iii) Note: Map of Unit ARUR 6 and ARUR 7 (Map 5) follows:

BILLING CODE 4310-55-P

BILLING CODE 4310-55-C

(10) Units ARUR 8, ARUR 9, and ARUR 12. Gold Mountain and North Baldwin Lake, San Bernardino County, California. From USGS 1:24,000 quadrangle map Big Bear City.

(i) Unit ARUR 8. Land bounded by the following UTM NAD27 coordinates (E,N): 516297, 3793523; 516342, 3793514; 516374, 3793491; 516405, 3793447; 516412, 3793390; 516424, 3793352; 516421, 3793333; 516437, 3793335; 516450, 3793331; 516463, 3793309; 516466, 3793281; 516465, 3793279; 516475, 3793268; 516469, 3793227; 516447, 3793207; 516421, 3793189; 516380, 3793166; 516345, 3793154; 516311, 3793139; 516272, 3793103; 516244, 3793081; 516215, 3793077; 516187, 3793090; 516206, 3793135; 516202, 3793144; 516207, 3793149; 516196, 3793141; 516172, 3793137; 516163, 3793137; 516157, 3793137; 516154, 3793135; 516147, 3793133; 516132, 3793125; 516128, 3793123; 516109, 3793112; 516096, 3793112; 516095, 3793112; 516081, 3793111; 516065, 3793105; 516045, 3793109; 516017, 3793126; 516016, 3793127; 516006, 3793132; 516003, 3793145; 515998, 3793153; 515995, 3793166; 515988, 3793165; 515980, 3793163; 515971, 3793161; 515961, 3793161; 515956, 3793162; 515943, 3793162; 515926, 3793178; 515919, 3793180; 515912, 3793182; 515905, 3793188; 515899, 3793193; 515893, 3793198; 515884, 3793209; 515881, 3793219; 515879, 3793220; 515793, 3793243; 515732, 3793233; 515685, 3793220; 515647, 3793211; 515577, 3793211; 515536, 3793230; 515507, 3793261; 515501, 3793303; 515501, 3793335; 515542, 3793357; 515586, 3793360; 515625, 3793357; 515666, 3793341; 515707, 3793335; 515761, 3793338; 515809, 3793354; 515828, 3793376; 515851, 3793399; 515851, 3793403; 515848, 3793408; 515845, 3793414; 515844, 3793417; 515842, 3793424; 515842, 3793431; 515843, 3793438; 515839, 3793448; 515845, 3793446; 515849, 3793444; 515856, 3793439; 515860, 3793433; 515872, 3793430; 515873, 3793429; 515879, 3793443; 515901, 3793468; 515904, 3793468; 515910, 3793468; 515917, 3793461; 515921, 3793461; 515935, 3793473; 515980, 3793495; 516015, 3793501; 516082, 3793514; 516132, 3793514; 516212, 3793520; 516262, 3793527; 516297, 3793523.

(ii) Unit ARUR 9. Land bounded by the following UTM NAD27 coordinates (E,N): 516768, 3792969; 516744, 3792965; 516720, 3792965; 516705, 3792961; 516685, 3792953; 516673, 3792949; 516652, 3792935; 516645, 3792926; 516642, 3792923; 516641, 3792918; 516633, 3792898; 516633, 3792891; 516633, 3792891; 516623, 3792868; 516621, 3792864; 516585, 3792863; 516581, 3792865; 516578, 3792862; 516562, 3792870; 516560, 3792871; 516556, 3792871; 516545, 3792873; 516540, 3792875; 516521, 3792875; 516510, 3792864; 516502, 3792855; 516496, 3792848; 516490, 3792840; 516477, 3792833; 516463, 3792824; 516461, 3792822; 516450, 3792804; 516447, 3792800; 516438, 3792788; 516423, 3792784; 516410, 3792780; 516377, 3792769; 516375, 3792768; 516364, 3792763; 516319, 3792740; 516318, 3792740; 516311, 3792737; 516304, 3792731; 516298, 3792731; 516283, 3792725; 516279, 3792728; 516271, 3792727; 516229, 3792731; 516176, 3792758; 516157, 3792773; 516130, 3792803; 516127, 3792815; 516119, 3792849; 516138, 3792891; 516157, 3792925; 516180, 3792952; 516203, 3792979; 516233, 3793009; 516268, 3793036; 516274, 3793041; 516275, 3793055; 516282, 3793087; 516298, 3793112; 516329, 3793125; 516364, 3793131; 516453, 3793154; 516520, 3793160; 516590, 3793166; 516610, 3793155; 516641, 3793150; 516668, 3793139; 516694, 3793116; 516717, 3793093; 516732, 3793074; 516748, 3793055; 516759, 3793039; 516770, 3793024; 516772, 3793012; 516775, 3793010; 516778, 3793004; 516778, 3793004; 516780, 3793001; 516784, 3792993; 516783, 3792989; 516783, 3792987; 516783, 3792987; 516783, 3792987; 516782, 3792985; 516780, 3792983; 516780, 3792981; 516777, 3792979; 516777, 3792978; 516775, 3792975; 516773, 3792971; 516772, 3792971; 516772, 3792971; 516771, 3792971; 516769, 3792970; 516768, 3792969.

(iii) Unit ARUR 12. Land bounded by the following UTM NAD27 coordinates (E,N): 516160, 3795525; 516163, 3795551; 516182, 3795563; 516194, 3795563; 516198, 3795566; 516240, 3795559; 516278, 3795551; 516308, 3795555; 516331, 3795578; 516396, 3795605; 516406, 3795603; 516415, 3795605; 516453, 3795601; 516491, 3795578; 516491, 3795574; 516491, 3795551; 516472, 3795525; 516466, 3795501; 516465, 3795486; 516468, 3795452; 516480, 3795422; 516486, 3795415; 516518, 3795399; 516552, 3795379; 516598, 3795380; 516649, 3795388; 516655, 3795391; 516654, 3795425; 516658, 3795442; 516685, 3795452; 516698, 3795449; 516708, 3795431; 516716, 3795406; 516765, 3795429; 516807, 3795448; 516810, 3795448; 516834, 3795456; 516857, 3795452; 516906, 3795429; 516933, 3795410; 516960, 3795383; 516971, 3795361; 516986, 3795334; 517009, 3795299; 517032, 3795262; 517063, 3795223; 517097, 3795181; 517110, 3795163; 517131, 3795140; 517165, 3795101; 517184, 3795090; 517207, 3795083; 517211, 3795082; 517269, 3795104; 517278, 3795133; 517272, 3795170; 517264, 3795193; 517230, 3795239; 517196, 3795288; 517154, 3795349; 517150, 3795370; 517146, 3795376; 517139, 3795399; 517141, 3795414; 517139, 3795425; 517146, 3795448; 517154, 3795471; 517211, 3795517; 517245, 3795521; 517314, 3795517; 517360, 3795509; 517381, 3795485; 517386, 3795479; 517388, 3795476; 517402, 3795460; 517413, 3795433; 517440, 3795387; 517460, 3795371; 517489, 3795353; 517506, 3795341; 517520, 3795334; 517584, 3795315; 517611, 3795292; 517653, 3795261; 517672, 3795219; 517699, 3795159; 517718, 3795115; 517749, 3795078; 517759, 3795070; 517786, 3795052; 517809, 3795029; 517840, 3794999; 517841, 3794997; 517851, 3794987; 517882, 3794923; 517908, 3794881; 517917, 3794871; 517939, 3794854; 517981, 3794819; 518023, 3794812; 518038, 3794812; 518095, 3794819; 518152, 3794816; 518155, 3794815; 518171, 3794816; 518202, 3794804; 518251, 3794778; 518339, 3794755; 518411, 3794732; 518461, 3794724; 518461, 3794713; 518457, 3794698; 518442, 3794683; 518439, 3794680; 518438, 3794679; 518415, 3794652; 518458, 3794642; 518462, 3794598; 518443, 3794587; 518438, 3794583; 518413, 3794573; 518371, 3794577; 518322, 3794586; 518279, 3794597; 518246, 3794608; 518230, 3794614; 518206, 3794614; 518133, 3794617; 518117, 3794619; 518097, 3794610; 518097, 3794615; 518097, 3794618; 518098, 3794621; 518069, 3794625; 518061, 3794625; 518045, 3794627; 518046, 3794602; 518045, 3794602; 518039, 3794605; 518034, 3794609; 518019, 3794610; 518017, 3794611; 518019, 3794605; 518019, 3794589; 518012, 3794567; 517993, 3794554; 517968, 3794567; 517946, 3794573; 517936, 3794560; 517920, 3794548; 517914, 3794549; 517917, 3794545; 517924, 3794535; 517931, 3794526; 517939, 3794516; 517948, 3794503; 517954, 3794493; 517959, 3794482; 517964, 3794473; 517964, 3794468; 517959, 3794461; 517950, 3794456; 517934, 3794458; 517923, 3794462; 517905, 3794469; 517892, 3794475; 517882, 3794478; 517869, 3794480; 517852, 3794480; 517859, 3794462; 517866, 3794439; 517889, 3794413; 517927, 3794397; 517988, 3794404; 518030, 3794416; 518087, 3794439; 518110, 3794450; 518141, 3794473; 518187, 3794489; 518187, 3794490; 518222, 3794509; 518263, 3794506; 518311, 3794497; 518358, 3794490; 518419, 3794490; 518476, 3794493; 518481, 3794494; 518521, 3794504; 518558, 3794517; 518564, 3794521; 518569, 3794521; 518583, 3794526; 518586, 3794527; 518612, 3794538; 518617, 3794537; 518631, 3794533; 518632, 3794534; 518633, 3794533; 518663, 3794526; 518666, 3794509; 518673, 3794503; 518666, 3794484; 518666, 3794453; 518652, 3794447; 518644, 3794435; 518627, 3794432; 518620, 3794430; 518617, 3794427; 518602, 3794424; 518587, 3794421; 518565, 3794411; 518549, 3794409; 518508, 3794396; 518507, 3794395; 518505, 3794395; 518499, 3794393; 518457, 3794385; 518453, 3794385; 518428, 3794373; 518387, 3794376; 518358, 3794379; 518338, 3794383; 518327, 3794381; 518297, 3794362; 518273, 3794328; 518272, 3794325; 518277, 3794321; 518281, 3794312; 518281, 3794302; 518281, 3794291; 518279, 3794282; 518279, 3794278; 518293, 3794271; 518316, 3794259; 518369, 3794248; 518415, 3794244; 518426, 3794242; 518442, 3794241; 518455, 3794236; 518468, 3794233; 518507, 3794221; 518533, 3794195; 518541, 3794175; 518552, 3794157; 518554, 3794145; 518560, 3794134; 518558, 3794126; 518560, 3794115; 518552, 3794092; 518539, 3794081; 518529, 3794065; 518480, 3794069; 518474, 3794071; 518446, 3794073; 518407, 3794092; 518373, 3794111; 518312, 3794145; 518305, 3794152; 518297, 3794157; 518280, 3794177; 518270, 3794183; 518251, 3794179; 518221, 3794179; 518175, 3794164; 518142, 3794157; 518099, 3794141; 518065, 3794130; 518030, 3794122; 517965, 3794115; 517927, 3794103; 517901, 3794092; 517878, 3794093; 517863, 3794088; 517830, 3794088; 517836, 3794390; 517634, 3794390; 517639, 3794589; 517192, 3794589; 517160, 3794606; 517141, 3794622; 517130, 3794635; 517123, 3794641; 517120, 3794653; 517119, 3794657; 517112, 3794663; 517070, 3794705; 517068, 3794708; 517063, 3794711; 517052, 3794723; 517046, 3794727; 517042, 3794731; 517041, 3794732; 517036, 3794736; 517030, 3794739; 517025, 3794739; 517020, 3794742; 517019, 3794742; 517014, 3794745; 517009, 3794751; 517014, 3794755; 517025, 3794753; 517041, 3794746; 517040, 3794749; 516998, 3794804; 516956, 3794839; 516952, 3794841; 516906, 3794865; 516883, 3794884; 516856, 3794905; 516851, 3794907; 516849, 3794897; 516839, 3794910; 516811, 3794919; 516735, 3794926; 516686, 3794937; 516674, 3794938; 516657, 3794947; 516643, 3794953; 516613, 3794973; 516582, 3794991; 516573, 3795005; 516567, 3795010; 516548, 3795037; 516525, 3795059; 516522, 3795063; 516487, 3795098; 516483, 3795101; 516472, 3795119; 516461, 3795136; 516443, 3795164; 516430, 3795185; 516420, 3795212; 516419, 3795216; 516396, 3795265; 516377, 3795311; 516365, 3795341; 516346, 3795368; 516304, 3795399; 516259, 3795433; 516198, 3795471; 516175, 3795494; 516167, 3795501; 516168, 3795507; 516160, 3795525.

(iv) Note: Map of Unit ARUR 8, ARUR 9, and ARUR 12 (Map 6) follows:

BILLING CODE 4310-55-P

BILLING CODE 4310-55-C

(11) Units ARUR 10 and ARUR 11. Holcomb Valley, San Bernardino County, California. From USGS 1:24,000 quadrangle map Fawnskin.

(i) Unit ARUR 10. Land bounded by the following UTM NAD27 coordinates (E,N): 506727, 3796049; 506738, 3796035; 506743, 3796031; 506761, 3796001; 506765, 3795985; 506767, 3795981; 506783, 3795942; 506785, 3795915; 506787, 3795910; 506790, 3795878; 506784, 3795872; 506782, 3795867; 506779, 3795843; 506773, 3795840; 506772, 3795835; 506767, 3795833; 506752, 3795821; 506730, 3795818; 506689, 3795818; 506663, 3795823; 506634, 3795825; 506624, 3795837; 506612, 3795847; 506606, 3795854; 506597, 3795862; 506571, 3795881; 506571, 3795883; 506557, 3795893; 506544, 3795910; 506529, 3795930; 506530, 3795930; 506528, 3795934; 506565, 3795933; 506565, 3795935; 506574, 3795964; 506600, 3795986; 506635, 3796001; 506633, 3796023; 506631, 3796041; 506632, 3796041; 506644, 3796045; 506663, 3796042; 506681, 3796042; 506707, 3796045; 506715, 3796049; 506727, 3796049. Land bounded by the following UTM NAD27 coordinates (E,N): 506666, 3795511; 506661, 3795481; 506647, 3795471; 506625, 3795463; 506622, 3795462; 506612, 3795476; 506604, 3795484; 506602, 3795500; 506591, 3795480; 506584, 3795455; 506569, 3795435; 506569, 3795428; 506562, 3795409; 506556, 3795389; 506547, 3795351; 506537, 3795317; 506532, 3795310; 506524, 3795303; 506512, 3795298; 506504, 3795291; 506495, 3795298; 506492, 3795307; 506487, 3795328; 506483, 3795347; 506477, 3795372; 506472, 3795393; 506470, 3795416; 506466, 3795433; 506463, 3795457; 506468, 3795488; 506472, 3795510; 506474, 3795533; 506477, 3795567; 506485, 3795593; 506494, 3795624; 506507, 3795657; 506517, 3795687; 506534, 3795715; 506555, 3795736; 506549, 3795747; 506552, 3795771; 506564, 3795799; 506572, 3795807; 506600, 3795819; 506616, 3795811; 506617, 3795807; 506620, 3795805; 506635, 3795794; 506639, 3795763; 506641, 3795759; 506670, 3795753; 506695, 3795750; 506705, 3795731; 506695, 3795712; 506690, 3795703; 506692, 3795687; 506687, 3795672; 506679, 3795655; 506689, 3795626; 506705, 3795598; 506708, 3795575; 506689, 3795550; 506677, 3795540; 506676, 3795537; 506666, 3795511.

(ii) Unit ARUR 11. Land bounded by the following UTM NAD27 coordinates (E,N): 509943, 3794740; 509997, 3794674; 510070, 3794623; 510076, 3794591; 510073, 3794585; 510044, 3794562; 510003, 3794556; 510054, 3794518; 510105, 3794477; 510124, 3794477; 510194, 3794473; 510219, 3794442; 510222, 3794391; 510168, 3794347; 510105, 3794283; 510067, 3794201; 510054, 3794162; 510013, 3794124; 509999, 3794124; 509999, 3794118; 509996, 3794110; 509991, 3794106; 509987, 3794102; 509981, 3794099; 509975, 3794097; 509968, 3794095; 509961, 3794096; 509955, 3794096; 509950, 3794098; 509946, 3794101; 509940, 3794109; 509940, 3794115; 509940, 3794122; 509943, 3794131; 509947, 3794139; 509911, 3794159; 509908, 3794173; 509894, 3794173; 509886, 3794181; 509874, 3794221; 509894, 3794256; 509914, 3794284; 509943, 3794302; 509943, 3794305; 509893, 3794327; 509858, 3794375; 509839, 3794404; 509807, 3794445; 509782, 3794480; 509747, 3794531; 509668, 3794579; 509639, 3794617; 509643, 3794633; 509635, 3794642; 509648, 3794660; 509649, 3794664; 509664, 3794674; 509668, 3794674; 509674, 3794667; 509680, 3794664; 509682, 3794659; 509737, 3794651; 509797, 3794623; 509800, 3794620; 509787, 3794641; 509771, 3794660; 509747, 3794684; 509743, 3794708; 509747, 3794731; 509755, 3794743; 509775, 3794743; 509791, 3794735; 509806, 3794729; 509803, 3794743; 509822, 3794772; 509902, 3794759; 509943, 3794740.

(iii) Note: Units ARUR 10 and ARUR 11 (Map 7) follows:

BILLING CODE 4310-55-P

BILLING CODE 4310-55-C

(12) Units ARUR 13 and ARUR 14. Sawmill, San Bernardino County, California. From USGS 1:24,000 quadrangle maps Big Bear City and Moonridge.

(i) Unit ARUR 13. Land bounded by the following UTM NAD27 coordinates (E,N): 514010, 3788419; 513955, 3788406; 513936, 3788404; 513891, 3788404; 513855, 3788412; 513831, 3788423; 513803, 3788431; 513777, 3788444; 513756, 3788453; 513744, 3788464; 513731, 3788473; 513761, 3788481; 513764, 3788488; 513768, 3788499; 513787, 3788551; 513781, 3788561; 513779, 3788566; 513777, 3788572; 513775, 3788579; 513777, 3788585; 513784, 3788591; 513809, 3788609; 513815, 3788611; 513820, 3788612; 513823, 3788612; 513837, 3788627; 513843, 3788649; 513843, 3788659; 513842, 3788660; 513830, 3788680; 513826, 3788709; 513821, 3788716; 513811, 3788742; 513789, 3788818; 513789, 3788865; 513789, 3788897; 513789, 3788923; 513776, 3788948; 513761, 3788973; 513742, 3788986; 513735, 3789005; 513719, 3789024; 513703, 3789050; 513697, 3789059; 513691, 3789069; 513678, 3789094; 513665, 3789113; 513653, 3789135; 513652, 3789137; 513648, 3789140; 513624, 3789156; 513620, 3789168; 513604, 3789184; 513600, 3789208; 513606, 3789220; 513606, 3789228; 513608, 3789229; 513581, 3789259; 513591, 3789262; 513601, 3789262; 513605, 3789257; 513608, 3789253; 513611, 3789247; 513621, 3789233; 513636, 3789235; 513645, 3789230; 513648, 3789234; 513652, 3789230; 513658, 3789229; 513662, 3789230; 513670, 3789236; 513674, 3789239; 513679, 3789244; 513686, 3789364; 513695, 3789377; 513704, 3789381; 513715, 3789379; 513719, 3789377; 513728, 3789372; 513730, 3789357; 513724, 3789335; 513743, 3789335; 513747, 3789335; 513763, 3789331; 513766, 3789326; 513772, 3789321; 513778, 3789313; 513781, 3789306; 513783, 3789303; 513783, 3789275; 513778, 3789268; 513778, 3789266; 513776, 3789263; 513753, 3789217; 513753, 3789214; 513750, 3789205; 513748, 3789194; 513745, 3789182; 513744, 3789171; 513744, 3789168; 513759, 3789161; 513765, 3789157; 513772, 3789154; 513780, 3789137; 513792, 3789126; 513793, 3789113; 513798, 3789111; 513804, 3789105; 513812, 3789102; 513826, 3789091; 513836, 3789093; 513846, 3789090; 513853, 3789083; 513854, 3789059; 513850, 3789053; 513878, 3789041; 513902, 3789017; 513905, 3789013; 513906, 3789010; 513913, 3789005; 513913, 3789001; 513918, 3788993; 513918, 3788973; 513923, 3788961; 513919, 3788942; 513926, 3788919; 513935, 3788882; 513948, 3788850; 513957, 3788824; 513964, 3788796; 513957, 3788729; 513945, 3788701; 513938, 3788672; 513935, 3788640; 513948, 3788599; 513964, 3788577; 513986, 3788561; 513992, 3788542; 513999, 3788507; 514008, 3788472; 514021, 3788448; 514027, 3788437; 514027, 3788419.

(ii) Unit ARUR 14. Land bounded by the following UTM NAD27 coordinates (E,N): 515023, 3789730; 515031, 3789764; 515027, 3789815; 515027, 3789875; 515029, 3789884; 515029, 3789895; 515034, 3789907; 515034, 3789909; 515035, 3789912; 515037, 3789923; 515053, 3789964; 515054, 3789966; 515058, 3789977; 515063, 3789983; 515066, 3789986; 515069, 3789988; 515077, 3789997; 515092, 3789990; 515094, 3789989; 515104, 3789979; 515113, 3789974; 515120, 3789962; 515128, 3789941; 515137, 3789925; 515140, 3789915; 515142, 3789911; 515153, 3789887; 515153, 3789881; 515156, 3789875; 515148, 3789851; 515132, 3789851; 515116, 3789851; 515113, 3789850; 515104, 3789865; 515098, 3789869; 515091, 3789873; 515089, 3789873; 515077, 3789867; 515066, 3789856; 515069, 3789834; 515073, 3789814; 515077, 3789790; 515085, 3789759; 515088, 3789732.

(iii) Note: Units ARUR 13 and ARUR 14 (Map 8) follows:

BILLING CODE 4310-55-P

BILLING CODE 4310-55-C

(13) Unit ARUR 15. South Baldwin Ridge/Erwin Lake, San Bernardino County, California.

(i) From USGS 1:24,000 quadrangle map Big Bear City. Land bounded by the following UTM NAD27 coordinates (E,N): 518798, 3790531; 518814, 3790499; 518836, 3790501; 518883, 3790501; 518891, 3790493; 518942, 3790490; 519022, 3790477; 519063, 3790455; 519104, 3790439; 519114, 3790429; 519108, 3790395; 519085, 3790359; 519057, 3790347; 519012, 3790344; 518955, 3790357; 518923, 3790404; 518900, 3790419; 518911, 3790389; 518923, 3790370; 518907, 3790346; 518876, 3790342; 518839, 3790342; 518822, 3790331; 518821, 3790331; 518820, 3790320; 518800, 3790313; 518797, 3790307; 518792, 3790302; 518776, 3790291; 518766, 3790295; 518764, 3790297; 518763, 3790296; 518744, 3790298; 518740, 3790308; 518737, 3790313; 518724, 3790318; 518725, 3790327; 518714, 3790333; 518716, 3790337; 518707, 3790343; 518699, 3790340; 518697, 3790342; 518695, 3790345; 518693, 3790346; 518691, 3790351; 518685, 3790353; 518683, 3790359; 518682, 3790364; 518683, 3790368; 518698, 3790377; 518704, 3790378; 518712, 3790375; 518707, 3790379; 518666, 3790392; 518637, 3790398; 518629, 3790391; 518618, 3790391; 518613, 3790387; 518613, 3790385; 518611, 3790382; 518605, 3790378; 518600, 3790374; 518591, 3790377; 518580, 3790376; 518568, 3790381; 518553, 3790380; 518545, 3790386; 518540, 3790382; 518541, 3790379; 518541, 3790375; 518542, 3790373; 518540, 3790371; 518538, 3790371; 518535, 3790374; 518533, 3790378; 518531, 3790382; 518530, 3790387; 518529, 3790392; 518530, 3790397; 518532, 3790400; 518536, 3790400; 518542, 3790399; 518550, 3790401; 518553, 3790401; 518563, 3790404; 518567, 3790405; 518568, 3790403; 518570, 3790401; 518574, 3790401; 518577, 3790399; 518583, 3790401; 518590, 3790403; 518596, 3790399; 518596, 3790397; 518597, 3790397; 518602, 3790395; 518604, 3790398; 518607, 3790400; 518609, 3790402; 518610, 3790404; 518602, 3790406; 518597, 3790409; 518586, 3790409; 518562, 3790429; 518582, 3790445; 518597, 3790453; 518595, 3790463; 518574, 3790467; 518561, 3790460; 518541, 3790453; 518503, 3790453; 518490, 3790477; 518517, 3790511; 518551, 3790531; 518632, 3790551; 518686, 3790571; 518720, 3790579; 518740, 3790579; 518764, 3790562; 518798, 3790531.

(ii) Note: Map of ARUR 15 (Map 9) follows:

BILLING CODE 4310-55-P

BILLING CODE 4310-55-C

(14) Units ARUR 16 and ARUR 17. Sugarloaf Ridge, San Bernardino County, California. From USGS 1:24,000 quadrangle map Moonridge.

(i) Unit ARUR 16. Land bounded by the following UTM NAD27 coordinates (E,N): 521244, 3783525; 521340, 3783525; 521411, 3783533; 521470, 3783533; 521550, 3783517; 521601, 3783537; 521617, 3783561; 521669, 3783589; 521752, 3783569; 521824, 3783533; 521883, 3783493; 521939, 3783453; 521959, 3783406; 521971, 3783351; 521982, 3783287; 521975, 3783203; 521970, 3783181; 521967, 3783152; 521967, 3783101; 521967, 3783072; 521951, 3783015; 521939, 3782987; 521897, 3782936; 521875, 3782911; 521831, 3782891; 521793, 3782882; 521739, 3782888; 521694, 3782888; 521650, 3782911; 521624, 3782926; 521602, 3782955; 521561, 3782993; 521520, 3783066; 521485, 3783126; 521462, 3783203; 521440, 3783228; 521380, 3783237; 521323, 3783241; 521266, 3783247; 521228, 3783247; 521151, 3783237; 521075, 3783234; 521040, 3783237; 520939, 3783250; 520894, 3783257; 520859, 3783279; 520862, 3783301; 520856, 3783336; 520853, 3783371; 520852, 3783374; 520828, 3783382; 520780, 3783410; 520764, 3783453; 520776, 3783521; 520784, 3783549; 520784, 3783557; 520752, 3783628; 520764, 3783652; 520820, 3783684; 520867, 3783692; 520927, 3783688; 520955, 3783652; 520994, 3783605; 521022, 3783573; 521078, 3783549; 521109, 3783533; 521244, 3783525.

(ii) Unit ARUR 17. Land bounded by the following UTM NAD27 coordinates (E,N): 522459, 3784505; 522475, 3784502; 522490, 3784501; 522542, 3784497; 522570, 3784493; 522573, 3784489; 522582, 3784489; 522598, 3784448; 522601, 3784441; 522629, 3784382; 522640, 3784339; 522641, 3784335; 522641, 3784333; 522645, 3784318; 522637, 3784302; 522627, 3784289; 522625, 3784287; 522623, 3784285; 522621, 3784283; 522607, 3784265; 522602, 3784251; 522602, 3784227; 522613, 3784195; 522622, 3784177; 522637, 3784156; 522641, 3784144; 522640, 3784127; 522641, 3784116; 522638, 3784107; 522637, 3784097; 522633, 3784091; 522621, 3784064; 522586, 3784040; 522552, 3784021; 522534, 3784009; 522531, 3784009; 522530, 3784009; 522486, 3784009; 522455, 3784013; 522427, 3784044; 522387, 3784088; 522351, 3784135; 522347, 3784153; 522340, 3784168; 522292, 3784188; 522268, 3784200; 522258, 3784217; 522252, 3784223; 522256, 3784247; 522256, 3784255; 522280, 3784279; 522289, 3784297; 522292, 3784306; 522308, 3784366; 522308, 3784397; 522324, 3784449; 522327, 3784451; 522328, 3784454; 522339, 3784459; 522359, 3784473; 522403, 3784493; 522447, 3784505; 522455, 3784504; 522459, 3784505.

(iii) Note: Map of Units ARUR 16 and ARUR 17 (Map 10) follows:

BILLING CODE 4310-55-P

BILLING CODE 4310-55-C

* * * * *

Family Orobanchaceae: Castilleja cinerea (Ash-Gray Indian Paintbrush)

(1) Critical habitat units for this species are found in San Bernardino County, California.

(2) The primary constituent elements of critical habitat for Castilleja cinerea are the habitat components that provide:

(i) Pebble plains in dry meadow-like openings, or non-pebble plain dry meadow margin areas, within upper montane coniferous forest, pinyon-juniper woodlands, or Great Basin sagebrush in the San Bernardino Mountains of San Bernardino County, California; at elevations between 5,900 to 9,800 ft (1,830 to 2,990 m) that provide space for individual and population growth, reproduction and dispersal;

(ii) Seasonally wet clay, or sandy clay soils, generally containing quartzite pebbles, subject to natural hydrological processes that include water hydrating the soil and freezing in winter and drying in summer causing lifting and churning of included pebbles, or seasonally wet silt or saline clay soils in non-pebble plain dry meadow margin areas that provide space for individual and population growth, reproduction and dispersal, adequate water, air, minerals, and other nutritional or physiological requirements to the species; and

(iii) The presence of one or more of its known host species such as Eriogonum kennedyi var. austromontanum, E. kennedyi. var. kennedyi, and E. wrightii var. subscaposumon in pebble plain habitat and species such as Artemisia tridentata, A. nova, and E. wrightii var. subscaposumon in pebble plain and non-pebble plain meadow margin habitat that provide some of the physiological requirements for this species.

(3) Critical habitat does not include manmade structures (such as buildings, aqueducts, airports, roads, and other paved areas) and the land on which they are located existing on the effective date of this rule and not containing one or more of the primary constituent elements.

(4) Critical habitat map units. Data layers defining map units were created on a base of USGS 1:24,0000 maps, and critical habitat units were then mapped using Universal Transverse Mercator (UTM) coordinates.

(5) Index map (Map 1) follows:

BILLING CODE 4310-55-P

BILLING CODE 4310-55-P

(6) Units CACI 1 and CACI 2. Arrastre/Union Flat, San Bernardino County, California. From USGS 1:24,000 quadrangle map Big Bear City.

(i) Unit CACI 1. Land bounded by the following UTM NAD27 coordinates (E,N): 512434, 3795966; 512436, 3795961; 512446, 3795966; 512450, 3795966; 512469, 3795969; 512508, 3795965; 512533, 3795959; 512537, 3795959; 512539, 3795960; 512549, 3795964; 512560, 3795961; 512568, 3795954; 512573, 3795948; 512573, 3795936; 512571, 3795930; 512568, 3795927; 512565, 3795927; 512563, 3795927; 512563, 3795924; 512561, 3795914; 512556, 3795904; 512555, 3795903; 512554, 3795901; 512548, 3795879; 512535, 3795835; 512544, 3795791; 512546, 3795790; 512554, 3795787; 512568, 3795779; 512576, 3795774; 512582, 3795771; 512592, 3795764; 512595, 3795753; 512595, 3795747; 512591, 3795739; 512584, 3795732; 512581, 3795731; 512575, 3795727; 512569, 3795727; 512560, 3795728; 512552, 3795733; 512544, 3795739; 512542, 3795740; 512541, 3795739; 512540, 3795738; 512525, 3795717; 512469, 3795694; 512447, 3795680; 512445, 3795679; 512427, 3795653; 512428, 3795649; 512450, 3795617; 512476, 3795588; 512476, 3795588; 512504, 3795564; 512514, 3795552; 512541, 3795525; 512546, 3795509; 512548, 3795508; 512553, 3795501; 512554, 3795500; 512558, 3795490; 512566, 3795479; 512573, 3795468; 512584, 3795444; 512586, 3795433; 512588, 3795412; 512594, 3795398; 512601, 3795395; 512607, 3795395; 512627, 3795401; 512632, 3795400; 512641, 3795402; 512654, 3795400; 512675, 3795405; 512691, 3795401; 512699, 3795397; 512703, 3795397; 512707, 3795394; 512715, 3795393; 512718, 3795391; 512730, 3795388; 512740, 3795378; 512742, 3795374; 512746, 3795371; 512770, 3795357; 512806, 3795330; 512815, 3795317; 512837, 3795311; 512856, 3795327; 512872, 3795330; 512883, 3795343; 512886, 3795339; 512900, 3795331; 512905, 3795319; 512909, 3795312; 512913, 3795307; 512913, 3795306; 512913, 3795305; 512914, 3795303; 512920, 3795287; 512924, 3795286; 512935, 3795275; 512938, 3795270; 512944, 3795264; 512948, 3795258; 512953, 3795250; 512955, 3795245; 512954, 3795239; 512953, 3795233; 512949, 3795225; 512946, 3795221; 512949, 3795219; 512976, 3795203; 512998, 3795196; 513008, 3795189; 513014, 3795187; 513019, 3795183; 513030, 3795176; 513031, 3795173; 513048, 3795163; 513049, 3795158; 513051, 3795154; 513053, 3795150; 513053, 3795143; 513053, 3795142; 513056, 3795131; 513053, 3795122; 513053, 3795109; 513055, 3795098; 513059, 3795095; 513062, 3795091; 513066, 3795086; 513069, 3795084; 513072, 3795077; 513076, 3795073; 513079, 3795066; 513080, 3795064; 513083, 3795057; 513083, 3795052; 513083, 3795047; 513082, 3795043; 513080, 3795036; 513080, 3795034; 513079, 3795025; 513077, 3795018; 513075, 3795011; 513075, 3795007; 513072, 3794999; 513069, 3794994; 513066, 3794989; 513058, 3794982; 513053, 3794982; 513047, 3794982; 513037, 3794982; 513035, 3794981; 513017, 3794975; 513010, 3794975; 513006, 3794978; 513000, 3794981; 512993, 3794985; 512988, 3794988; 512973, 3794993; 512965, 3794993; 512960, 3794991; 512951, 3794990; 512944, 3794988; 512938, 3794987; 512934, 3794988; 512924, 3794989; 512915, 3794991; 512897, 3794997; 512886, 3795001; 512875, 3795007; 512866, 3795012; 512852, 3795026; 512850, 3795031; 512847, 3795037; 512848, 3795042; 512848, 3795045; 512856, 3795057; 512861, 3795057; 512871, 3795053; 512875, 3795052; 512883, 3795047; 512863, 3795065; 512861, 3795066; 512853, 3795072; 512853, 3795075; 512847, 3795081; 512851, 3795097; 512867, 3795120; 512875, 3795132; 512879, 3795132; 512881, 3795135; 512913, 3795143; 512919, 3795177; 512903, 3795187; 512899, 3795188; 512884, 3795190; 512840, 3795190; 512839, 3795192; 512835, 3795194; 512826, 3795195; 512825, 3795196; 512811, 3795199; 512812, 3795203; 512811, 3795204; 512811, 3795217; 512800, 3795241; 512793, 3795247; 512785, 3795251; 512778, 3795254; 512765, 3795263; 512732, 3795279; 512696, 3795299; 512648, 3795303; 512621, 3795315; 512618, 3795316; 512607, 3795318; 512601, 3795321; 512585, 3795327; 512561, 3795335; 512558, 3795344; 512555, 3795349; 512545, 3795359; 512533, 3795366; 512510, 3795373; 512508, 3795373; 512500, 3795376; 512498, 3795372; 512497, 3795370; 512495, 3795367; 512492, 3795368; 512490, 3795372; 512490, 3795379; 512489, 3795379; 512484, 3795381; 512485, 3795387; 512482, 3795398; 512482, 3795418; 512485, 3795432; 512484, 3795433; 512486, 3795443; 512486, 3795452; 512453, 3795490; 512413, 3795508; 512409, 3795509; 512408, 3795507; 512406, 3795499; 512398, 3795500; 512390, 3795509; 512386, 3795512; 512354, 3795501; 512340, 3795496; 512357, 3795495; 512366, 3795491; 512362, 3795478; 512360, 3795467; 512361, 3795466; 512364, 3795462; 512368, 3795462; 512373, 3795469; 512376, 3795462; 512392, 3795462; 512392, 3795461; 512393, 3795461; 512401, 3795463; 512406, 3795462; 512408, 3795459; 512429, 3795455; 512432, 3795454; 512437, 3795449; 512437, 3795446; 512434, 3795435; 512431, 3795430; 512434, 3795422; 512433, 3795419; 512434, 3795416; 512432, 3795410; 512433, 3795405; 512430, 3795402; 512428, 3795397; 512423, 3795395; 512421, 3795393; 512393, 3795381; 512369, 3795385; 512368, 3795386; 512367, 3795386; 512351, 3795394; 512339, 3795398; 512339, 3795414; 512342, 3795418; 512342, 3795425; 512350, 3795437; 512339, 3795449; 512324, 3795455; 512306, 3795472; 512299, 3795481; 512283, 3795473; 512264, 3795473; 512249, 3795472; 512248, 3795473; 512247, 3795473; 512237, 3795473; 512228, 3795473; 512223, 3795475; 512207, 3795477; 512189, 3795483; 512172, 3795485; 512165, 3795492; 512163, 3795493; 512156, 3795496; 512155, 3795496; 512150, 3795497; 512149, 3795498; 512135, 3795504; 512124, 3795510; 512100, 3795517; 512095, 3795519; 512080, 3795516; 512060, 3795516; 512044, 3795536; 512052, 3795560; 512056, 3795588; 512064, 3795616; 512064, 3795617; 512065, 3795620; 512081, 3795644; 512087, 3795650; 512088, 3795651; 512089, 3795652; 512101, 3795664; 512123, 3795675; 512123, 3795688; 512123, 3795695; 512122, 3795699; 512119, 3795715; 512111, 3795727; 512119, 3795747; 512125, 3795759; 512133, 3795784; 512135, 3795798; 512143, 3795822; 512155, 3795842; 512171, 3795857; 512199, 3795878; 512223, 3795886; 512228, 3795889; 512235, 3795890; 512242, 3795892; 512248, 3795895; 512282, 3795913; 512334, 3795929; 512377, 3795941; 512380, 3795941; 512383, 3795942; 512387, 3795942; 512394, 3795943; 512397, 3795947; 512412, 3795966; 512417, 3795971; 512422, 3795975; 512427, 3795979; 512430, 3795978; 512434, 3795966.

(ii) Unit CACI 2. Land bounded by the following UTM NAD27 coordinates (E,N): 513282, 3797202; 513312, 3797195; 513346, 3797179; 513347, 3797179; 513352, 3797178; 513378, 3797155; 513382, 3797151; 513404, 3797137; 513430, 3797126; 513434, 3797122; 513438, 3797119; 513475, 3797110; 513503, 3797106; 513500, 3797115; 513500, 3797124; 513510, 3797137; 513520, 3797137; 513532, 3797131; 513545, 3797124; 513554, 3797111; 513554, 3797108; 513567, 3797110; 513599, 3797116; 513650, 3797107; 513655, 3797103; 513659, 3797103; 513666, 3797099; 513668, 3797098; 513694, 3797083; 513708, 3797069; 513727, 3797057; 513758, 3797027; 513788, 3796985; 513797, 3796978; 513801, 3796976; 513815, 3796968; 513834, 3796962; 513876, 3796962; 513926, 3796970; 513952, 3796981; 513956, 3796985; 513979, 3797000; 514002, 3797019; 514028, 3797035; 514070, 3797061; 514093, 3797069; 514129, 3797075; 514136, 3797079; 514216, 3797087; 514238, 3797082; 514329, 3797076; 514364, 3797073; 514406, 3797069; 514444, 3797046; 514455, 3797019; 514448, 3797004; 514444, 3797001; 514441, 3796991; 514418, 3796945; 514401, 3796935; 514398, 3796928; 514393, 3796914; 514396, 3796911; 514384, 3796831; 514384, 3796806; 514387, 3796798; 514383, 3796764; 514375, 3796741; 514362, 3796721; 514357, 3796709; 514343, 3796691; 514329, 3796661; 514318, 3796650; 514303, 3796631; 514288, 3796623; 514276, 3796625; 514270, 3796622; 514239, 3796625; 514197, 3796645; 514171, 3796637; 514166, 3796635; 514151, 3796626; 514106, 3796587; 514064, 3796561; 514003, 3796519; 513965, 3796488; 513946, 3796458; 513946, 3796457; 513959, 3796433; 513996, 3796392; 514005, 3796381; 514022, 3796370; 514030, 3796350; 514036, 3796343; 514043, 3796339; 514101, 3796309; 514102, 3796309; 514108, 3796307; 514111, 3796304; 514142, 3796287; 514170, 3796255; 514215, 3796208; 514291, 3796164; 514355, 3796119; 514424, 3796055; 514439, 3796024; 514451, 3796009; 514449, 3795971; 514450, 3795964; 514443, 3795894; 514441, 3795891; 514440, 3795890; 514393, 3795830; 514332, 3795801; 514321, 3795800; 514291, 3795789; 514262, 3795785; 514258, 3795783; 514231, 3795781; 514227, 3795781; 514226, 3795781; 514155, 3795776; 514144, 3795785; 514116, 3795789; 514088, 3795817; 514047, 3795891; 514018, 3795938; 514005, 3795973; 513980, 3796014; 513957, 3796046; 513948, 3796055; 513865, 3796109; 513828, 3796145; 513797, 3796168; 513780, 3796186; 513762, 3796200; 513760, 3796201; 513723, 3796230; 513687, 3796286; 513678, 3796295; 513674, 3796304; 513669, 3796313; 513661, 3796338; 513655, 3796353; 513652, 3796365; 513634, 3796408; 513630, 3796430; 513628, 3796432; 513627, 3796434; 513625, 3796439; 513622, 3796448; 513622, 3796451; 513619, 3796455; 513615, 3796461; 513612, 3796466; 513607, 3796471; 513601, 3796475; 513594, 3796479; 513581, 3796480; 513579, 3796481; 513577, 3796481; 513568, 3796491; 513563, 3796494; 513561, 3796495; 513560, 3796500; 513560, 3796506; 513560, 3796508; 513562, 3796511; 513567, 3796513; 513573, 3796517; 513578, 3796520; 513586, 3796523; 513592, 3796524; 513582, 3796530; 513580, 3796555; 513590, 3796564; 513595, 3796566; 513601, 3796566; 513598, 3796573; 513589, 3796592; 513581, 3796602; 513570, 3796605; 513551, 3796618; 513539, 3796656; 513548, 3796669; 513548, 3796676; 513571, 3796707; 513590, 3796760; 513590, 3796810; 513587, 3796851; 513586, 3796856; 513584, 3796863; 513571, 3796887; 513565, 3796881; 513546, 3796877; 513512, 3796881; 513489, 3796900; 513481, 3796923; 513481, 3796924; 513465, 3796924; 513438, 3796920; 513432, 3796923; 513431, 3796922; 513380, 3796910; 513348, 3796878; 513329, 3796849; 513326, 3796805; 513300, 3796757; 513293, 3796749; 513291, 3796739; 513275, 3796710; 513273, 3796706; 513268, 3796698; 513256, 3796676; 513232, 3796652; 513204, 3796636; 513196, 3796629; 513168, 3796629; 513162, 3796631; 513162, 3796628; 513162, 3796619; 513158, 3796609; 513155, 3796603; 513149, 3796597; 513138, 3796593; 513131, 3796584; 513128, 3796581; 513148, 3796577; 513167, 3796562; 513167, 3796528; 513152, 3796516; 513146, 3796511; 513141, 3796511; 513118, 3796501; 513119, 3796501; 513131, 3796493; 513134, 3796488; 513145, 3796482; 513149, 3796466; 513145, 3796450; 513137, 3796434; 513126, 3796434; 513115, 3796429; 513106, 3796427; 513100, 3796425; 513087, 3796427; 513085, 3796426; 513082, 3796427; 513085, 3796425; 513089, 3796424; 513094, 3796423; 513099, 3796421; 513103, 3796421; 513107, 3796420; 513109, 3796419; 513120, 3796414; 513122, 3796411; 513123, 3796407; 513123, 3796401; 513121, 3796389; 513110, 3796387; 513089, 3796387; 513085, 3796387; 513080, 3796383; 513075, 3796378; 513069, 3796376; 513065, 3796378; 513061, 3796380; 513038, 3796401; 513031, 3796403; 513022, 3796403; 513016, 3796403; 513010, 3796404; 513007, 3796408; 512998, 3796427; 512993, 3796432; 512984, 3796432; 512976, 3796431; 512967, 3796430; 512958, 3796430; 512948, 3796431; 512942, 3796435; 512942, 3796440; 512943, 3796447; 512947, 3796453; 512958, 3796458; 512968, 3796460; 512981, 3796461; 512990, 3796462; 512998, 3796461; 513002, 3796462; 513000, 3796463; 512996, 3796465; 512992, 3796472; 512986, 3796477; 512982, 3796485; 512977, 3796493; 512985, 3796499; 512986, 3796501; 512996, 3796509; 513006, 3796518; 513003, 3796519; 513001, 3796524; 513001, 3796528; 513003, 3796531; 513006, 3796533; 513013, 3796536; 513026, 3796540; 513031, 3796543; 513019, 3796558; 513004, 3796600; 513004, 3796623; 513001, 3796637; 513009, 3796690; 513024, 3796717; 513039, 3796763; 513070, 3796797; 513089, 3796843; 513096, 3796872; 513099, 3796901; 513095, 3796915; 513094, 3796917; 513076, 3796939; 513072, 3796962; 513087, 3796975; 513089, 3796980; 513123, 3797003; 513126, 3797015; 513126, 3797031; 513106, 3797069; 513087, 3797088; 513084, 3797137; 513096, 3797163; 513103, 3797175; 513141, 3797195; 513182, 3797197; 513184, 3797197; 513218, 3797201; 513240, 3797201; 513255, 3797202; 513282, 3797202.

(iii) Note: Map of Units CACI 1 and CACI 2 (Map 2) follows:

BILLING CODE 4310-55-P

BILLING CODE 4310-55-C

(7) Units CACI 3 and CACI 4. Big Bear Lake, San Bernardino County, California. From USGS 1:24,000 quadrangle map Big Bear Lake.

(i) Unit CACI 3. Land bounded by the following UTM NAD27 coordinates (E,N): 506933, 3788172; 506933, 3788172; 507055, 3788172; 507058, 3788169; 507058, 3788169; 507166, 3788172; 507208, 3788170; 507213, 3788165; 507215, 3788157; 507213, 3788134; 507205, 3788104; 507197, 3788062; 507176, 3788009; 507151, 3787955; 507123, 3787915; 507111, 3787897; 507087, 3787865; 507069, 3787840; 507045, 3787831; 507043, 3787831; 507040, 3787820; 507041, 3787818; 507036, 3787807; 507036, 3787807; 507036, 3787806; 507036, 3787806; 507025, 3787783; 507009, 3787755; 507006, 3787754; 507000, 3787747; 506974, 3787747; 506974, 3787747; 506973, 3787747; 506968, 3787747; 506967, 3787748; 506954, 3787751; 506938, 3787779; 506942, 3787811; 506954, 3787842; 506966, 3787866; 506974, 3787869; 506956, 3787901; 506949, 3787935; 506941, 3787974; 506938, 3788020; 506941, 3788043; 506939, 3788042; 506926, 3788042; 506907, 3788042; 506901, 3788049; 506892, 3788058; 506885, 3788071; 506885, 3788093; 506888, 3788115; 506895, 3788135; 506911, 3788153; 506933, 3788160; 506933, 3788172.

(ii) Unit CACI 4. Land bounded by the following UTM NAD27 coordinates (E,N): 507777, 3788001; 507780, 3787993; 507783, 3788009; 507791, 3788029; 507801, 3788015; 507806, 3788013; 507806, 3788005; 507811, 3787989; 507811, 3787973; 507811, 3787949; 507810, 3787946; 507810, 3787941; 507807, 3787932; 507806, 3787930; 507804, 3787929; 507803, 3787925; 507802, 3787925; 507790, 3787909; 507764, 3787877; 507732, 3787851; 507704, 3787839; 507688, 3787829; 507686, 3787828; 507682, 3787826; 507682, 3787827; 507678, 3787826; 507674, 3787876; 507666, 3787929; 507659, 3787975; 507659, 3788001; 507669, 3788023; 507682, 3788035; 507707, 3788042; 507729, 3788042; 507752, 3788036; 507767, 3788013; 507769, 3788006; 507777, 3788001.

(iii) Note: Map of Units CACI 3 and CACI 4 (Map 3) follows:

BILLING CODE 4310-55-P

BILLING CODE 4310-55-C

(8) Units CACI 5 and CACI 6. Broom Flat, San Bernardino County, California. From USGS 1:24,000 quadrangle map Onyx Peak.

(i) Unit CACI 5. Land bounded by the following UTM NAD27 coordinates (E,N): 525644, 3786958; 525650, 3786943; 525657, 3786886; 525619, 3786867; 525580, 3786879; 525577, 3786894; 525574, 3786905; 525542, 3786911; 525498, 3786892; 525473, 3786847; 525450, 3786817; 525440, 3786790; 525442, 3786753; 525491, 3786702; 525528, 3786682; 525545, 3786658; 525552, 3786616; 525518, 3786601; 525472, 3786618; 525418, 3786655; 525374, 3786645; 525352, 3786596; 525312, 3786569; 525288, 3786552; 525285, 3786508; 525261, 3786459; 525229, 3786435; 525185, 3786425; 525148, 3786423; 525114, 3786442; 525107, 3786462; 525112, 3786503; 525121, 3786543; 525151, 3786587; 525190, 3786606; 525202, 3786658; 525246, 3786724; 525278, 3786795; 525327, 3786873; 525374, 3786910; 525377, 3786968; 525396, 3786994; 525428, 3787032; 525469, 3787091; 525533, 3787152; 525580, 3787209; 525619, 3787254; 525644, 3787311; 525657, 3787355; 525688, 3787387; 525733, 3787419; 525746, 3787419; 525771, 3787444; 525771, 3787508; 525777, 3787565; 525771, 3787616; 525777, 3787641; 525815, 3787629; 525834, 3787597; 525860, 3787552; 525898, 3787527; 525911, 3787495; 525904, 3787457; 525904, 3787425; 525892, 3787368; 525860, 3787324; 525828, 3787260; 525784, 3787203; 525777, 3787152; 525765, 3787127; 525733, 3787121; 525688, 3787076; 525644, 3787019; 525638, 3786974; 525644, 3786958.

(ii) Unit CACI 6. Land bounded by the following UTM NAD27 coordinates (E,N): 525111, 3785431; 525155, 3785406; 525142, 3785419; 525199, 3785419; 525250, 3785412; 525307, 3785393; 525365, 3785362; 525378, 3785345; 525421, 3785349; 525497, 3785323; 525558, 3785296; 525600, 3785262; 525661, 3785220; 525706, 3785197; 525744, 3785182; 525813, 3785170; 525870, 3785170; 525950, 3785201; 526053, 3785243; 526125, 3785292; 526198, 3785323; 526247, 3785330; 526297, 3785338; 526358, 3785338; 526411, 3785327; 526457, 3785292; 526491, 3785262; 526529, 3785227; 526556, 3785170; 526556, 3785132; 526552, 3785079; 526548, 3785022; 526540, 3784978; 526562, 3784983; 526585, 3784983; 526610, 3784977; 526632, 3784967; 526642, 3784945; 526639, 3784907; 526632, 3784885; 526616, 3784847; 526604, 3784834; 526588, 3784815; 526575, 3784789; 526562, 3784774; 526617, 3784774; 526651, 3784759; 526651, 3784751; 526662, 3784735; 526662, 3784724; 526642, 3784701; 526625, 3784671; 526614, 3784655; 526626, 3784653; 526636, 3784634; 526632, 3784615; 526616, 3784593; 526604, 3784577; 526594, 3784567; 526582, 3784558; 526575, 3784548; 526562, 3784542; 526550, 3784535; 526547, 3784534; 526522, 3784488; 526509, 3784440; 526506, 3784412; 526495, 3784379; 526459, 3784332; 526457, 3784330; 526449, 3784321; 526434, 3784252; 526415, 3784229; 526418, 3784219; 526423, 3784219; 526430, 3784207; 526436, 3784191; 526442, 3784178; 526445, 3784162; 526439, 3784151; 526445, 3784130; 526476, 3784019; 526510, 3783943; 526522, 3783890; 526541, 3783795; 526567, 3783692; 526579, 3783627; 526606, 3783581; 526647, 3783490; 526680, 3783446; 526713, 3783425; 526764, 3783396; 526818, 3783371; 526861, 3783342; 526873, 3783324; 526876, 3783323; 526878, 3783320; 526913, 3783270; 526922, 3783257; 526963, 3783235; 526981, 3783233; 527032, 3783219; 527050, 3783204; 527064, 3783175; 527075, 3783143; 527071, 3783137; 527074, 3783128; 527051, 3783117; 527037, 3783121; 527006, 3783124; 526970, 3783139; 526945, 3783150; 526930, 3783150; 526898, 3783168; 526872, 3783183; 526869, 3783183; 526840, 3783163; 526840, 3783139; 526843, 3783117; 526861, 3783088; 526890, 3783052; 526911, 3783037; 526907, 3783059; 526904, 3783081; 526901, 3783107; 526917, 3783113; 526926, 3783107; 526939, 3783094; 526946, 3783072; 526955, 3783069; 526958, 3783062; 526961, 3783031; 526961, 3783008; 526960, 3783003; 526974, 3782994; 526978, 3782969; 526979, 3782968; 526979, 3782967; 526981, 3782954; 526976, 3782944; 526975, 3782934; 526937, 3782873; 526904, 3782868; 526894, 3782863; 526880, 3782865; 526853, 3782861; 526788, 3782899; 526724, 3782957; 526678, 3783010; 526653, 3783029; 526644, 3783034; 526634, 3783043; 526613, 3783059; 526600, 3783077; 526571, 3783103; 526524, 3783161; 526489, 3783206; 526476, 3783219; 526473, 3783226; 526448, 3783262; 526452, 3783284; 526470, 3783284; 526495, 3783297; 526493, 3783306; 526477, 3783327; 526441, 3783378; 526419, 3783393; 526408, 3783425; 526401, 3783469; 526394, 3783531; 526390, 3783585; 526381, 3783631; 526351, 3783704; 526339, 3783719; 526299, 3783803; 526269, 3783859; 526263, 3783867; 526261, 3783869; 526234, 3783893; 526221, 3783921; 526209, 3783936; 526113, 3784063; 526089, 3784082; 526072, 3784131; 526026, 3784168; 526012, 3784180; 525995, 3784180; 525987, 3784194; 525958, 3784212; 525951, 3784270; 525969, 3784310; 526016, 3784379; 526029, 3784402; 526038, 3784423; 526068, 3784501; 526071, 3784513; 526089, 3784575; 526109, 3784589; 526125, 3784624; 526125, 3784644; 526103, 3784691; 526089, 3784702; 526083, 3784713; 526072, 3784721; 526062, 3784751; 526049, 3784775; 526052, 3784781; 526049, 3784789; 526065, 3784836; 526067, 3784883; 526064, 3784909; 526060, 3784931; 525995, 3784927; 525944, 3784916; 525912, 3784910; 525882, 3784896; 525828, 3784881; 525786, 3784858; 525737, 3784850; 525710, 3784854; 525630, 3784865; 525573, 3784888; 525508, 3784927; 525478, 3784965; 525455, 3785003; 525382, 3785037; 525360, 3785067; 525328, 3785099; 525326, 3785095; 525301, 3785044; 525263, 3785019; 525238, 3785063; 525231, 3785120; 525206, 3785165; 525206, 3785203; 525187, 3785247; 525149, 3785273; 525072, 3785298; 524965, 3785304; 524926, 3785298; 524869, 3785292; 524799, 3785323; 524799, 3785362; 524831, 3785406; 524869, 3785444; 524876, 3785470; 524914, 3785489; 524933, 3785501; 524984, 3785495; 525022, 3785482; 525066, 3785470; 525111, 3785431.

(iii) Note: Map of Units CACI 5 and CACI 6 (Map 4) follows:

BILLING CODE 4310-55-P

BILLING CODE 4310-55-C

(9) Units CACI 7, CACI 8, CACI 9. Fawnskin, San Bernardino County, California. From USGS 1:24,000 quadrangle map Fawnskin.

(i) Unit CACI 7. Land bounded by the following UTM NAD27 coordinates (E,N): 506020, 3792309; 506020, 3792303; 506001, 3792335; 506014, 3792404; 506014, 3792468; 506001, 3792538; 505982, 3792557; 505963, 3792595; 505950, 3792639; 505937, 3792671; 505944, 3792703; 505994, 3792722; 506039, 3792722; 506109, 3792684; 506147, 3792665; 506191, 3792627; 506229, 3792582; 506217, 3792525; 506166, 3792493; 506121, 3792462; 506109, 3792442; 506109, 3792417; 506096, 3792392; 506077, 3792373; 506052, 3792335; 506020, 3792309.

(ii) Unit CACI 8. Land bounded by the following UTM NAD27 coordinates (E,N): 506636, 3791541; 506604, 3791490; 506547, 3791496; 506534, 3791515; 506515, 3791579; 506522, 3791661; 506502, 3791757; 506490, 3791807; 506502, 3791852; 506547, 3791941; 506579, 3792017; 506610, 3792100; 506629, 3792182; 506649, 3792220; 506668, 3792233; 506687, 3792227; 506680, 3792214; 506693, 3792182; 506706, 3792138; 506712, 3792074; 506725, 3792036; 506706, 3791928; 506680, 3791846; 506674, 3791801; 506674, 3791744; 506668, 3791674; 506655, 3791623; 506636, 3791541.

(iii) Unit CACI 9. Land bounded by the following UTM NAD27 coordinates (E,N): 509277, 3790880; 509264, 3790854; 509248, 3790857; 509229, 3790873; 509223, 3790908; 509223, 3790943; 509226, 3790972; 509232, 3790991; 509261, 3791003; 509273, 3790988; 509277, 3790969; 509273, 3790943; 509277, 3790908; 509277, 3790880.

(iv) Note: Map of Units CACI 7, CACI 8, CACI 9 (Map 5) follows:

BILLING CODE 4310-55-P

BILLING CODE 4310-55-C

(10) Units CACI 10, CACI 11, CACI 12, CACI 15, and CACI 16. Gold Mountain and North Baldwin Lake, San Bernardino County, California. From USGS 1:24,000 quadrangle map Big Bear City.

(i) Unit CACI 10. Land bounded by the following UTM NAD27 coordinates (E,N): 516297, 3793523; 516342, 3793514; 516374, 3793491; 516405, 3793447; 516412, 3793390; 516424, 3793352; 516421, 3793333; 516437, 3793335; 516450, 3793331; 516463, 3793309; 516466, 3793281; 516465, 3793279; 516475, 3793268; 516469, 3793227; 516447, 3793207; 516421, 3793189; 516380, 3793166; 516345, 3793154; 516311, 3793139; 516272, 3793103; 516244, 3793081; 516215, 3793077; 516187, 3793090; 516206, 3793135; 516202, 3793144; 516207, 3793149; 516196, 3793141; 516172, 3793137; 516163, 3793137; 516157, 3793137; 516154, 3793135; 516147, 3793133; 516132, 3793125; 516128, 3793123; 516109, 3793112; 516096, 3793112; 516095, 3793112; 516081, 3793111; 516065, 3793105; 516045, 3793109; 516017, 3793126; 516016, 3793127; 516006, 3793132; 516003, 3793145; 515998, 3793153; 515995, 3793166; 515988, 3793165; 515980, 3793163; 515971, 3793161; 515961, 3793161; 515956, 3793162; 515943, 3793162; 515926, 3793178; 515919, 3793180; 515912, 3793182; 515905, 3793188; 515899, 3793193; 515893, 3793198; 515884, 3793209; 515881, 3793219; 515879, 3793220; 515793, 3793243; 515732, 3793233; 515685, 3793220; 515647, 3793211; 515577, 3793211; 515536, 3793230; 515507, 3793261; 515501, 3793303; 515501, 3793335; 515542, 3793357; 515586, 3793360; 515625, 3793357; 515666, 3793341; 515707, 3793335; 515761, 3793338; 515809, 3793354; 515828, 3793376; 515851, 3793399; 515851, 3793403; 515848, 3793408; 515845, 3793414; 515844, 3793417; 515842, 3793424; 515842, 3793431; 515843, 3793438; 515839, 3793448; 515845, 3793446; 515849, 3793444; 515856, 3793439; 515860, 3793433; 515872, 3793430; 515873, 3793429; 515879, 3793443; 515901, 3793468; 515904, 3793468; 515910, 3793468; 515917, 3793461; 515921, 3793461; 515935, 3793473; 515980, 3793495; 516015, 3793501; 516082, 3793514; 516132, 3793514; 516212, 3793520; 516262, 3793527; 516297, 3793523.

(ii) Unit CACI 11. Land bounded by the following UTM NAD27 coordinates (E,N): 516768, 3792969; 516744, 3792965; 516720, 3792965; 516705, 3792961; 516685, 3792953; 516673, 3792949; 516652, 3792935; 516645, 3792926; 516642, 3792923; 516641, 3792918; 516633, 3792898; 516633, 3792891; 516633, 3792891; 516623, 3792868; 516621, 3792864; 516585, 3792863; 516581, 3792865; 516578, 3792862; 516562, 3792870; 516560, 3792871; 516556, 3792871; 516545, 3792873; 516540, 3792875; 516521, 3792875; 516510, 3792864; 516502, 3792855; 516496, 3792848; 516490, 3792840; 516477, 3792833; 516463, 3792824; 516461, 3792822; 516450, 3792804; 516447, 3792800; 516438, 3792788; 516423, 3792784; 516410, 3792780; 516377, 3792769; 516375, 3792768; 516364, 3792763; 516319, 3792740; 516318, 3792740; 516311, 3792737; 516304, 3792731; 516298, 3792731; 516283, 3792725; 516279, 3792728; 516271, 3792727; 516229, 3792731; 516176, 3792758; 516157, 3792773; 516130, 3792803; 516127, 3792815; 516119, 3792849; 516138, 3792891; 516157, 3792925; 516180, 3792952; 516203, 3792979; 516233, 3793009; 516268, 3793036; 516274, 3793041; 516275, 3793055; 516282, 3793087; 516298, 3793112; 516329, 3793125; 516364, 3793131; 516453, 3793154; 516520, 3793160; 516590, 3793166; 516610, 3793155; 516641, 3793150; 516668, 3793139; 516694, 3793116; 516717, 3793093; 516732, 3793074; 516748, 3793055; 516759, 3793039; 516770, 3793024; 516772, 3793012; 516775, 3793010; 516778, 3793004; 516778, 3793004; 516780, 3793001; 516784, 3792993; 516783, 3792989; 516783, 3792987; 516783, 3792987; 516783, 3792987; 516782, 3792985; 516780, 3792983; 516780, 3792981; 516777, 3792979; 516777, 3792978; 516775, 3792975; 516773, 3792971; 516772, 3792971; 516772, 3792971; 516771, 3792971; 516769, 3792970; 516768, 3792969.

(iii) Unit CACI 12. Land bounded by the following UTM NAD27 coordinates (E,N): 517804, 3791769; 517801, 3791754; 517782, 3791754; 517766, 3791765; 517766, 3791780; 517774, 3791792; 517782, 3791796; 517804, 3791792; 517804, 3791769.

(iv) Unit CACI 15. Land bounded by the following UTM NAD27 coordinates (E,N): 516160, 3795525; 516163, 3795551; 516182, 3795563; 516194, 3795563; 516198, 3795566; 516240, 3795559; 516278, 3795551; 516308, 3795555; 516331, 3795578; 516396, 3795605; 516406, 3795603; 516415, 3795605; 516453, 3795601; 516491, 3795578; 516491, 3795574; 516491, 3795551; 516472, 3795525; 516466, 3795501; 516465, 3795486; 516468, 3795452; 516480, 3795422; 516486, 3795415; 516518, 3795399; 516552, 3795379; 516598, 3795380; 516649, 3795388; 516655, 3795391; 516654, 3795425; 516658, 3795442; 516685, 3795452; 516698, 3795449; 516708, 3795431; 516716, 3795406; 516765, 3795429; 516807, 3795448; 516810, 3795448; 516834, 3795456; 516857, 3795452; 516906, 3795429; 516933, 3795410; 516960, 3795383; 516971, 3795361; 516986, 3795334; 517009, 3795299; 517032, 3795262; 517063, 3795223; 517097, 3795181; 517110, 3795163; 517131, 3795140; 517165, 3795101; 517184, 3795090; 517207, 3795083; 517211, 3795082; 517269, 3795104; 517278, 3795133; 517272, 3795170; 517264, 3795193; 517230, 3795239; 517196, 3795288; 517154, 3795349; 517150, 3795370; 517146, 3795376; 517139, 3795399; 517141, 3795414; 517139, 3795425; 517146, 3795448; 517154, 3795471; 517211, 3795517; 517245, 3795521; 517314, 3795517; 517360, 3795509; 517381, 3795485; 517386, 3795479; 517388, 3795476; 517402, 3795460; 517413, 3795433; 517440, 3795387; 517460, 3795371; 517489, 3795353; 517506, 3795341; 517520, 3795334; 517584, 3795315; 517611, 3795292; 517653, 3795261; 517672, 3795219; 517699, 3795159; 517718, 3795115; 517749, 3795078; 517759, 3795070; 517786, 3795052; 517809, 3795029; 517840, 3794999; 517841, 3794997; 517851, 3794987; 517882, 3794923; 517908, 3794881; 517917, 3794871; 517939, 3794854; 517981, 3794819; 518023, 3794812; 518038, 3794812; 518095, 3794819; 518152, 3794816; 518155, 3794815; 518171, 3794816; 518202, 3794804; 518251, 3794778; 518339, 3794755; 518411, 3794732; 518461, 3794724; 518461, 3794713; 518457, 3794698; 518442, 3794683; 518439, 3794680; 518438, 3794679; 518415, 3794652; 518458, 3794642; 518462, 3794598; 518443, 3794587; 518438, 3794583; 518413, 3794573; 518371, 3794577; 518322, 3794586; 518279, 3794597; 518246, 3794608; 518230, 3794614; 518206, 3794614; 518133, 3794617; 518117, 3794619; 518097, 3794610; 518097, 3794615; 518097, 3794618; 518098, 3794621; 518069, 3794625; 518061, 3794625; 518045, 3794627; 518046, 3794602; 518045, 3794602; 518039, 3794605; 518034, 3794609; 518019, 3794610; 518017, 3794611; 518019, 3794605; 518019, 3794589; 518012, 3794567; 517993, 3794554; 517968, 3794567; 517946, 3794573; 517936, 3794560; 517920, 3794548; 517914, 3794549; 517917, 3794545; 517924, 3794535; 517931, 3794526; 517939, 3794516; 517948, 3794503; 517954, 3794493; 517959, 3794482; 517964, 3794473; 517964, 3794468; 517959, 3794461; 517950, 3794456; 517934, 3794458; 517923, 3794462; 517905, 3794469; 517892, 3794475; 517882, 3794478; 517869, 3794480; 517852, 3794480; 517859, 3794462; 517866, 3794439; 517889, 3794413; 517927, 3794397; 517988, 3794404; 518030, 3794416; 518087, 3794439; 518110, 3794450; 518141, 3794473; 518187, 3794489; 518187, 3794490; 518222, 3794509; 518263, 3794506; 518311, 3794497; 518358, 3794490; 518419, 3794490; 518476, 3794493; 518481, 3794494; 518521, 3794504; 518558, 3794517; 518564, 3794521; 518569, 3794521; 518583, 3794526; 518586, 3794527; 518612, 3794538; 518617, 3794537; 518631, 3794533; 518632, 3794534; 518633, 3794533; 518663, 3794526; 518666, 3794509; 518673, 3794503; 518666, 3794484; 518666, 3794453; 518652, 3794447; 518644, 3794435; 518627, 3794432; 518620, 3794430; 518617, 3794427; 518602, 3794424; 518587, 3794421; 518565, 3794411; 518549, 3794409; 518508, 3794396; 518507, 3794395; 518505, 3794395; 518499, 3794393; 518457, 3794385; 518453, 3794385; 518428, 3794373; 518387, 3794376; 518358, 3794379; 518338, 3794383; 518327, 3794381; 518297, 3794362; 518273, 3794328; 518272, 3794325; 518277, 3794321; 518281, 3794312; 518281, 3794302; 518281, 3794291; 518279, 3794282; 518279, 3794278; 518293, 3794271; 518316, 3794259; 518369, 3794248; 518415, 3794244; 518426, 3794242; 518442, 3794241; 518455, 3794236; 518468, 3794233; 518507, 3794221; 518533, 3794195; 518541, 3794175; 518552, 3794157; 518554, 3794145; 518560, 3794134; 518558, 3794126; 518560, 3794115; 518552, 3794092; 518539, 3794081; 518529, 3794065; 518480, 3794069; 518474, 3794071; 518446, 3794073; 518407, 3794092; 518373, 3794111; 518312, 3794145; 518305, 3794152; 518297, 3794157; 518280, 3794177; 518270, 3794183; 518251, 3794179; 518221, 3794179; 518175, 3794164; 518142, 3794157; 518099, 3794141; 518065, 3794130; 518030, 3794122; 517965, 3794115; 517927, 3794103; 517901, 3794092; 517878, 3794093; 517863, 3794088; 517830, 3794088; 517836, 3794390; 517634, 3794390; 517639, 3794589; 517192, 3794589; 517160, 3794606; 517141, 3794622; 517130, 3794635; 517123, 3794641; 517120, 3794653; 517119, 3794657; 517112, 3794663; 517070, 3794705; 517068, 3794708; 517063, 3794711; 517052, 3794723; 517046, 3794727; 517042, 3794731; 517041, 3794732; 517036, 3794736; 517030, 3794739; 517025, 3794739; 517020, 3794742; 517019, 3794742; 517014, 3794745; 517009, 3794751; 517014, 3794755; 517025, 3794753; 517041, 3794746; 517040, 3794749; 516998, 3794804; 516956, 3794839; 516952, 3794841; 516906, 3794865; 516883, 3794884; 516856, 3794905; 516851, 3794907; 516849, 3794897; 516839, 3794910; 516811, 3794919; 516735, 3794926; 516686, 3794937; 516674, 3794938; 516657, 3794947; 516643, 3794953; 516613, 3794973; 516582, 3794991; 516573, 3795005; 516567, 3795010; 516548, 3795037; 516525, 3795059; 516522, 3795063; 516487, 3795098; 516483, 3795101; 516472, 3795119; 516461, 3795136; 516443, 3795164; 516430, 3795185; 516420, 3795212; 516419, 3795216; 516396, 3795265; 516377, 3795311; 516365, 3795341; 516346, 3795368; 516304, 3795399; 516259, 3795433; 516198, 3795471; 516175, 3795494; 516167, 3795501; 516168, 3795507; 516160, 3795525.

(v) Unit CACI 16. Land bounded by the following UTM NAD27 coordinates (E,N): 516869, 3794211; 516844, 3794205; 516809, 3794214; 516783, 3794239; 516764, 3794271; 516749, 3794300; 516733, 3794325; 516720, 3794347; 516710, 3794376; 516695, 3794405; 516682, 3794424; 516672, 3794449; 516669, 3794465; 516688, 3794475; 516723, 3794471; 516742, 3794449; 516739, 3794421; 516745, 3794385; 516771, 3794351; 516793, 3794329; 516822, 3794306; 516860, 3794275; 516879, 3794243; 516869, 3794211.

(vi) Note: Map of Units CACI 10, CACI 11, CACI 12, CACI 15, and CACI 16 (Map 6) follows:

BILLING CODE 4310-55-P

BILLING CODE 4310-55-C

(11) Units CACI 13 and CACI 14. Holcomb Valley, San Bernardino County, California. From USGS 1:24,000 quadrangle map Fawnskin.

(i) Unit CACI 13. Land bounded by the following UTM NAD27 coordinates (E,N): 506727, 3796049; 506738, 3796035; 506743, 3796031; 506761, 3796001; 506765, 3795985; 506767, 3795981; 506783, 3795942; 506785, 3795915; 506787, 3795910; 506790, 3795878; 506784, 3795872; 506782, 3795867; 506779, 3795843; 506773, 3795840; 506772, 3795835; 506767, 3795833; 506752, 3795821; 506730, 3795818; 506689, 3795818; 506663, 3795823; 506634, 3795825; 506624, 3795837; 506612, 3795847; 506606, 3795854; 506597, 3795862; 506571, 3795881; 506571, 3795883; 506557, 3795893; 506544, 3795910; 506529, 3795930; 506530, 3795930; 506528, 3795934; 506565, 3795933; 506565, 3795935; 506574, 3795964; 506600, 3795986; 506635, 3796001; 506633, 3796023; 506631, 3796041; 506632, 3796041; 506644, 3796045; 506663, 3796042; 506681, 3796042; 506707, 3796045; 506715, 3796049; 506727, 3796049. Land bounded by the following UTM NAD27 coordinates (E,N): 506666, 3795511; 506661, 3795481; 506647, 3795471; 506625, 3795463; 506622, 3795462; 506612, 3795476; 506604, 3795484; 506602, 3795500; 506591, 3795480; 506584, 3795455; 506569, 3795435; 506569, 3795428; 506562, 3795409; 506556, 3795389; 506547, 3795351; 506537, 3795317; 506532, 3795310; 506524, 3795303; 506512, 3795298; 506504, 3795291; 506495, 3795298; 506492, 3795307; 506487, 3795328; 506483, 3795347; 506477, 3795372; 506472, 3795393; 506470, 3795416; 506466, 3795433; 506463, 3795457; 506468, 3795488; 506472, 3795510; 506474, 3795533; 506477, 3795567; 506485, 3795593; 506494, 3795624; 506507, 3795657; 506517, 3795687; 506534, 3795715; 506555, 3795736; 506549, 3795747; 506552, 3795771; 506564, 3795799; 506572, 3795807; 506600, 3795819; 506616, 3795811; 506617, 3795807; 506620, 3795805; 506635, 3795794; 506639, 3795763; 506641, 3795759; 506670, 3795753; 506695, 3795750; 506705, 3795731; 506695, 3795712; 506690, 3795703; 506692, 3795687; 506687, 3795672; 506679, 3795655; 506689, 3795626; 506705, 3795598; 506708, 3795575; 506689, 3795550; 506677, 3795540; 506676, 3795537; 506666, 3795511.

(ii) Unit CACI 14. Land bounded by the following UTM NAD27 coordinates (E,N): 509943, 3794740; 509997, 3794674; 510070, 3794623; 510076, 3794591; 510073, 3794585; 510044, 3794562; 510003, 3794556; 510054, 3794518; 510105, 3794477; 510124, 3794477; 510194, 3794473; 510219, 3794442; 510222, 3794391; 510168, 3794347; 510105, 3794283; 510067, 3794201; 510054, 3794162; 510013, 3794124; 509999, 3794124; 509999, 3794118; 509996, 3794110; 509991, 3794106; 509987, 3794102; 509981, 3794099; 509975, 3794097; 509968, 3794095; 509961, 3794096; 509955, 3794096; 509950, 3794098; 509946, 3794101; 509940, 3794109; 509940, 3794115; 509940, 3794122; 509943, 3794131; 509947, 3794139; 509911, 3794159; 509908, 3794173; 509894, 3794173; 509886, 3794181; 509874, 3794221; 509894, 3794256; 509914, 3794284; 509943, 3794302; 509943, 3794305; 509893, 3794327; 509858, 3794375; 509839, 3794404; 509807, 3794445; 509782, 3794480; 509747, 3794531; 509668, 3794579; 509639, 3794617; 509643, 3794633; 509635, 3794642; 509648, 3794660; 509649, 3794664; 509664, 3794674; 509668, 3794674; 509674, 3794667; 509680, 3794664; 509682, 3794659; 509737, 3794651; 509797, 3794623; 509800, 3794620; 509787, 3794641; 509771, 3794660; 509747, 3794684; 509743, 3794708; 509747, 3794731; 509755, 3794743; 509775, 3794743; 509791, 3794735; 509806, 3794729; 509803, 3794743; 509822, 3794772; 509902, 3794759; 509943, 3794740.

(iii) Note: Units CACI 13 and CACI 14 (Map 7) follows:

BILLING CODE 4310-55-P

BILLING CODE 4310-55-C

(12) Units CACI 17 and CACI 18. Sawmill, San Bernardino County, California. From USGS 1:24,000 quadrangle maps Big Bear City and Moonridge.

(i) Unit CACI 17. Land bounded by the following UTM NAD27 coordinates (E,N): 514010,3788419; 513955,3788406; 513936,3788404; 513891,3788404; 513855,3788412; 513831,3788423; 513803,3788431; 513777,3788444; 513756,3788453; 513744,3788464; 513731,3788473; 513761,3788481; 513764,3788488; 513768,3788499; 513787,3788551; 513781,3788561; 513779,3788566; 513777,3788572; 513775,3788579; 513777,3788585; 513784,3788591; 513809,3788609; 513815,3788611; 513820,3788612; 513823,3788612; 513837,3788627; 513843,3788649; 513843,3788659; 513842,3788660; 513830,3788680; 513826,3788709; 513821,3788716; 513811,3788742; 513789,3788818; 513789,3788865; 513789,3788897; 513789,3788923; 513776,3788948; 513761,3788973; 513742,3788986; 513735,3789005; 513719,3789024; 513703,3789050; 513697,3789059; 513691,3789069; 513678,3789094; 513665,3789113; 513653,3789135; 513652,3789137; 513648,3789140; 513624,3789156; 513620,3789168; 513604,3789184; 513600,3789208; 513606,3789220; 513606,3789228; 513608,3789229; 513581,3789259; 513591,3789262; 513601,3789262; 513605,3789257; 513608,3789253; 513611,3789247; 513621,3789233; 513636,3789235; 513645,3789230; 513648,3789234; 513652,3789230; 513658,3789229; 513662,3789230; 513670,3789236; 513674,3789239; 513679,3789244; 513686,3789364; 513695,3789377; 513704,3789381; 513715,3789379; 513719,3789377; 513728,3789372; 513730,3789357; 513724,3789335; 513743,3789335; 513747,3789335; 513763,3789331; 513766,3789326; 513772,3789321; 513778,3789313; 513781,3789306; 513783,3789303; 513783,3789275; 513778,3789268; 513778,3789266; 513776,3789263; 513753,3789217; 513753,3789214; 513750,3789205; 513748,3789194; 513745,3789182; 513744,3789171; 513744,3789168; 513759,3789161; 513765,3789157; 513772,3789154; 513780,3789137; 513792,3789126; 513793,3789113; 513798,3789111; 513804,3789105; 513812,3789102; 513826,3789091; 513836,3789093; 513846,3789090; 513853,3789083; 513854,3789059; 513850,3789053; 513878,3789041; 513902,3789017; 513905,3789013; 513906,3789010; 513913,3789005; 513913,3789001; 513918,3788993; 513918,3788973; 513923,3788961; 513919,3788942; 513926,3788919; 513935,3788882; 513948,3788850; 513957,3788824; 513964,3788796; 513957,3788729; 513945,3788701; 513938,3788672; 513935,3788640; 513948,3788599; 513964,3788577; 513986,3788561; 513992,3788542; 513999,3788507; 514008,3788472; 514021,3788448; 514027,3788437; 514027,3788419.

(ii) Unit CACI 18. Land bounded by the following UTM NAD27 coordinates (E,N): 515023,3789730; 515031,3789764; 515027,3789815; 515027,3789875; 515029,3789884; 515029,3789895; 515034,3789907; 515034,3789909; 515035,3789912; 515037,3789923; 515053,3789964; 515054,3789966; 515058,3789977; 515063,3789983; 515066,3789986; 515069,3789988; 515077,3789997; 515092,3789990; 515094,3789989; 515104,3789979; 515113,3789974; 515120,3789962; 515128,3789941; 515137,3789925; 515140,3789915; 515142,3789911; 515153,3789887; 515153,3789881; 515156,3789875; 515148,3789851; 515132,3789851; 515116,3789851; 515113,3789850; 515104,3789865; 515098,3789869; 515091,3789873; 515089,3789873; 515077,3789867; 515066,3789856; 515069,3789834; 515073,3789814; 515077,3789790; 515085,3789759; 515088,3789732.

(iii) Note: Units CACI 17 and CACI 18 (Map 8) follows:

BILLING CODE 4310-55-P

BILLING CODE 4310-55-C

(13) Unit CACI 19. Snow Valley, San Bernardino County, California.

(i) From USGS 1:24,000 quadrangle map Keller Peak. Land bounded by the following UTM NAD27 coordinates (E,N): 496377, 3786874; 496368, 3786876; 496360, 3786876; 496349, 3786874; 496333, 3786868; 496319, 3786861; 496300, 3786853; 496289, 3786849; 496273, 3786842; 496263, 3786836; 496249, 3786830; 496241, 3786825; 496236, 3786822; 496232, 3786816; 496224, 3786804; 496222, 3786803; 496219, 3786810; 496219, 3786838; 496219, 3786840; 496235, 3786873; 496248, 3786886; 496226, 3786935; 496210, 3786983; 496232, 3787012; 496268, 3787015; 496296, 3787018; 496331, 3787041; 496338, 3787085; 496370, 3787117; 496411, 3787124; 496459, 3787124; 496464, 3787118; 496465, 3787118; 496473, 3787122; 496473, 3787120; 496476, 3787110; 496481, 3787104; 496484, 3787099; 496484, 3787098; 496484, 3787098; 496483, 3787098; 496491, 3787088; 496498, 3787069; 496500, 3787067; 496500, 3787063; 496510, 3787038; 496549, 3787038; 496559, 3787041; 496606, 3787054; 496622, 3787073; 496644, 3787133; 496638, 3787175; 496638, 3787175; 496642, 3787184; 496654, 3787213; 496666, 3787223; 496682, 3787235; 496743, 3787235; 496787, 3787226; 496797, 3787213; 496800, 3787210; 496805, 3787196; 496809, 3787184; 496809, 3787184; 496809, 3787184; 496809, 3787159; 496809, 3787159; 496809, 3787159; 496799, 3787139; 496797, 3787133; 496790, 3787111; 496782, 3787102; 496768, 3787086; 496758, 3787082; 496746, 3787076; 496717, 3787057; 496713, 3787050; 496708, 3787041; 496704, 3787032; 496701, 3787025; 496692, 3787013; 496692, 3786994; 496692, 3786994; 496692, 3786994; 496689, 3786987; 496685, 3786978; 496673, 3786968; 496644, 3786956; 496622, 3786946; 496609, 3786944; 496584, 3786940; 496568, 3786934; 496552, 3786927; 496533, 3786923; 496511, 3786917; 496479, 3786910; 496460, 3786905; 496449, 3786898; 496428, 3786886; 496404, 3786884; 496393, 3786883; 496376, 3786876; 496377, 3786875; 496376, 3786875; 496377, 3786874.

(ii) Note: Map of Unit CACI 19 (Map 9) follows:

BILLING CODE 4310-55-P

BILLING CODE 4310-55-C

(14) Unit CACI 20: South Baldwin Ridge/Erwin Lake, San Bernardino County, California.

(i) From USGS 1:24,000 quadrangle map Big Bear City. Land bounded by the following UTM NAD27 coordinates (E,N): 518798, 3790531; 518814, 3790499; 518836, 3790501; 518883, 3790501; 518891, 3790493; 518942, 3790490; 519022, 3790477; 519063, 3790455; 519104, 3790439; 519114, 3790429; 519108, 3790395; 519085, 3790359; 519057, 3790347; 519012, 3790344; 518955, 3790357; 518923, 3790404; 518900, 3790419; 518911, 3790389; 518923, 3790370; 518907, 3790346; 518876, 3790342; 518839, 3790342; 518822, 3790331; 518821, 3790331; 518820, 3790320; 518800, 3790313; 518797, 3790307; 518792, 3790302; 518776, 3790291; 518766, 3790295; 518764, 3790297; 518763, 3790296; 518744, 3790298; 518740, 3790308; 518737, 3790313; 518724, 3790318; 518725, 3790327; 518714, 3790333; 518716, 3790337; 518707, 3790343; 518699, 3790340; 518697, 3790342; 518695, 3790345; 518693, 3790346; 518691, 3790351; 518685, 3790353; 518683, 3790359; 518682, 3790364; 518683, 3790368; 518698, 3790377; 518704, 3790378; 518712, 3790375; 518707, 3790379; 518666, 3790392; 518637, 3790398; 518629, 3790391; 518618, 3790391; 518613, 3790387; 518613, 3790385; 518611, 3790382; 518605, 3790378; 518600, 3790374; 518591, 3790377; 518580, 3790376; 518568, 3790381; 518553, 3790380; 518545, 3790386; 518540, 3790382; 518541, 3790379; 518541, 3790375; 518542, 3790373; 518540, 3790371; 518538, 3790371; 518535, 3790374; 518533, 3790378; 518531, 3790382; 518530, 3790387; 518529, 3790392; 518530, 3790397; 518532, 3790400; 518536, 3790400; 518542, 3790399; 518550, 3790401; 518553, 3790401; 518563, 3790404; 518567, 3790405; 518568, 3790403; 518570, 3790401; 518574, 3790401; 518577, 3790399; 518583, 3790401; 518590, 3790403; 518596, 3790399; 518596, 3790397; 518597, 3790397; 518602, 3790395; 518604, 3790398; 518607, 3790400; 518609, 3790402; 518610, 3790404; 518602, 3790406; 518597, 3790409; 518586, 3790409; 518562, 3790429; 518582, 3790445; 518597, 3790453; 518595, 3790463; 518574, 3790467; 518561, 3790460; 518541, 3790453; 518503, 3790453; 518490, 3790477; 518517, 3790511; 518551, 3790531; 518632, 3790551; 518686, 3790571; 518720, 3790579; 518740, 3790579; 518764, 3790562; 518798, 3790531.

(ii) Note: Map of Unit CACI 20 (Map 10) follows:

BILLING CODE 4310-55-P

BILLING CODE 4310-55-C

(15) Units CACI 21, CACI 22, CACI 23, and CACI 24. Sugarloaf Ridge, San Bernardino County, California. From USGS 1:24,000 quadrangle map Moonridge.

(i) Unit CACI 21. Land bounded by the following UTM NAD27 coordinates (E,N): 521244, 3783525; 521340, 3783525; 521411, 3783533; 521470, 3783533; 521550, 3783517; 521601, 3783537; 521617, 3783561; 521669, 3783589; 521752, 3783569; 521824, 3783533; 521883, 3783493; 521939, 3783453; 521959, 3783406; 521971, 3783351; 521982, 3783287; 521975, 3783203; 521970, 3783181; 521967, 3783152; 521967, 3783101; 521967, 3783072; 521951, 3783015; 521939, 3782987; 521897, 3782936; 521875, 3782911; 521831, 3782891; 521793, 3782882; 521739, 3782888; 521694, 3782888; 521650, 3782911; 521624, 3782926; 521602, 3782955; 521561, 3782993; 521520, 3783066; 521485, 3783126; 521462, 3783203; 521440, 3783228; 521380, 3783237; 521323, 3783241; 521266, 3783247; 521228, 3783247; 521151, 3783237; 521075, 3783234; 521040, 3783237; 520939, 3783250; 520894, 3783257; 520859, 3783279; 520862, 3783301; 520856, 3783336; 520853, 3783371; 520852, 3783374; 520828, 3783382; 520780, 3783410; 520764, 3783453; 520776, 3783521; 520784, 3783549; 520784, 3783557; 520752, 3783628; 520764, 3783652; 520820, 3783684; 520867, 3783692; 520927, 3783688; 520955, 3783652; 520994, 3783605; 521022, 3783573; 521078, 3783549; 521109, 3783533; 521244, 3783525.

(ii) Unit CACI 22. Land bounded by the following UTM NAD27 coordinates (E,N): 522459, 3784505; 522475, 3784502; 522490, 3784501; 522542, 3784497; 522570, 3784493; 522573, 3784489; 522582, 3784489; 522598, 3784448; 522601, 3784441; 522629, 3784382; 522640, 3784339; 522641, 3784335; 522641, 3784333; 522645, 3784318; 522637, 3784302; 522627, 3784289; 522625, 3784287; 522623, 3784285; 522621, 3784283; 522607, 3784265; 522602, 3784251; 522602, 3784227; 522613, 3784195; 522622, 3784177; 522637, 3784156; 522641, 3784144; 522640, 3784127; 522641, 3784116; 522638, 3784107; 522637, 3784097; 522633, 3784091; 522621, 3784064; 522586, 3784040; 522552, 3784021; 522534, 3784009; 522531, 3784009; 522530, 3784009; 522486, 3784009; 522455, 3784013; 522427, 3784044; 522387, 3784088; 522351, 3784135; 522347, 3784153; 522340, 3784168; 522292, 3784188; 522268, 3784200; 522258, 3784217; 522252, 3784223; 522256, 3784247; 522256, 3784255; 522280, 3784279; 522289, 3784297; 522292, 3784306; 522308, 3784366; 522308, 3784397; 522324, 3784449; 522327, 3784451; 522328, 3784454; 522339, 3784459; 522359, 3784473; 522403, 3784493; 522447, 3784505; 522455, 3784504; 522459, 3784505.

(iii) Unit CACI 23. Land bounded by the following UTM NAD27 coordinates (E,N): 520411,3784723; 520439,3784779; 520470,3784779; 520502,3784771; 520538,3784739; 520562,3784696; 520609,3784676; 520645,3784676; 520697,3784688; 520728,3784708; 520764,3784723; 520800,3784743; 520828,3784767; 520907,3784843; 520958,3784871; 521014,3784906; 521212,3785025; 521336,3785081; 521415,3785109; 521478,3785125; 521574,3785093; 521570,3785053; 521558,3785013; 521546,3784989; 521510,3784966; 521474,3784938; 521427,3784910; 521387,3784878; 521359,3784871; 521340,3784847; 521320,3784835; 521244,3784811; 521185,3784791; 521125,3784767; 521082,3784735; 521022,3784688; 520978,3784640; 520939,3784617; 520887,3784581; 520804,3784565; 520748,3784553; 520677,3784545; 520625,3784521; 520558,3784489; 520534,3784481; 520470,3784434; 520423,3784402; 520347,3784351; 520252,3784299; 520181,3784283; 520133,3784287; 520089,3784311; 520070,3784339; 520070,3784355; 520066,3784390; 520070,3784414; 520105,3784434; 520153,3784454; 520220,3784481; 520300,3784521; 520351,3784553; 520415,3784581; 520447,3784605; 520439,3784609.

(iv) Unit CACI 24. Land bounded by the following UTM NAD27 coordinates (E,N): 517371, 3784019; 517390, 3784013; 517415, 3784010; 517438, 3784001; 517485, 3783985; 517527, 3783965; 517558, 3783950; 517676, 3783937; 517720, 3783921; 517790, 3783918; 517806, 3783924; 517835, 3783934; 517876, 3783950; 517923, 3783950; 517955, 3783934; 517974, 3783915; 517981, 3783877; 517965, 3783829; 517958, 3783803; 517936, 3783791; 517892, 3783788; 517860, 3783791; 517828, 3783810; 517781, 3783829; 517733, 3783829; 517682, 3783823; 517650, 3783810; 517625, 3783803; 517562, 3783801; 517460, 3783759; 517419, 3783743; 517362, 3783715; 517311, 3783673; 517266, 3783645; 517241, 3783629; 517206, 3783619; 517082, 3783623; 517019, 3783623; 516949, 3783635; 516831, 3783683; 516774, 3783718; 516730, 3783753; 516714, 3783769; 516775, 3783688; 516815, 3783632; 516827, 3783624; 516851, 3783612; 517045, 3783597; 517061, 3783581; 517097, 3783561; 517145, 3783541; 517172, 3783537; 517224, 3783541; 517295, 3783545; 517379, 3783541; 517418, 3783545; 517482, 3783553; 517510, 3783557; 517553, 3783577; 517597, 3783585; 517641, 3783581; 517700, 3783573; 517744, 3783553; 517784, 3783513; 517815, 3783469; 517831, 3783422; 517823, 3783386; 517807, 3783366; 517716, 3783366; 517637, 3783374; 517621, 3783386; 517593, 3783410; 517549, 3783426; 517454, 3783426; 517371, 3783422; 517295, 3783414; 517220, 3783398; 517121, 3783374; 517006, 3783351; 516938, 3783351; 516803, 3783374; 516779, 3783394; 516684, 3783457; 516601, 3783525; 516549, 3783565; 516517, 3783573; 516486, 3783581; 516418, 3783589; 516363, 3783616; 516311, 3783656; 516287, 3783696; 516283, 3783727; 516314, 3783792; 516279, 3783801; 516266, 3783813; 516272, 3783857; 516282, 3783911; 516311, 3783965; 516339, 3784003; 516349, 3784073; 516399, 3784083; 516485, 3784093; 516580, 3784093; 516692, 3784073; 516796, 3784067; 516857, 3784064; 516946, 3784055; 517041, 3784023; 517095, 3784019; 517149, 3784001; 517196, 3783991; 517241, 3784007; 517295, 3784019.

(v) Note: Map of Units CACI 21, CACI 22, CACI 23, and CACI 24 (Map 11) follows:

BILLING CODE 4310-55-P

BILLING CODE 4310-55-C

* * * * *

Family Polygonaceae: Eriogonum kennedyi var. austromontanum (Southern mountain wild-buckwheat)

(1) Critical habitat units for this species are found in San Bernardino County, California.

(2) The primary constituent elements of critical habitat for Eriogonum kennedyi var. austromontanum are the habitat components that provide:

(i) Pebble plains in dry meadow-like openings within upper montane coniferous forest, pinyon-juniper woodlands, or Great Basin sagebrush in the San Bernardino Mountains of San Bernardino County, California; at elevations between 5,900 to 9,800 ft (1,830 to 2,990 m) that provide space for individual and population growth, reproduction and dispersal; and

(ii) Seasonally wet clay, or sandy clay soils, generally containing quartzite pebbles, subject to natural hydrological processes that include water hydrating the soil and freezing in winter and drying in summer causing lifting and churning of included pebbles, that provide space for individual and population growth, reproduction and dispersal, adequate water, air, minerals, and other nutritional or physiological requirements to the species.

(3) Critical habitat does not include manmade structures (such as buildings, aqueducts, airports, roads, and other paved areas) and the land on which they are located existing on the effective date of this rule and not containing one or more of the primary constituent elements.

(4) Critical habitat map units. Data layers defining map units were created on a base of USGS 1:24,0000 maps, and critical habitat units were then mapped using Universal Transverse Mercator (UTM) coordinates.

(5) Index map (Map 1) follows:

BILLING CODE 4310-55-P

BILLING CODE 4310-55-C

(6) Units ERKA 1 and ERKA 2. Arrastre/Union Flat, San Bernardino County, California. From USGS 1:24,000 quadrangle map Big Bear City.

(i) Unit ERKA 1. Land bounded by the following UTM NAD27 coordinates (E,N): 512434, 3795966; 512436, 3795961; 512446, 3795966; 512450, 3795966; 512469, 3795969; 512508, 3795965; 512533, 3795959; 512537, 3795959; 512539, 3795960; 512549, 3795964; 512560, 3795961; 512568, 3795954; 512573, 3795948; 512573, 3795936; 512571, 3795930; 512568, 3795927; 512565, 3795927; 512563, 3795927; 512563, 3795924; 512561, 3795914; 512556, 3795904; 512555, 3795903; 512554, 3795901; 512548, 3795879; 512535, 3795835; 512544, 3795791; 512546, 3795790; 512554, 3795787; 512568, 3795779; 512576, 3795774; 512582, 3795771; 512592, 3795764; 512595, 3795753; 512595, 3795747; 512591, 3795739; 512584, 3795732; 512581, 3795731; 512575, 3795727; 512569, 3795727; 512560, 3795728; 512552, 3795733; 512544, 3795739; 512542, 3795740; 512541, 3795739; 512540, 3795738; 512525, 3795717; 512469, 3795694; 512447, 3795680; 512445, 3795679; 512427, 3795653; 512428, 3795649; 512450, 3795617; 512476, 3795588; 512476, 3795588; 512504, 3795564; 512514, 3795552; 512541, 3795525; 512546, 3795509; 512548, 3795508; 512553, 3795501; 512554, 3795500; 512558, 3795490; 512566, 3795479; 512573, 3795468; 512584, 3795444; 512586, 3795433; 512588, 3795412; 512594, 3795398; 512601, 3795395; 512607, 3795395; 512627, 3795401; 512632, 3795400; 512641, 3795402; 512654, 3795400; 512675, 3795405; 512691, 3795401; 512699, 3795397; 512703, 3795397; 512707, 3795394; 512715, 3795393; 512718, 3795391; 512730, 3795388; 512740, 3795378; 512742, 3795374; 512746, 3795371; 512770, 3795357; 512806, 3795330; 512815, 3795317; 512837, 3795311; 512856, 3795327; 512872, 3795330; 512883, 3795343; 512886, 3795339; 512900, 3795331; 512905, 3795319; 512909, 3795312; 512913, 3795307; 512913, 3795306; 512913, 3795305; 512914, 3795303; 512920, 3795287; 512924, 3795286; 512935, 3795275; 512938, 3795270; 512944, 3795264; 512948, 3795258; 512953, 3795250; 512955, 3795245; 512954, 3795239; 512953, 3795233; 512949, 3795225; 512946, 3795221; 512949, 3795219; 512976, 3795203; 512998, 3795196; 513008, 3795189; 513014, 3795187; 513019, 3795183; 513030, 3795176; 513031, 3795173; 513048, 3795163; 513049, 3795158; 513051, 3795154; 513053, 3795150; 513053, 3795143; 513053, 3795142; 513056, 3795131; 513053, 3795122; 513053, 3795109; 513055, 3795098; 513059, 3795095; 513062, 3795091; 513066, 3795086; 513069, 3795084; 513072, 3795077; 513076, 3795073; 513079, 3795066; 513080, 3795064; 513083, 3795057; 513083, 3795052; 513083, 3795047; 513082, 3795043; 513080, 3795036; 513080, 3795034; 513079, 3795025; 513077, 3795018; 513075, 3795011; 513075, 3795007; 513072, 3794999; 513069, 3794994; 513066, 3794989; 513058, 3794982; 513053, 3794982; 513047, 3794982; 513037, 3794982; 513035, 3794981; 513017, 3794975; 513010, 3794975; 513006, 3794978; 513000, 3794981; 512993, 3794985; 512988, 3794988; 512973, 3794993; 512965, 3794993; 512960, 3794991; 512951, 3794990; 512944, 3794988; 512938, 3794987; 512934, 3794988; 512924, 3794989; 512915, 3794991; 512897, 3794997; 512886, 3795001; 512875, 3795007; 512866, 3795012; 512852, 3795026; 512850, 3795031; 512847, 3795037; 512848, 3795042; 512848, 3795045; 512856, 3795057; 512861, 3795057; 512871, 3795053; 512875, 3795052; 512883, 3795047; 512863, 3795065; 512861, 3795066; 512853, 3795072; 512853, 3795075; 512847, 3795081; 512851, 3795097; 512867, 3795120; 512875, 3795132; 512879, 3795132; 512881, 3795135; 512913, 3795143; 512919, 3795177; 512903, 3795187; 512899, 3795188; 512884, 3795190; 512840, 3795190; 512839, 3795192; 512835, 3795194; 512826, 3795195; 512825, 3795196; 512811, 3795199; 512812, 3795203; 512811, 3795204; 512811, 3795217; 512800, 3795241; 512793, 3795247; 512785, 3795251; 512778, 3795254; 512765, 3795263; 512732, 3795279; 512696, 3795299; 512648, 3795303; 512621, 3795315; 512618, 3795316; 512607, 3795318; 512601, 3795321; 512585, 3795327; 512561, 3795335; 512558, 3795344; 512555, 3795349; 512545, 3795359; 512533, 3795366; 512510, 3795373; 512508, 3795373; 512500, 3795376; 512498, 3795372; 512497, 3795370; 512495, 3795367; 512492, 3795368; 512490, 3795372; 512490, 3795379; 512489, 3795379; 512484, 3795381; 512485, 3795387; 512482, 3795398; 512482, 3795418; 512485, 3795432; 512484, 3795433; 512486, 3795443; 512486, 3795452; 512453, 3795490; 512413, 3795508; 512409, 3795509; 512408, 3795507; 512406, 3795499; 512398, 3795500; 512390, 3795509; 512386, 3795512; 512354, 3795501; 512340, 3795496; 512357, 3795495; 512366, 3795491; 512362, 3795478; 512360, 3795467; 512361, 3795466; 512364, 3795462; 512368, 3795462; 512373, 3795469; 512376, 3795462; 512392, 3795462; 512392, 3795461; 512393, 3795461; 512401, 3795463; 512406, 3795462; 512408, 3795459; 512429, 3795455; 512432, 3795454; 512437, 3795449; 512437, 3795446; 512434, 3795435; 512431, 3795430; 512434, 3795422; 512433, 3795419; 512434, 3795416; 512432, 3795410; 512433, 3795405; 512430, 3795402; 512428, 3795397; 512423, 3795395; 512421, 3795393; 512393, 3795381; 512369, 3795385; 512368, 3795386; 512367, 3795386; 512351, 3795394; 512339, 3795398; 512339, 3795414; 512342, 3795418; 512342, 3795425; 512350, 3795437; 512339, 3795449; 512324, 3795455; 512306, 3795472; 512299, 3795481; 512283, 3795473; 512264, 3795473; 512249, 3795472; 512248, 3795473; 512247, 3795473; 512237, 3795473; 512228, 3795473; 512223, 3795475; 512207, 3795477; 512189, 3795483; 512172, 3795485; 512165, 3795492; 512163, 3795493; 512156, 3795496; 512155, 3795496; 512150, 3795497; 512149, 3795498; 512135, 3795504; 512124, 3795510; 512100, 3795517; 512095, 3795519; 512080, 3795516; 512060, 3795516; 512044, 3795536; 512052, 3795560; 512056, 3795588; 512064, 3795616; 512064, 3795617; 512065, 3795620; 512081, 3795644; 512087, 3795650; 512088, 3795651; 512089, 3795652; 512101, 3795664; 512123, 3795675; 512123, 3795688; 512123, 3795695; 512122, 3795699; 512119, 3795715; 512111, 3795727; 512119, 3795747; 512125, 3795759; 512133, 3795784; 512135, 3795798; 512143, 3795822; 512155, 3795842; 512171, 3795857; 512199, 3795878; 512223, 3795886; 512228, 3795889; 512235, 3795890; 512242, 3795892; 512248, 3795895; 512282, 3795913; 512334, 3795929; 512377, 3795941; 512380, 3795941; 512383, 3795942; 512387, 3795942; 512394, 3795943; 512397, 3795947; 512412, 3795966; 512417, 3795971; 512422, 3795975; 512427, 3795979; 512430, 3795978; 512434, 3795966.

(ii) Unit ERKA 2. Land bounded by the following UTM NAD27 coordinates (E,N): 513282, 3797202; 513312, 3797195; 513346, 3797179; 513347, 3797179; 513352, 3797178; 513378, 3797155; 513382, 3797151; 513404, 3797137; 513430, 3797126; 513434, 3797122; 513438, 3797119; 513475, 3797110; 513503, 3797106; 513500, 3797115; 513500, 3797124; 513510, 3797137; 513520, 3797137; 513532, 3797131; 513545, 3797124; 513554, 3797111; 513554, 3797108; 513567, 3797110; 513599, 3797116; 513650, 3797107; 513655, 3797103; 513659, 3797103; 513666, 3797099; 513668, 3797098; 513694, 3797083; 513708, 3797069; 513727, 3797057; 513758, 3797027; 513788, 3796985; 513797, 3796978; 513801, 3796976; 513815, 3796968; 513834, 3796962; 513876, 3796962; 513926, 3796970; 513952, 3796981; 513956, 3796985; 513979, 3797000; 514002, 3797019; 514028, 3797035; 514070, 3797061; 514093, 3797069; 514129, 3797075; 514136, 3797079; 514216, 3797087; 514238, 3797082; 514329, 3797076; 514364, 3797073; 514406, 3797069; 514444, 3797046; 514455, 3797019; 514448, 3797004; 514444, 3797001; 514441, 3796991; 514418, 3796945; 514401, 3796935; 514398, 3796928; 514393, 3796914; 514396, 3796911; 514384, 3796831; 514384, 3796806; 514387, 3796798; 514383, 3796764; 514375, 3796741; 514362, 3796721; 514357, 3796709; 514343, 3796691; 514329, 3796661; 514318, 3796650; 514303, 3796631; 514288, 3796623; 514276, 3796625; 514270, 3796622; 514239, 3796625; 514197, 3796645; 514171, 3796637; 514166, 3796635; 514151, 3796626; 514106, 3796587; 514064, 3796561; 514003, 3796519; 513965, 3796488; 513946, 3796458; 513946, 3796457; 513959, 3796433; 513996, 3796392; 514005, 3796381; 514022, 3796370; 514030, 3796350; 514036, 3796343; 514043, 3796339; 514101, 3796309; 514102, 3796309; 514108, 3796307; 514111, 3796304; 514142, 3796287; 514170, 3796255; 514215, 3796208; 514291, 3796164; 514355, 3796119; 514424, 3796055; 514439, 3796024; 514451, 3796009; 514449, 3795971; 514450, 3795964; 514443, 3795894; 514441, 3795891; 514440, 3795890; 514393, 3795830; 514332, 3795801; 514321, 3795800; 514291, 3795789; 514262, 3795785; 514258, 3795783; 514231, 3795781; 514227, 3795781; 514226, 3795781; 514155, 3795776; 514144, 3795785; 514116, 3795789; 514088, 3795817; 514047, 3795891; 514018, 3795938; 514005, 3795973; 513980, 3796014; 513957, 3796046; 513948, 3796055; 513865, 3796109; 513828, 3796145; 513797, 3796168; 513780, 3796186; 513762, 3796200; 513760, 3796201; 513723, 3796230; 513687, 3796286; 513678, 3796295; 513674, 3796304; 513669, 3796313; 513661, 3796338; 513655, 3796353; 513652, 3796365; 513634, 3796408; 513630, 3796430; 513628, 3796432; 513627, 3796434; 513625, 3796439; 513622, 3796448; 513622, 3796451; 513619, 3796455; 513615, 3796461; 513612, 3796466; 513607, 3796471; 513601, 3796475; 513594, 3796479; 513581, 3796480; 513579, 3796481; 513577, 3796481; 513568, 3796491; 513563, 3796494; 513561, 3796495; 513560, 3796500; 513560, 3796506; 513560, 3796508; 513562, 3796511; 513567, 3796513; 513573, 3796517; 513578, 3796520; 513586, 3796523; 513592, 3796524; 513582, 3796530; 513580, 3796555; 513590, 3796564; 513595, 3796566; 513601, 3796566; 513598, 3796573; 513589, 3796592; 513581, 3796602; 513570, 3796605; 513551, 3796618; 513539, 3796656; 513548, 3796669; 513548, 3796676; 513571, 3796707; 513590, 3796760; 513590, 3796810; 513587, 3796851; 513586, 3796856; 513584, 3796863; 513571, 3796887; 513565, 3796881; 513546, 3796877; 513512, 3796881; 513489, 3796900; 513481, 3796923; 513481, 3796924; 513465, 3796924; 513438, 3796920; 513432, 3796923; 513431, 3796922; 513380, 3796910; 513348, 3796878; 513329, 3796849; 513326, 3796805; 513300, 3796757; 513293, 3796749; 513291, 3796739; 513275, 3796710; 513273, 3796706; 513268, 3796698; 513256, 3796676; 513232, 3796652; 513204, 3796636; 513196, 3796629; 513168, 3796629; 513162, 3796631; 513162, 3796628; 513162, 3796619; 513158, 3796609; 513155, 3796603; 513149, 3796597; 513138, 3796593; 513131, 3796584; 513128, 3796581; 513148, 3796577; 513167, 3796562; 513167, 3796528; 513152, 3796516; 513146, 3796511; 513141, 3796511; 513118, 3796501; 513119, 3796501; 513131, 3796493; 513134, 3796488; 513145, 3796482; 513149, 3796466; 513145, 3796450; 513137, 3796434; 513126, 3796434; 513115, 3796429; 513106, 3796427; 513100, 3796425; 513087, 3796427; 513085, 3796426; 513082, 3796427; 513085, 3796425; 513089, 3796424; 513094, 3796423; 513099, 3796421; 513103, 3796421; 513107, 3796420; 513109, 3796419; 513120, 3796414; 513122, 3796411; 513123, 3796407; 513123, 3796401; 513121, 3796389; 513110, 3796387; 513089, 3796387; 513085, 3796387; 513080, 3796383; 513075, 3796378; 513069, 3796376; 513065, 3796378; 513061, 3796380; 513038, 3796401; 513031, 3796403; 513022, 3796403; 513016, 3796403; 513010, 3796404; 513007, 3796408; 512998, 3796427; 512993, 3796432; 512984, 3796432; 512976, 3796431; 512967, 3796430; 512958, 3796430; 512948, 3796431; 512942, 3796435; 512942, 3796440; 512943, 3796447; 512947, 3796453; 512958, 3796458; 512968, 3796460; 512981, 3796461; 512990, 3796462; 512998, 3796461; 513002, 3796462; 513000, 3796463; 512996, 3796465; 512992, 3796472; 512986, 3796477; 512982, 3796485; 512977, 3796493; 512985, 3796499; 512986, 3796501; 512996, 3796509; 513006, 3796518; 513003, 3796519; 513001, 3796524; 513001, 3796528; 513003, 3796531; 513006, 3796533; 513013, 3796536; 513026, 3796540; 513031, 3796543; 513019, 3796558; 513004, 3796600; 513004, 3796623; 513001, 3796637; 513009, 3796690; 513024, 3796717; 513039, 3796763; 513070, 3796797; 513089, 3796843; 513096, 3796872; 513099, 3796901; 513095, 3796915; 513094, 3796917; 513076, 3796939; 513072, 3796962; 513087, 3796975; 513089, 3796980; 513123, 3797003; 513126, 3797015; 513126, 3797031; 513106, 3797069; 513087, 3797088; 513084, 3797137; 513096, 3797163; 513103, 3797175; 513141, 3797195; 513182, 3797197; 513184, 3797197; 513218, 3797201; 513240, 3797201; 513255, 3797202; 513282, 3797202.

(iii) Note: Map of Units ERKA 1 and ERKA 2 (Map 2) follows:

BILLING CODE 4310-55-P

BILLING CODE 4310-55-C

(7) Unit ERKA 3, Big Bear Lake, San Bernardino County, California.

(i) From USGS 1:24,000 quadrangle map Big Bear Lake. Land bounded by the following UTM NAD27 coordinates (E,N): 507777, 3788001; 507780, 3787993; 507783, 3788009; 507791, 3788029; 507801, 3788015; 507806, 3788013; 507806, 3788005; 507811, 3787989; 507811, 3787973; 507811, 3787949; 507810, 3787946; 507810, 3787941; 507807, 3787932; 507806, 3787930; 507804, 3787929; 507803, 3787925; 507802, 3787925; 507790, 3787909; 507764, 3787877; 507732, 3787851; 507704, 3787839; 507688, 3787829; 507686, 3787828; 507682, 3787826; 507682, 3787827; 507678, 3787826; 507674, 3787876; 507666, 3787929; 507659, 3787975; 507659, 3788001; 507669, 3788023; 507682, 3788035; 507707, 3788042; 507729, 3788042; 507752, 3788036; 507767, 3788013; 507769, 3788006; 507777, 3788001.

(ii) Note: Map of Unit ERKA 3 (Map 3) follows:

BILLING CODE 4310-55-P

BILLING CODE 4310-55-C

(8) Units ERKA 4 and ERKA 5. Fawnskin, San Bernardino County, California. From USGS 1:24,000 quadrangle map Fawnskin.

(i) Unit ERKA 4. Land bounded by the following UTM NAD27 coordinates (E,N): 506020, 3792309; 506020, 3792303; 506001, 3792335; 506014, 3792404; 506014, 3792468; 506001, 3792538; 505982, 3792557; 505963, 3792595; 505950, 3792639; 505937, 3792671; 505944, 3792703; 505994, 3792722; 506039, 3792722; 506109, 3792684; 506147, 3792665; 506191, 3792627; 506229, 3792582; 506217, 3792525; 506166, 3792493; 506121, 3792462; 506109, 3792442; 506109, 3792417; 506096, 3792392; 506077, 3792373; 506052, 3792335; 506020, 3792309.

(ii) Unit ERKA 5. Land bounded by the following UTM NAD27 coordinates (E,N): 506636, 3791541; 506604, 3791490; 506547, 3791496; 506534, 3791515; 506515, 3791579; 506522, 3791661; 506502, 3791757; 506490, 3791807; 506502, 3791852; 506547, 3791941; 506579, 3792017; 506610, 3792100; 506629, 3792182; 506649, 3792220; 506668, 3792233; 506687, 3792227; 506680, 3792214; 506693, 3792182; 506706, 3792138; 506712, 3792074; 506725, 3792036; 506706, 3791928; 506680, 3791846; 506674, 3791801; 506674, 3791744; 506668, 3791674; 506655, 3791623; 506636, 3791541.

(iii) Note: Map of Units ERKA 4 and ERKA 5 (Map 4) follows:

BILLING CODE 4310-55-P

BILLING CODE 4310-55-C

(9) Units ERKA 6, ERKA 7, and ERKA 10. Gold Mountain and North Baldwin Lake, San Bernardino County, California. From USGS 1:24,000 quadrangle map Big Bear City.

(i) Unit ERKA 6. Land bounded by the following UTM NAD27 coordinates (E,N): 516297, 3793523; 516342, 3793514; 516374, 3793491; 516405, 3793447; 516412, 3793390; 516424, 3793352; 516421, 3793333; 516437, 3793335; 516450, 3793331; 516463, 3793309; 516466, 3793281; 516465, 3793279; 516475, 3793268; 516469, 3793227; 516447, 3793207; 516421, 3793189; 516380, 3793166; 516345, 3793154; 516311, 3793139; 516272, 3793103; 516244, 3793081; 516215, 3793077; 516187, 3793090; 516206, 3793135; 516202, 3793144; 516207, 3793149; 516196, 3793141; 516172, 3793137; 516163, 3793137; 516157, 3793137; 516154, 3793135; 516147, 3793133; 516132, 3793125; 516128, 3793123; 516109, 3793112; 516096, 3793112; 516095, 3793112; 516081, 3793111; 516065, 3793105; 516045, 3793109; 516017, 3793126; 516016, 3793127; 516006, 3793132; 516003, 3793145; 515998, 3793153; 515995, 3793166; 515988, 3793165; 515980, 3793163; 515971, 3793161; 515961, 3793161; 515956, 3793162; 515943, 3793162; 515926, 3793178; 515919, 3793180; 515912, 3793182; 515905, 3793188; 515899, 3793193; 515893, 3793198; 515884, 3793209; 515881, 3793219; 515879, 3793220; 515793, 3793243; 515732, 3793233; 515685, 3793220; 515647, 3793211; 515577, 3793211; 515536, 3793230; 515507, 3793261; 515501, 3793303; 515501, 3793335; 515542, 3793357; 515586, 3793360; 515625, 3793357; 515666, 3793341; 515707, 3793335; 515761, 3793338; 515809, 3793354; 515828, 3793376; 515851, 3793399; 515851, 3793403; 515848, 3793408; 515845, 3793414; 515844, 3793417; 515842, 3793424; 515842, 3793431; 515843, 3793438; 515839, 3793448; 515845, 3793446; 515849, 3793444; 515856, 3793439; 515860, 3793433; 515872, 3793430; 515873, 3793429; 515879, 3793443; 515901, 3793468; 515904, 3793468; 515910, 3793468; 515917, 3793461; 515921, 3793461; 515935, 3793473; 515980, 3793495; 516015, 3793501; 516082, 3793514; 516132, 3793514; 516212, 3793520; 516262, 3793527; 516297, 3793523.

(ii) Unit ERKA 7. Land bounded by the following UTM NAD27 coordinates (E,N): 516768, 3792969; 516744, 3792965; 516720, 3792965; 516705, 3792961; 516685, 3792953; 516673, 3792949; 516652, 3792935; 516645, 3792926; 516642, 3792923; 516641, 3792918; 516633, 3792898; 516633, 3792891; 516633, 3792891; 516623, 3792868; 516621, 3792864; 516585, 3792863; 516581, 3792865; 516578, 3792862; 516562, 3792870; 516560, 3792871; 516556, 3792871; 516545, 3792873; 516540, 3792875; 516521, 3792875; 516510, 3792864; 516502, 3792855; 516496, 3792848; 516490, 3792840; 516477, 3792833; 516463, 3792824; 516461, 3792822; 516450, 3792804; 516447, 3792800; 516438, 3792788; 516423, 3792784; 516410, 3792780; 516377, 3792769; 516375, 3792768; 516364, 3792763; 516319, 3792740; 516318, 3792740; 516311, 3792737; 516304, 3792731; 516298, 3792731; 516283, 3792725; 516279, 3792728; 516271, 3792727; 516229, 3792731; 516176, 3792758; 516157, 3792773; 516130, 3792803; 516127, 3792815; 516119, 3792849; 516138, 3792891; 516157, 3792925; 516180, 3792952; 516203, 3792979; 516233, 3793009; 516268, 3793036; 516274, 3793041; 516275, 3793055; 516282, 3793087; 516298, 3793112; 516329, 3793125; 516364, 3793131; 516453, 3793154; 516520, 3793160; 516590, 3793166; 516610, 3793155; 516641, 3793150; 516668, 3793139; 516694, 3793116; 516717, 3793093; 516732, 3793074; 516748, 3793055; 516759, 3793039; 516770, 3793024; 516772, 3793012; 516775, 3793010; 516778, 3793004; 516778, 3793004; 516780, 3793001; 516784, 3792993; 516783, 3792989; 516783, 3792987; 516783, 3792987; 516783, 3792987; 516782, 3792985; 516780, 3792983; 516780, 3792981; 516777, 3792979; 516777, 3792978; 516775, 3792975; 516773, 3792971; 516772, 3792971; 516772, 3792971; 516771, 3792971; 516769, 3792970; 516768, 3792969.

(iii) Unit ERKA 10. Land bounded by the following UTM NAD27 coordinates (E,N): 516160, 3795525; 516163, 3795551; 516182, 3795563; 516194, 3795563; 516198, 3795566; 516240, 3795559; 516278, 3795551; 516308, 3795555; 516331, 3795578; 516396, 3795605; 516406, 3795603; 516415, 3795605; 516453, 3795601; 516491, 3795578; 516491, 3795574; 516491, 3795551; 516472, 3795525; 516466, 3795501; 516465, 3795486; 516468, 3795452; 516480, 3795422; 516486, 3795415; 516518, 3795399; 516552, 3795379; 516598, 3795380; 516649, 3795388; 516655, 3795391; 516654, 3795425; 516658, 3795442; 516685, 3795452; 516698, 3795449; 516708, 3795431; 516716, 3795406; 516765, 3795429; 516807, 3795448; 516810, 3795448; 516834, 3795456; 516857, 3795452; 516906, 3795429; 516933, 3795410; 516960, 3795383; 516971, 3795361; 516986, 3795334; 517009, 3795299; 517032, 3795262; 517063, 3795223; 517097, 3795181; 517110, 3795163; 517131, 3795140; 517165, 3795101; 517184, 3795090; 517207, 3795083; 517211, 3795082; 517269, 3795104; 517278, 3795133; 517272, 3795170; 517264, 3795193; 517230, 3795239; 517196, 3795288; 517154, 3795349; 517150, 3795370; 517146, 3795376; 517139, 3795399; 517141, 3795414; 517139, 3795425; 517146, 3795448; 517154, 3795471; 517211, 3795517; 517245, 3795521; 517314, 3795517; 517360, 3795509; 517381, 3795485; 517386, 3795479; 517388, 3795476; 517402, 3795460; 517413, 3795433; 517440, 3795387; 517460, 3795371; 517489, 3795353; 517506, 3795341; 517520, 3795334; 517584, 3795315; 517611, 3795292; 517653, 3795261; 517672, 3795219; 517699, 3795159; 517718, 3795115; 517749, 3795078; 517759, 3795070; 517786, 3795052; 517809, 3795029; 517840, 3794999; 517841, 3794997; 517851, 3794987; 517882, 3794923; 517908, 3794881; 517917, 3794871; 517939, 3794854; 517981, 3794819; 518023, 3794812; 518038, 3794812; 518095, 3794819; 518152, 3794816; 518155, 3794815; 518171, 3794816; 518202, 3794804; 518251, 3794778; 518339, 3794755; 518411, 3794732; 518461, 3794724; 518461, 3794713; 518457, 3794698; 518442, 3794683; 518439, 3794680; 518438, 3794679; 518415, 3794652; 518458, 3794642; 518462, 3794598; 518443, 3794587; 518438, 3794583; 518413, 3794573; 518371, 3794577; 518322, 3794586; 518279, 3794597; 518246, 3794608; 518230, 3794614; 518206, 3794614; 518133, 3794617; 518117, 3794619; 518097, 3794610; 518097, 3794615; 518097, 3794618; 518098, 3794621; 518069, 3794625; 518061, 3794625; 518045, 3794627; 518046, 3794602; 518045, 3794602; 518039, 3794605; 518034, 3794609; 518019, 3794610; 518017, 3794611; 518019, 3794605; 518019, 3794589; 518012, 3794567; 517993, 3794554; 517968, 3794567; 517946, 3794573; 517936, 3794560; 517920, 3794548; 517914, 3794549; 517917, 3794545; 517924, 3794535; 517931, 3794526; 517939, 3794516; 517948, 3794503; 517954, 3794493; 517959, 3794482; 517964, 3794473; 517964, 3794468; 517959, 3794461; 517950, 3794456; 517934, 3794458; 517923, 3794462; 517905, 3794469; 517892, 3794475; 517882, 3794478; 517869, 3794480; 517852, 3794480; 517859, 3794462; 517866, 3794439; 517889, 3794413; 517927, 3794397; 517988, 3794404; 518030, 3794416; 518087, 3794439; 518110, 3794450; 518141, 3794473; 518187, 3794489; 518187, 3794490; 518222, 3794509; 518263, 3794506; 518311, 3794497; 518358, 3794490; 518419, 3794490; 518476, 3794493; 518481, 3794494; 518521, 3794504; 518558, 3794517; 518564, 3794521; 518569, 3794521; 518583, 3794526; 518586, 3794527; 518612, 3794538; 518617, 3794537; 518631, 3794533; 518632, 3794534; 518633, 3794533; 518663, 3794526; 518666, 3794509; 518673, 3794503; 518666, 3794484; 518666, 3794453; 518652, 3794447; 518644, 3794435; 518627, 3794432; 518620, 3794430; 518617, 3794427; 518602, 3794424; 518587, 3794421; 518565, 3794411; 518549, 3794409; 518508, 3794396; 518507, 3794395; 518505, 3794395; 518499, 3794393; 518457, 3794385; 518453, 3794385; 518428, 3794373; 518387, 3794376; 518358, 3794379; 518338, 3794383; 518327, 3794381; 518297, 3794362; 518273, 3794328; 518272, 3794325; 518277, 3794321; 518281, 3794312; 518281, 3794302; 518281, 3794291; 518279, 3794282; 518279, 3794278; 518293, 3794271; 518316, 3794259; 518369, 3794248; 518415, 3794244; 518426, 3794242; 518442, 3794241; 518455, 3794236; 518468, 3794233; 518507, 3794221; 518533, 3794195; 518541, 3794175; 518552, 3794157; 518554, 3794145; 518560, 3794134; 518558, 3794126; 518560, 3794115; 518552, 3794092; 518539, 3794081; 518529, 3794065; 518480, 3794069; 518474, 3794071; 518446, 3794073; 518407, 3794092; 518373, 3794111; 518312, 3794145; 518305, 3794152; 518297, 3794157; 518280, 3794177; 518270, 3794183; 518251, 3794179; 518221, 3794179; 518175, 3794164; 518142, 3794157; 518099, 3794141; 518065, 3794130; 518030, 3794122; 517965, 3794115; 517927, 3794103; 517901, 3794092; 517878, 3794093; 517863, 3794088; 517830, 3794088; 517836, 3794390; 517634, 3794390; 517639, 3794589; 517192, 3794589; 517160, 3794606; 517141, 3794622; 517130, 3794635; 517123, 3794641; 517120, 3794653; 517119, 3794657; 517112, 3794663; 517070, 3794705; 517068, 3794708; 517063, 3794711; 517052, 3794723; 517046, 3794727; 517042, 3794731; 517041, 3794732; 517036, 3794736; 517030, 3794739; 517025, 3794739; 517020, 3794742; 517019, 3794742; 517014, 3794745; 517009, 3794751; 517014, 3794755; 517025, 3794753; 517041, 3794746; 517040, 3794749; 516998, 3794804; 516956, 3794839; 516952, 3794841; 516906, 3794865; 516883, 3794884; 516856, 3794905; 516851, 3794907; 516849, 3794897; 516839, 3794910; 516811, 3794919; 516735, 3794926; 516686, 3794937; 516674, 3794938; 516657, 3794947; 516643, 3794953; 516613, 3794973; 516582, 3794991; 516573, 3795005; 516567, 3795010; 516548, 3795037; 516525, 3795059; 516522, 3795063; 516487, 3795098; 516483, 3795101; 516472, 3795119; 516461, 3795136; 516443, 3795164; 516430, 3795185; 516420, 3795212; 516419, 3795216; 516396, 3795265; 516377, 3795311; 516365, 3795341; 516346, 3795368; 516304, 3795399; 516259, 3795433; 516198, 3795471; 516175, 3795494; 516167, 3795501; 516168, 3795507; 516160, 3795525.

(iv) Note: Map of Units ERKA 6, ERKA 7, and ERKA 10 (Map 5) follows:

BILLING CODE 4310-55-P

BILLING CODE 4310-55-C

(10) Units ERKA 8 and ERKA 9. Holcomb Valley, San Bernardino County, California. From USGS 1:24,000 quadrangle map Fawnskin.

(i) Unit ERKA 8. Land bounded by the following UTM NAD27 coordinates (E,N): 506727, 3796049; 506738, 3796035; 506743, 3796031; 506761, 3796001; 506765, 3795985; 506767, 3795981; 506783, 3795942; 506785, 3795915; 506787, 3795910; 506790, 3795878; 506784, 3795872; 506782, 3795867; 506779, 3795843; 506773, 3795840; 506772, 3795835; 506767, 3795833; 506752, 3795821; 506730, 3795818; 506689, 3795818; 506663, 3795823; 506634, 3795825; 506624, 3795837; 506612, 3795847; 506606, 3795854; 506597, 3795862; 506571, 3795881; 506571, 3795883; 506557, 3795893; 506544, 3795910; 506529, 3795930; 506530, 3795930; 506528, 3795934; 506565, 3795933; 506565, 3795935; 506574, 3795964; 506600, 3795986; 506635, 3796001; 506633, 3796023; 506631, 3796041; 506632, 3796041; 506644, 3796045; 506663, 3796042; 506681, 3796042; 506707, 3796045; 506715, 3796049; 506727, 3796049. Land bounded by the following UTM NAD27 coordinates (E,N): 506666, 3795511; 506661, 3795481; 506647, 3795471; 506625, 3795463; 506622, 3795462; 506612, 3795476; 506604, 3795484; 506602, 3795500; 506591, 3795480; 506584, 3795455; 506569, 3795435; 506569, 3795428; 506562, 3795409; 506556, 3795389; 506547, 3795351; 506537, 3795317; 506532, 3795310; 506524, 3795303; 506512, 3795298; 506504, 3795291; 506495, 3795298; 506492, 3795307; 506487, 3795328; 506483, 3795347; 506477, 3795372; 506472, 3795393; 506470, 3795416; 506466, 3795433; 506463, 3795457; 506468, 3795488; 506472, 3795510; 506474, 3795533; 506477, 3795567; 506485, 3795593; 506494, 3795624; 506507, 3795657; 506517, 3795687; 506534, 3795715; 506555, 3795736; 506549, 3795747; 506552, 3795771; 506564, 3795799; 506572, 3795807; 506600, 3795819; 506616, 3795811; 506617, 3795807; 506620, 3795805; 506635, 3795794; 506639, 3795763; 506641, 3795759; 506670, 3795753; 506695, 3795750; 506705, 3795731; 506695, 3795712; 506690, 3795703; 506692, 3795687; 506687, 3795672; 506679, 3795655; 506689, 3795626; 506705, 3795598; 506708, 3795575; 506689, 3795550; 506677, 3795540; 506676, 3795537; 506666, 3795511.

(ii) Unit ERKA 9. Land bounded by the following UTM NAD27 coordinates (E,N): 509943, 3794740; 509997, 3794674; 510070, 3794623; 510076, 3794591; 510073, 3794585; 510044, 3794562; 510003, 3794556; 510054, 3794518; 510105, 3794477; 510124, 3794477; 510194, 3794473; 510219, 3794442; 510222, 3794391; 510168, 3794347; 510105, 3794283; 510067, 3794201; 510054, 3794162; 510013, 3794124; 509999, 3794124; 509999, 3794118; 509996, 3794110; 509991, 3794106; 509987, 3794102; 509981, 3794099; 509975, 3794097; 509968, 3794095; 509961, 3794096; 509955, 3794096; 509950, 3794098; 509946, 3794101; 509940, 3794109; 509940, 3794115; 509940, 3794122; 509943, 3794131; 509947, 3794139; 509911, 3794159; 509908, 3794173; 509894, 3794173; 509886, 3794181; 509874, 3794221; 509894, 3794256; 509914, 3794284; 509943, 3794302; 509943, 3794305; 509893, 3794327; 509858, 3794375; 509839, 3794404; 509807, 3794445; 509782, 3794480; 509747, 3794531; 509668, 3794579; 509639, 3794617; 509643, 3794633; 509635, 3794642; 509648, 3794660; 509649, 3794664; 509664, 3794674; 509668, 3794674; 509674, 3794667; 509680, 3794664; 509682, 3794659; 509737, 3794651; 509797, 3794623; 509800, 3794620; 509787, 3794641; 509771, 3794660; 509747, 3794684; 509743, 3794708; 509747, 3794731; 509755, 3794743; 509775, 3794743; 509791, 3794735; 509806, 3794729; 509803, 3794743; 509822, 3794772; 509902, 3794759; 509943, 3794740.

(iii) Note: Units ERKA 8 and ERKA 9 (Map 6) follows:

BILLING CODE 4310-55-P

BILLING CODE 4310-55-C

(11) Units ERKA 11 and ERKA 12. Sawmill, San Bernardino County, California. From USGS 1:24, 000 quadrangle maps Big Bear City and Moonridge.

(i) Unit ARUR 13. Land bounded by the following UTM NAD27 coordinates (E,N): 514010, 3788419; 513955, 3788406; 513936, 3788404; 513891, 3788404; 513855, 3788412; 513831, 3788423; 513803, 3788431; 513777, 3788444; 513756, 3788453; 513744, 3788464; 513731, 3788473; 513761, 3788481; 513764, 3788488; 513768, 3788499; 513787, 3788551; 513781, 3788561; 513779, 3788566; 513777, 3788572; 513775, 3788579; 513777, 3788585; 513784, 3788591; 513809, 3788609; 513815, 3788611; 513820, 3788612; 513823, 3788612; 513837, 3788627; 513843, 3788649; 513843, 3788659; 513842, 3788660; 513830, 3788680; 513826, 3788709; 513821, 3788716; 513811, 3788742; 513789, 3788818; 513789, 3788865; 513789, 3788897; 513789, 3788923; 513776, 3788948; 513761, 3788973; 513742, 3788986; 513735, 3789005; 513719, 3789024; 513703, 3789050; 513697, 3789059; 513691, 3789069; 513678, 3789094; 513665, 3789113; 513653, 3789135; 513652, 3789137; 513648, 3789140; 513624, 3789156; 513620, 3789168; 513604, 3789184; 513600, 3789208; 513606, 3789220; 513606, 3789228; 513608, 3789229; 513581, 3789259; 513591, 3789262; 513601, 3789262; 513605, 3789257; 513608, 3789253; 513611, 3789247; 513621, 3789233; 513636, 3789235; 513645, 3789230; 513648, 3789234; 513652, 3789230; 513658, 3789229; 513662, 3789230; 513670, 3789236; 513674, 3789239; 513679, 3789244; 513686, 3789364; 513695, 3789377; 513704, 3789381; 513715, 3789379; 513719, 3789377; 513728, 3789372; 513730, 3789357; 513724, 3789335; 513743, 3789335; 513747, 3789335; 513763, 3789331; 513766, 3789326; 513772, 3789321; 513778, 3789313; 513781, 3789306; 513783, 3789303; 513783, 3789275; 513778, 3789268; 513778, 3789266; 513776, 3789263; 513753, 3789217; 513753, 3789214; 513750, 3789205; 513748, 3789194; 513745, 3789182; 513744, 3789171; 513744, 3789168; 513759, 3789161; 513765, 3789157; 513772, 3789154; 513780, 3789137; 513792, 3789126; 513793, 3789113; 513798, 3789111; 513804, 3789105; 513812, 3789102; 513826, 3789091; 513836, 3789093; 513846, 3789090; 513853, 3789083; 513854, 3789059; 513850, 3789053; 513878, 3789041; 513902, 3789017; 513905, 3789013; 513906, 3789010; 513913, 3789005; 513913, 3789001; 513918, 3788993; 513918, 3788973; 513923, 3788961; 513919, 3788942; 513926, 3788919; 513935, 3788882; 513948, 3788850; 513957, 3788824; 513964, 3788796; 513957, 3788729; 513945, 3788701; 513938, 3788672; 513935, 3788640; 513948, 3788599; 513964, 3788577; 513986, 3788561; 513992, 3788542; 513999, 3788507; 514008, 3788472; 514021, 3788448; 514027, 3788437; 514027, 3788419.

(ii) Unit ARUR 14. Land bounded by the following UTM NAD27 coordinates (E,N): 515023, 3789730; 515031, 3789764; 515027, 3789815; 515027, 3789875; 515029, 3789884; 515029, 3789895; 515034, 3789907; 515034, 3789909; 515035, 3789912; 515037, 3789923; 515053, 3789964; 515054, 3789966; 515058, 3789977; 515063, 3789983; 515066, 3789986; 515069, 3789988; 515077, 3789997; 515092, 3789990; 515094, 3789989; 515104, 3789979; 515113, 3789974; 515120, 3789962; 515128, 3789941; 515137, 3789925; 515140, 3789915; 515142, 3789911; 515153, 3789887; 515153, 3789881; 515156, 3789875; 515148, 3789851; 515132, 3789851; 515116, 3789851; 515113, 3789850; 515104, 3789865; 515098, 3789869; 515091, 3789873; 515089, 3789873; 515077, 3789867; 515066, 3789856; 515069, 3789834; 515073, 3789814; 515077, 3789790; 515085, 3789759; 515088, 3789732.

(iii) Note: Units ERKA 11 and ERKA 12 (Map 7) follows:

BILLING CODE 4310-55-P

BILLING CODE 4310-55-C

(12) Unit ERKA 13. South Baldwin Ridge/Erwin Lake, San Bernardino County, California.

(i) From USGS 1:24,000 quadrangle map Big Bear City. Land bounded by the following UTM NAD27 coordinates (E,N): 518798, 3790531; 518814, 3790499; 518836, 3790501; 518883, 3790501; 518891, 3790493; 518942, 3790490; 519022, 3790477; 519063, 3790455; 519104, 3790439; 519114, 3790429; 519108, 3790395; 519085, 3790359; 519057, 3790347; 519012, 3790344; 518955, 3790357; 518923, 3790404; 518900, 3790419; 518911, 3790389; 518923, 3790370; 518907, 3790346; 518876, 3790342; 518839, 3790342; 518822, 3790331; 518821, 3790331; 518820, 3790320; 518800, 3790313; 518797, 3790307; 518792, 3790302; 518776, 3790291; 518766, 3790295; 518764, 3790297; 518763, 3790296; 518744, 3790298; 518740, 3790308; 518737, 3790313; 518724, 3790318; 518725, 3790327; 518714, 3790333; 518716, 3790337; 518707, 3790343; 518699, 3790340; 518697, 3790342; 518695, 3790345; 518693, 3790346; 518691, 3790351; 518685, 3790353; 518683, 3790359; 518682, 3790364; 518683, 3790368; 518698, 3790377; 518704, 3790378; 518712, 3790375; 518707, 3790379; 518666, 3790392; 518637, 3790398; 518629, 3790391; 518618, 3790391; 518613, 3790387; 518613, 3790385; 518611, 3790382; 518605, 3790378; 518600, 3790374; 518591, 3790377; 518580, 3790376; 518568, 3790381; 518553, 3790380; 518545, 3790386; 518540, 3790382; 518541, 3790379; 518541, 3790375; 518542, 3790373; 518540, 3790371; 518538, 3790371; 518535, 3790374; 518533, 3790378; 518531, 3790382; 518530, 3790387; 518529, 3790392; 518530, 3790397; 518532, 3790400; 518536, 3790400; 518542, 3790399; 518550, 3790401; 518553, 3790401; 518563, 3790404; 518567, 3790405; 518568, 3790403; 518570, 3790401; 518574, 3790401; 518577, 3790399; 518583, 3790401; 518590, 3790403; 518596, 3790399; 518596, 3790397; 518597, 3790397; 518602, 3790395; 518604, 3790398; 518607, 3790400; 518609, 3790402; 518610, 3790404; 518602, 3790406; 518597, 3790409; 518586, 3790409; 518562, 3790429; 518582, 3790445; 518597, 3790453; 518595, 3790463; 518574, 3790467; 518561, 3790460; 518541, 3790453; 518503, 3790453; 518490, 3790477; 518517, 3790511; 518551, 3790531; 518632, 3790551; 518686, 3790571; 518720, 3790579; 518740, 3790579; 518764, 3790562; 518798, 3790531.

(ii) Note: Map of Unit ERKA 13 (Map 8) follows:

BILLING CODE 4310-55-P

* * * * *

Dated: December 7, 2007.
David M. Verhey,
Acting Assistant Secretary for Fish and Wildlife and Parks.

[FR Doc. 07-6137 Filed 12-21-07; 8:45 am]

BILLING CODE 4310-55-C